DEPARTMENT OF THE TREASURY

Alcohol and Tobacco Tax and Trade Bureau

27 CFR Parts 1, 4, 5, 6, 7, 8, 9, 10, 11, 12, 13, 16, 17, 18, 19, 20, 21, 22, 24, 25, 26, 27, 28, 29, 30, 31, 40, 44, 45, 46, 53, 70, and 71

[T.D. TTB-44]

RIN 1513-AA80

Administrative Changes to Alcohol, Tobacco and Firearms Regulations Due to the Homeland Security Act of 2002

AGENCY: Alcohol and Tobacco Tax and Trade Bureau (TTB), Treasury.

ACTION: Final rule; Treasury decision.

SUMMARY: The Homeland Security Act of 2002 divided the Bureau of Alcohol, Tobacco and Firearms, Department of the Treasury, into two separate agencies, the Bureau of Alcohol, Tobacco, Firearms and Explosives in the Department of Justice, and the Alcohol and Tobacco Tax and Trade Bureau in the Department of the Treasury. This final rule amends the Alcohol and Tobacco Tax and Trade Bureau regulations to reflect the Bureau's new name and organizational structure.

DATES: This rule is effective on March 31, 2006.

FOR FURTHER INFORMATION CONTACT: Lisa M. Gesser, Regulations and Rulings Division, Alcohol and Tobacco Tax and Trade Bureau, P.O. Box 128, Morganza, MD 20660; telephone 301-290-1460 or e-mail Lisa.Gesser@ttb.gov.

SUPPLEMENTARY INFORMATION:

Background

Homeland Security Act of 2002

On November 25, 2002, the President signed into law the Homeland Security Act of 2002, Public Law 107-296, 116 Stat. 2135 (the Act). Effective on January 24, 2003, section 1111 of the Act transferred the “authorities, functions, personnel, and assets” of the Bureau of Alcohol, Tobacco and Firearms, Department of the Treasury, to the Department of Justice, with the exception of certain enumerated authorities retained by the Department of the Treasury. The authorities retained by the Secretary of the Treasury under section 1111(c)(2) of the Act include the administration and enforcement of chapters 51 and 52 of the Internal Revenue Code, sections 4181 and 4182 of the Internal Revenue Code, and title 27 of the United States Code.

To administer the authorities retained by the Secretary of the Treasury, section 1111 of the Act also created the Tax and Trade Bureau within the Department of the Treasury. Treasury Order No. 120-01 (Revised), dated January 24, 2003, designated the Tax and Trade Bureau as the Alcohol and Tobacco Tax and Trade Bureau (TTB) and directed that the head of TTB is the Administrator who shall exercise the authorities, perform the functions, and carry out the duties of the Secretary in the administration and enforcement of the laws cited in section 1111(c)(2) of the Act.

Publication of T.D. ATF-487, OLC No. 01-03

On January 24, 2003, the Department of the Treasury and the Department of Justice jointly published in the Federal Register (68 FR 3744), as T.D. ATF-487 and OLC No. 01-03, a document entitled “Reorganization of Title 27, Code of Federal Regulations.” That document divided into two chapters the regulations contained in title 27 of the Code of Federal Regulations (CFR), entitled “Alcohol, Tobacco Products and Firearms,” by establishing in title 27 a new chapter II entitled “Bureau of Alcohol, Tobacco, Firearms and Explosives, Department of Justice” and placing, in that new chapter II, four existing parts and one existing subpart that concerned functions transferred by the Act to the Department of Justice. The other existing provisions were retained in chapter I of title 27, which was re-titled “Alcohol and Tobacco Tax and Trade Bureau, Department of the Treasury.”

Administrative Changes in This Final Rule

With the exception of parts 28, 31, and 41, for which nomenclature and organizational conforming changes were previously made, this final rule amends those parts retained in 27 CFR chapter I that require changes to conform them to the name and organizational structure of TTB. Specifically, we are either removing references to the former Bureau of Alcohol, Tobacco and Firearms or replacing them with the appropriate TTB references. For example, we are changing the references to the “Bureau of Alcohol, Tobacco and Firearms,” “ATF,” and “Director” to “Alcohol and Tobacco Tax and Trade Bureau,” “TTB,” and “Administrator,” respectively. We are also amending mailing addresses to reflect the Bureau's new locations.

For consistency, we are changing references to “ATF” forms to “TTB” forms even though some of our forms have not yet been updated to reflect TTB's name and organization. Any reference to a “TTB” form in the regulations should be considered a reference to the corresponding form having the same number preceded by “ATF.” We will continue to accept those “ATF” forms until each form is appropriately modified and existing stocks of the old form are depleted.

In this final rule, we also remove each specific title of the person having delegated authority in the texts of 27 CFR parts 19, 40, and 71 and add, in its place in each case, a reference to the “appropriate TTB officer,” consistent with the approach taken in the other parts of the TTB regulations. We also revise the delegation of authority sections in parts 28 and 40 to conform them to the wording of similar sections elsewhere in the regulations. We also add a new delegation of authority section to parts 19, 31, and 71, and we revise the definition of “appropriate TTB officer” in part 31 to conform to the wording used in other parts of the regulations.

TTB also has executed delegation orders pertaining to those parts of the TTB regulations that require delegations of the Administrator's authority. With reference to each relevant regulatory provision within the part in question, each delegation order defines the “appropriate TTB officer” to whom the TTB Administrator delegates authority for purposes of the part. The promulgation of a separate delegation instrument for each part will simplify the process for determining which TTB officer is authorized to perform a particular function and will facilitate any future updating of these delegation orders. The texts of the delegation orders will be published in the Federal Register and will be maintained on the TTB Web site (http://www.ttb.gov).

The administrative changes referred to above make no substantive changes to the regulations that will affect a member of the public.

Regulatory Flexibility Act

Because this final rule is not required to be preceded by a notice of proposed rulemaking, the provisions of the Regulatory Flexibility Act (5 U.S.C. 601 et seq.) do not apply.

Executive Order 12866

This final rule is not a significant regulatory action as defined in Executive Order 12866. Accordingly, this final rule is not subject to the analysis this Executive Order requires.

Inapplicability of Prior Notice and Comment and Delayed Effective Date Procedures

Because this final rule merely makes technical or conforming nonsubstantive amendments to the regulations to reflect the new name and organizational structure of TTB, no notice of proposed rulemaking and public comment period are required under 5 U.S.C. 553(b)(B). For the same reason, this final rule is not subject to the delayed effective date requirement of 5 U.S.C. 553(d).

Drafting Information

The principal authors of this document were Lisa M. Gesser and Joanne C. Brady, Regulations and Rulings Division, Alcohol and Tobacco Tax and Trade Bureau.

List of Subjects

27 CFR Part 1

Administrative practice and procedure, Alcohol and alcoholic beverages, Imports, Liquors, Packaging and containers, Warehouses, Wine.

27 CFR Part 4

Advertising, Customs duties and inspection, Imports, Labeling, Packaging and containers, Reporting and recordkeeping requirements, Trade practices, Wine.

27 CFR Part 5

Advertising, Customs duties and inspection, Imports, Labeling, Liquors, Packaging and containers, Reporting and recordkeeping requirements, Trade practices.

27 CFR Part 6

Advertising, Alcohol and alcoholic beverages, Credit, Reporting and recordkeeping requirements, Trade practices.

27 CFR Part 7

Advertising, Beer, Customs duties and inspection, Imports, Labeling, Reporting and recordkeeping requirements, Trade practices.

27 CFR Part 8

Alcohol and alcoholic beverages, Trade practices.

27 CFR Part 9

Administrative practices and procedures, Consumer protection, Viticultural areas, and Wine.

27 CFR Part 10

Alcohol and alcoholic beverages, Trade practices.

27 CFR Part 11

Alcohol and alcoholic beverages, Trade practices.

27 CFR Part 12

Imports, Labeling, Wine.

27 CFR Part 13

Administrative practice and procedure, Alcohol and alcoholic beverages, Labeling.

27 CFR Part 16

Alcohol and alcoholic beverages, Consumer protection, Health, Labeling, Penalties.

27 CFR Part 17

Administrative practice and procedure, Claims, Cosmetics, Customs duties and inspection, Drugs, Excise taxes, Exports, Imports, Liquors, Packaging and containers, Puerto Rico, Reporting and recordkeeping requirements, Spices flavorings, Surety bonds, Virgin Islands.

27 CFR Part 18

Alcohol and alcoholic beverages, Fruits, Reporting and recordkeeping requirements, Spices and flavorings.

27 CFR Part 19

Caribbean Basin Initiative, Claims, Electronic funds transfers, Excise taxes, Exports, Gasohol, Imports, Labeling, Liquors, Packaging and containers, Puerto Rico, Reporting and recordkeeping requirements, Research, Security measures, Surety bonds, Vinegar, Virgin Islands, Warehouses.

27 CFR Part 20

Alcohol and alcoholic beverages, Claims, Cosmetics, Excise taxes, Labeling, Packaging and containers, Penalties, Reporting and recordkeeping requirements, Surety bonds.

27 CFR Part 21

Alcohol and alcoholic beverages.

27 CFR Part 22

Administrative practice and procedure, Alcohol and alcoholic beverages, Excise taxes, Reporting and recordkeeping requirements, Surety bonds.

27 CFR Part 24

Administrative practice and procedure, Claims, Electronic funds transfers, Excise taxes, Exports, Food additives, Fruit juices, Labeling, Liquors, Packaging and containers, Reporting and recordkeeping requirements, Research, Scientific equipment, Spices and flavorings, Surety bonds, Vinegar, Warehouses, Wine.

27 CFR Part 25

Beer, Claims, Electronic funds transfers, Excise taxes, Exports, Labeling, Packaging and containers, Reporting and recordkeeping requirements, Research, Surety bonds.

27 CFR Part 26

Alcohol and alcoholic beverages, Caribbean Basin Initiative, Claims, Customs duties and inspection, Electronic funds transfers, Excise taxes, Packaging and containers, Puerto Rico, Reporting and recordkeeping requirements, Surety bonds, Virgin Islands, Warehouses.

27 CFR Part 27

Alcohol and alcoholic beverages, Beer, Cosmetics, Customs duties and inspection, Electronic funds transfers, Excise taxes, Imports, Labeling, Liquors, Packaging and containers, Reporting and recordkeeping requirements, Wine.

27 CFR Part 28

Aircraft, Alcohol and alcoholic beverages, Armed forces, Beer, Claims, Excise taxes, Exports, Foreign trade zones, Labeling, Liquors, Packaging and containers, Reporting and recordkeeping requirements, Surety bonds, Vessels, Warehouses, Wine.

27 CFR Part 29

Alcohol and alcoholic beverages, Authority delegations, Distilled spirits, Liquors, Packaging and containers, Penalties, Reporting and recordkeeping requirements, Seizures and forfeitures, Stills.

27 CFR Part 30

Liquors, Scientific equipment.

27 CFR Part 31

Alcohol and alcoholic beverages, Claims, Excise taxes, Exports, Packaging and containers, Reporting and recordkeeping requirements.

27 CFR Part 40

Cigars and cigarettes, Claims, Electronic funds transfers, Excise taxes, Imports, Labeling, Packaging and containers, Reporting and recordkeeping requirements, Surety bonds, Tobacco.

27 CFR Part 44

Aircraft, Armed forces, Cigars and cigarettes, Claims, Customs duties and inspection, Excise taxes, Exports, Foreign trade zones, Labeling, Packaging and containers, Reporting and recordkeeping requirements, Surety bonds, Tobacco, Vessels, Warehouses.

27 CFR Part 45

Cigars and cigarettes, Excise taxes, Labeling, Packaging and containers, Reporting and recordkeeping requirements, Tobacco.

27 CFR Part 46

Cigars and cigarettes, Claims, Excise taxes, Penalties, Reporting and recordkeeping requirements, Seizures and forfeitures, Surety bonds, Tobacco.

27 CFR Part 53

Arms and munitions, Electronic funds transfers, Excise taxes, Exports, Imports, Reporting and recordkeeping requirements.

27 CFR Part 70

Administrative practice and procedure, Claims, Excise taxes, Freedom of information, Law enforcement, Penalties, Reporting and recordkeeping requirements, Surety bonds.

27 CFR Part 71

Administrative practice and procedure, Alcohol and alcoholic beverages, Tobacco.

Amendments to the Regulations

TTB amends chapter I of title 27 of the Code of Federal Regulations as follows:

PART 1—BASIC PERMIT REQUIREMENTS UNDER THE FEDERAL ALCOHOL ADMINISTRATION ACT, NONINDUSTRIAL USE OF DISTILLED SPIRITS AND WINE, BULK SALES AND BOTTLING OF DISTILLED SPIRITS

1. The authority citation for part 1 continues to read as follows:

Authority: 27 U.S.C. 203, 204, 206, 211 unless otherwise noted.

2. Amend § 1.3 as follows:

a. In paragraph (a) remove the reference to “ATF” and add, in its place, a reference to “TTB”.

b. Revise paragraph (b) to read as follows:

§ 1.3 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

3. Revise § 1.4 to read as follows:

§ 1.4 Delegations of the Administrator.

Most of the regulatory authorities of the Administrator contained in this part are delegated to appropriate TTB officers. These TTB officers are specified in TTB Order 1135.1, Delegation of the Administrator's Authorities in 27 CFR Part 1, Basic Permit Requirements Under the Federal Alcohol Administration Act, Nonindustrial Use of Distilled Spirits and Wine, Bulk Sales and Bottling of Distilled Spirits. You may obtain a copy of this order by accessing the TTB Web site (http://www.ttb.gov) or by mailing a request to the Alcohol and Tobacco Tax and Trade Bureau, National Revenue Center, 550 Main Street, Room 1516, Cincinnati, OH 45202.

4. Amend § 1.10 as follows:

a. Add, in alphabetical order, definitions of “Administrator” and “Appropriate TTB officer”.

b. In the definition of “Applicant” remove the reference to “ATF” and add, in its place, a reference to “TTB”.

c. Remove the definitions of “Appropriate ATF officer” and “Director”:

§ 1.10 Meaning of terms.

* * * * *

Administrator. The Administrator, Alcohol and Tobacco Tax and Trade Bureau, Department of the Treasury, Washington, DC.

* * * * *

Appropriate TTB officer. An officer or employee of the Alcohol and Tobacco Tax and Trade Bureau (TTB) authorized to perform any functions relating to the administration or enforcement of this part by TTB Order 1135.1, Delegation of the Administrator's Authorities in 27 CFR Part 1, Basic Permit Requirements Under the Federal Alcohol Administration Act, Nonindustrial Use of Distilled Spirits and Wine, Bulk Sales and Bottling of Distilled Spirits.

* * * * *

§§ 1.24, 1.25, 1.27, 1.31, 1.35, 1.42, 1.50, 1.51, 1.52, 1.55, 1.56, 1.58, and 1.59 [Amended]

5. Amend the above sections as follows:

Amend: | by removing: | and replacing it with:
§ 1.24, introductory text (two times) | ATF | TTB.
§ 1.25 (two times) ATF TTB | ATF | TTB.
§ 1.27 | ATF | TTB.
§ 1.31 (two times) | ATF | TTB.
§ 1.35 (two times) | ATF | TTB.
§ 1.35 | Director | Administrator.
§ 1.42 (three times) | ATF | TTB.
§ 1.50 (two times) | ATF | TTB.
§ 1.51 (two times) | ATF | TTB.
§ 1.52 | ATF | TTB.
§ 1.55 | ATF | TTB.
§ 1.56(b) | ATF | TTB.
§ 1.58 | ATF | TTB.
§ 1.59, introductory text (two times) | ATF | TTB.
§ 1.59(c) (three times) | ATF | TTB.
§ 1.59(c) | Director | Administrator.

PART 4—LABELING AND ADVERTISING OF WINE

6. The authority citation for part 4 continues to read as follows:

Authority: 27 U.S.C. 205, unless otherwise noted.

7. Amend § 4.3 as follows:

a. In paragraph (a) remove the reference to “ATF” and add, in its place, a reference to “TTB”.

b. Revise paragraph (b) to read as follows:

§ 4.3 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

8. Revise § 4.4 to read as follows:

§ 4.4 Delegations of the Administrator.

Most of the regulatory authorities of the Administrator contained in this part are delegated to appropriate TTB officers. These TTB officers are specified in TTB Order 1135.4, Delegation of the Administrator's Authorities in 27 CFR Part 4, Labeling and Advertising of Wine. You may obtain a copy of this order by accessing the TTB Web site (http://www.ttb.gov) or by mailing a request to the Alcohol and Tobacco Tax and Trade Bureau, National Revenue Center, 550 Main Street, Room 1516, Cincinnati, OH 45202.

9. Amend § 4.10 as follows:

a. Remove the definitions of “Appropriate ATF officer” and “Director”.

b. Add, in alphabetical order, definitions of “Administrator” and “Appropriate TTB officer” to read as follows:

§ 4.10 Meaning of terms.

* * * * *

Administrator. The Administrator, Alcohol and Tobacco Tax and Trade Bureau, Department of the Treasury, Washington, DC.

* * * * *

Appropriate TTB officer. An officer or employee of the Alcohol and Tobacco Tax and Trade Bureau (TTB) authorized to perform any functions relating to the administration or enforcement of this part by TTB Order 1135.4, Delegation of the Administrator's Authorities in 27 CFR Part 4, Labeling and Advertising of Wine.

* * * * *

§§ 4.21, 4.23, 4.24, 4.25, 4.30, 4.33, 4.37, 4.38, 4.39, 4.40, 4.50, 4.52, 4.64, 4.91, and 4.93 [Amended]

10. Amend the above sections as follows:

Amend: | by removing: | and replacing it with:
§ 4.21(b)(3)(ii) (two times) | ATF | TTB.
§ 4.21(b)(3)(iii) | ATF | TTB.
§ 4.23(c)(2), introductory text | ATF | TTB.
§ 4.23(e) | Director | Administrator.
§ 4.24(a)(1) | appropriate ATF officer | Administrator.
§ 4.24(b)(1) | appropriate ATF officer | Administrator.
§ 4.24(b)(1) | appropriate ATF officer's | Administrator's.
§ 4.24(c)(1) | appropriate ATF officer | Administrator.
§ 4.24(c)(1) | Director | Administrator.
§ 4.24(c)(3) | Director | Administrator.
§ 4.25(e)(2) | Director | Administrator.
§ 4.30(b)(1) | ATF | TTB.
§ 4.33(b) | ATF | TTB.
§ 4.37(c) | ATF | TTB.
§ 4.38(h) | ATF | TTB.
§ 4.39(a)(4) | ATF | TTB.
§ 4.39(a)(5) | ATF | TTB.
§ 4.39(d) | ATF | TTB.
§ 4.39(g) | ATF | TTB.
§ 4.39(i)(2)(iii) | ATF | TTB.
§ 4.39(i)(3) | ATF | TTB.
§ 4.39(j) (two times) | ATF | TTB.
§ 4.40(a) | ATF | TTB.
§ 4.40(b) | ATF | TTB.
§ 4.40(c) | ATF | TTB.
§ 4.50(a) (two times) | ATF | TTB.
§ 4.50(b) (two times) | ATF | TTB.
§ 4.52 (two times) | ATF | TTB.
§ 4.64(a)(4) | ATF | TTB.
§ 4.64(a)(5) | ATF | TTB.
§ 4.91, introductory text | Director | Administrator.
§ 4.93(a), introductory text | Director | Administrator.
§ 4.93(c), introductory text | Director | Administrator.
§ 4.93(d) (two times) | Director | Administrator.
§ 4.93(e) | Director | Administrator.

PART 5—LABELING AND ADVERTISING OF DISTILLED SPIRITS

11. The authority citation for part 5 continues to read as follows:

Authority: 26 U.S.C. 5301, 7805, 27 U.S.C. 205.

12. Amend § 5.3 as follows:

a. In paragraph (a) remove the reference to “ATF” and add, in its place, a reference to “TTB”.

b. Revise paragraph (b) to read as follows:

§ 5.3 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

13. Revise § 5.4 to read as follows:

§ 5.4 Delegations of the Administrator.

Most of the regulatory authorities of the Administrator contained in this part are delegated to appropriate TTB officers. These TTB officers are specified in TTB Order 1135.5, Delegation of the Administrator's Authorities in 27 CFR Part 5, Labeling and Advertising of Distilled Spirits. You may obtain a copy of this order by accessing the TTB Web site (http://www.ttb.gov) or by mailing a request to the Alcohol and Tobacco Tax and Trade Bureau, National Revenue Center, 550 Main Street, Room 1516, Cincinnati, OH 45202.

14. Amend § 5.11 as follows:

a. Remove the definitions of “Appropriate ATF officer” and “Director”.

b. Add, in alphabetical order, definitions of “Administrator” and “Appropriate TTB officer” to read as follows:

§ 5.11 Meaning of terms.

* * * * *

Administrator. The Administrator, Alcohol and Tobacco Tax and Trade Bureau, Department of the Treasury, Washington, DC.

* * * * *

Appropriate TTB officer. An officer or employee of the Alcohol and Tobacco Tax and Trade Bureau (TTB) authorized to perform any functions relating to the administration or enforcement of this part by TTB Order 1135.5, Delegation of the Administrator's Authorities in 27 CFR Part 5, Labeling and Advertising of Distilled Spirits.

* * * * *

§§ 5.22, 5.23, 5.26, 5.28, 5.33, 5.34, 5.35, 5.36, 5.38, 5.42, 5.46, 5.51, 5.55, and 5.65 [Amended]

15. Amend the above sections as follows:

Amend: | by removing: | and replacing it with:
§ 5.22(k)(1) | ATF | TTB.
§ 5.22(k)(2) | ATF | TTB.
§ 5.22(l)(2) | ATF | TTB.
§ 5.23(a)(2) | Director | Administrator.
§ 5.26(b) | ATF | TTB.
§ 5.28, introductory text | ATF | TTB.
§ 5.33(g) | ATF | TTB.
§ 5.34(a) | ATF | TTB.
§ 5.35(a) | ATF | TTB.
§ 5.36(d) (two times) | ATF | TTB.
§ 5.38(b) | Director | Administrator.
§ 5.38(c) | ATF | TTB.
§ 5.42(a)(4) | ATF | TTB.
§ 5.42(a)(5) | ATF | TTB.
§ 5.42(b)(7) | ATF | TTB.
§ 5.46(d)(1) | ATF officer | TTB officer.
§ 5.51(a) | ATF | TTB.
§ 5.51(b) | ATF | TTB.
§ 5.51(c) | ATF | TTB.
§ 5.51(d) | ATF | TTB.
§ 5.55(a) (two times) | ATF | TTB.
§ 5.55(b) (two times) | ATF | TTB.
§ 5.55(c) | ATF | TTB.
§ 5.65(a)(4) | ATF | TTB.
§ 5.65(a)(5) | ATF | TTB.
§ 5.65(g) | ATF | TTB.

PART 6—“TIED-HOUSE”

16. The authority citation for part 6 continues to read as follows:

Authority: 15 U.S.C. 49-50; 27 U.S.C. 202 and 205; 44 U.S.C. 3504(h).

17. Revise § 6.5 to read as follows:

§ 6.5 Delegations of the Administrator.

Most of the regulatory authorities of the Administrator contained in this part are delegated to appropriate TTB officers. These TTB officers are specified in TTB Order 1135.6, Delegation of the Administrator's Authorities in 27 CFR Part 6, “Tied-House”. You may obtain a copy of this order by accessing the TTB Web site (http://www.ttb.gov) or by mailing a request to the Alcohol and Tobacco Tax and Trade Bureau, National Revenue Center, 550 Main Street, Room 1516, Cincinnati, OH 45202.

§ 6.6 [Amended]

18. Amend § 6.6 as follows:

a. In paragraph (a) remove the word “Director” each place it appears and add, in its place, the word “Administrator”.

b. In paragraph (b), the heading of paragraph (c), and paragraphs (c)(1), (c)(2), and (c)(3), remove the reference to “ATF” each place it appears and add, in its place, a reference to “TTB”.

19. Amend § 6.11 as follows:

a. Remove the definitions of “Appropriate ATF officer” and “Director”.

b. Add, in alphabetical order, definitions of “Administrator” and “Appropriate TTB officer” to read as follows:

§ 6.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.6, Delegation of the Administrator's Authorities in 27 CFR Part 6, “Tied-House”.

* * * * *

PART 7—LABELING AND ADVERTISING OF MALT BEVERAGES

20. The authority citation for part 7 continues to read as follows:

Authority: 27 U.S.C. 205.

21. Amend § 7.3 as follows:

a. In paragraph (a), remove the reference to “ATF” and add, in its place, a reference to “TTB”.

b. Revise paragraph (b) to read as follows:

§ 7.3 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

22. Revise § 7.5 to read as follows:

§ 7.5 Delegations of the Administrator.

Most of the regulatory authorities of the Administrator contained in this part are delegated to appropriate TTB officers. These TTB officers are specified in TTB Order 1135.7, Delegation of the Administrator's Authorities in 27 CFR Part 7, Labeling and Advertising of Malt Beverages. You may obtain a copy of this order by accessing the TTB Web site (http://www.ttb.gov) or by mailing a request to the Alcohol and Tobacco Tax and Trade Bureau, National Revenue Center, 550 Main Street, Room 1516, Cincinnati, OH 45202.

23. Amend § 7.10 as follows:

a. Remove the definitions of “Appropriate ATF officer” and “Director”.

b. Add, in alphabetical order, definitions of “Administrator” and “Appropriate TTB officer” to read as follows:

§ 7.10 Meaning of terms.

* * * * *

Administrator. The Administrator, Alcohol and Tobacco Tax and Trade Bureau, Department of the Treasury, Washington, DC.

* * * * *

Appropriate TTB officer. An officer or employee of the Alcohol and Tobacco Tax and Trade Bureau (TTB) authorized to perform any functions relating to the administration or enforcement of this part by TTB Order 1135.7, Delegation of the Administrator's Authorities in 27 CFR Part 7, Labeling and Advertising of Malt Beverages.

* * * * *

§§ 7.20, 7.23, 7.24, 7.25, 7.29, 7.31, 7.41, and 7.54 [Amended]

24. Amend the sections listed above as follows:

Amend: | by removing: | and replacing it with:
§ 7.20(c)(1) | ATF | TTB.
§ 7.23(b) | ATF | TTB.
§ 7.24(g) | ATF | TTB.
§ 7.25(a)(1) | ATF | TTB.
§ 7.29(a)(4) | ATF | TTB.
§ 7.29(a)(5) | ATF | TTB.
§ 7.29(d) | ATF | TTB.
§ 7.31(a) | ATF | TTB.
§ 7.31(b) | ATF | TTB.
§ 7.31(c) | ATF | TTB.
§ 7.41(a) | ATF | TTB.
§ 7.54(a)(4) | ATF | TTB.
§ 7.54(a)(5) | ATF | TTB.

PART 8—EXCLUSIVE OUTLETS

25. The authority citation for part 8 continues to read as follows:

Authority: 15 U.S.C. 49-50; 27 U.S.C. 202 and 205; 44 U.S.C. 3504(h).

26. Revise § 8.5 to read as follows:

§ 8.5 Delegations of the Administrator.

Most of the regulatory authorities of the Administrator contained in this part are delegated to appropriate TTB officers. These TTB officers are specified in TTB Order 1135.8, Delegation of the Administrator's Authorities in 27 CFR Part 8, Exclusive Outlets. You may obtain a copy of this order by accessing the TTB Web site (http://www.ttb.gov) or by mailing a request to the Alcohol and Tobacco Tax and Trade Bureau, National Revenue Center, 550 Main Street, Room 1516, Cincinnati, OH 45202.

§ 8.6 [Amended]

27. Amend § 8.6 as follows:

a. In paragraph (a), remove the word “Director” each place it appears and add, in its place, the word “Administrator”.

b. In paragraph (b), the paragraph heading of paragraph (c), and paragraphs (c)(1), (c)(2) and (c)(3), remove the reference to “ATF” each place it appears and add, in its place, a reference to “TTB”.

28. Amend § 8.11 as follows:

a. Remove the definitions of “Appropriate ATF officer” and “Director”.

b. Add, in alphabetical order, definitions of “Administrator” and “Appropriate TTB officer” to read as follows:

§ 8.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.8, Delegation of the Administrator's Authorities in 27 CFR Part 8, Exclusive Outlets.

* * * * *

PART 9—AMERICAN VITICULTURAL AREAS

29. The authority citation for part 9 continues to read as follows:

Authority: 27 U.S.C. 205.

§ 9.3 [Amended]

30. Amend paragraph (a) by removing the word “Director” and adding, in its place, the word “Administrator”.

31. Amend § 9.11 as follows:

a. Remove the definition of “Director”.

b. Add, in alphabetical order, a definition of “Administrator” to read as follows:

§§ 9.11 Meaning of terms.

* * * * *

Administrator. The Administrator, Alcohol and Tobacco Tax and Trade Bureau, Department of the Treasury, Washington, DC.

* * * * *

PART 10—COMMERCIAL BRIBERY

32. The authority citation for part 10 continues to read as follows:

Authority: 15 U.S.C. 49-50; 27 U.S.C. 202 and 205; 44 U.S.C. 3504(h).

33. Revise § 10.5 to read as follows:

§ 10.5 Delegations of the Administrator.

Most of the regulatory authorities of the Administrator contained in this part are delegated to appropriate TTB officers. These TTB officers are specified in TTB Order 1135.10, Delegation of the Administrator's Authorities in 27 CFR Part 10, Commercial Bribery. You may obtain a copy of this order by accessing the TTB Web site (http://www.ttb.gov) or by mailing a request to the Alcohol and Tobacco Tax and Trade Bureau, National Revenue Center, 550 Main Street, Room 1516, Cincinnati, OH 45202.

§ 10.6 [Amended]

34. Amend § 10.6 as follows:

a. In paragraph (a) remove the word “Director” each place it appears and add, in its place, the word “Administrator”.

b. In paragraph (b), the heading of paragraph (c), and paragraphs (c)(1), (c)(2) and (c)(3), remove the reference to “ATF” each place it appears and add, in its place, a reference to “TTB”.

35. Amend § 10.11 as follows:

a. Remove the definitions of “Appropriate ATF officer” and “Director”.

b. Add, in alphabetical order, definitions of “Administrator” and “Appropriate TTB officer” to read as follows:

§ 10.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.10, Delegation of the Administrator's Authorities in 27 CFR Part 10, Commercial Bribery.

* * * * *

PART 11—CONSIGNMENT SALES

36. The authority citation for part 11 continues to read as follows:

Authority: 15 U.S.C. 49-50; 27 U.S.C. 202 and 205.

37. Revise § 11.5 to read as follows:

§ 11.5 Delegations of the Administrator.

Most of the regulatory authorities of the Administrator contained in this part are delegated to appropriate TTB officers. These TTB officers are specified in TTB Order 1135.11, Delegation of the Administrator's Authorities in 27 CFR Part 11, Consignment Sales. You may obtain a copy of this order by accessing the TTB Web site (http://www.ttb.gov) or by mailing a request to the Alcohol and Tobacco Tax and Trade Bureau, National Revenue Center, 550 Main Street, Room 1516, Cincinnati, OH 45202.

§ 11.6 [Amended]

38. Amend § 11.6 as follows:

a. In paragraph (a) remove the word “Director” each place it appears and add, in its place, the word “Administrator”.

b. In paragraph (b) remove the reference to “ATF” each place it appears and add, in its place, a reference to “TTB”.

39. Amend § 11.11 as follows:

a. Remove the definitions of “Appropriate ATF officer” and “Director”.

b. Add, in alphabetical order, definitions of “Administrator” and “Appropriate TTB officer” to read as follows:.

§ 11.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.11, Delegation of the Administrator's Authorities in 27 CFR Part 11, Consignment Sales.

* * * * *

PART 12—FOREIGN NONGENERIC NAMES OF GEOGRAPHIC SIGNIFICANCE USED IN THE DESIGNATION OF WINES

40. The authority citation for part 12 continues to read as follows:

Authority: 27 U.S.C. 205.

§ 12.1 [Amended]

41. Amend § 12.1 by removing the word “Director” and adding, in its place, the word “Administrator”.

§ 12.3 [Amended]

42. Amend § 12.3 as follows:

a. In paragraph (a) remove the word “Director” and add, in its place, the word “Administrator”.

b. In paragraphs (a) and (b), remove the reference to “ATF” each place it appears and add, in its place, a reference to “TTB”.

§ 12.31 [Amended]

43. Amend the introductory text of § 12.31 by removing the word “Director” and adding, in its place, the word “Administrator”.

PART 13—LABELING PROCEEDINGS

44. The authority citation for part 13 continues to read as follows:

Authority: 27 U.S.C. 205(e), 26 U.S.C. 5301 and 7805.

45. Revise § 13.2 to read as follows:

§ 13.2 Delegations of the Administrator.

The regulatory authorities of the Administrator contained in this part are delegated to appropriate TTB officers. These TTB officers are specified in TTB Order 1135.13, Delegation of the Administrator's Authorities in 27 CFR Part 13, Labeling Proceedings. You may obtain a copy of this order by accessing the TTB Web site (http://www.ttb.gov) or by mailing a request to the Alcohol and Tobacco Tax and Trade Bureau, National Revenue Center, 550 Main Street, Room 1516, Cincinnati, OH 45202.

46. Amend § 13.11 as follows:

a. In the definition of “Applicant” remove the reference to “ATF F 5100.31” and add, in its place, a reference to “Form 5100.31”.

b. Remove the definitions of “Appropriate ATF officer”, “ATF”, and “Director”.

c. In the definition of “Distinctive liquor bottle approval,” remove the reference to “ATF F 5100.31” and add, in its place, a reference to “Form 5100.31”.

d. In the definitions of “Certificate holder,” “Certificate of exemption from label approval,” and “Certificate of label approval,” remove the reference to “ATF F 5100.31” and add, in its place, a reference to “Form 5100.31”.

e. In the definition of “Liquor bottle” remove the reference to “ATF” and add, in its place, a reference to “TTB”.

f. Add, in alphabetical order, definitions of “Administrator”, “Appropriate TTB officer”, and “TTB” to read as follows:

§ 13.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.13, Delegation of the Administrator's Authorities in 27 CFR Part 13, Labeling Proceedings.

* * * * *

TTB. The Alcohol and Tobacco Tax and Trade Bureau, Department of the Treasury, Washington, DC.

* * * * *

47. Amend § 13.20 as follows:

a. In paragraph (a) remove the reference to “ATF” and add, in its place, a reference to “TTB”.

b. Revise paragraph (b) to read as follows:

§ 13.20 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§§ 13.21, 13.22, 13.23, 13.25, 13.26, 13.27, 13.41, 13.42, 13.43, 13.44, 13.45, 13.51, 13.52, 13.53, 13.54, 13.61, 13.62, 13.71, 13.72, 13.74, 13.75, 13.76, 13.81 and 13.92 [Amended]

48. Amend the above listed sections as follows:

Amend: | by removing: | and replacing it with:
§ 13.21(a) | ATF | TTB.
§ 13.21(b) (four times) | ATF | TTB.
§ 13.22 | ATF | TTB.
§ 13.23 (three times) | ATF | TTB.
§ 13.25(a) (two times) | ATF | TTB.
§ 13.25(b) | ATF | TTB.
§ 13.26(a) (two times) | ATF | TTB.
§ 13.26(b) (four times) | ATF | TTB.
§ 13.27(a) (four times) | ATF | TTB.
§ 13.27(b) (four times) | ATF | TTB.
§ 13.27(c) | ATF | TTB.
§ 13.41 (two times) | ATF | TTB.
§ 13.42 | ATF | TTB.
§ 13.43(a) | ATF | TTB.
§ 13.43(b) (three times) | ATF | TTB.
§ 13.44(a) | ATF | TTB.
§ 13.44(b) | ATF | TTB.
§ 13.45(a) | ATF | TTB.
§ 13.45(b) (four times) | ATF | TTB.
§ 13.51 (three times) | ATF | TTB.
§ 13.52 (two times) | ATF | TTB.
§ 13.53 | ATF | TTB.
§ 13.54(a) (two times) | ATF | TTB.
§ 13.54(b) (five times) | ATF | TTB.
§ 13.61(a)(2) | ATF | TTB.
§ 13.61(b) | appropriate ATF officer | appropriate TTB officer.
§ 13.61(b) | ATF Library | TTB public reading room.
§ 13.61(b) | 650 Massachusetts Avenue, NW., Washington, DC 20226 | 1310 G Street NW., Washington, DC, or by viewing the Public COLA Registry on the TTB Web site at http://www.ttb.gov.
§ 13.61(d) (two times) | ATF | TTB.
§ 13.62 (six times) | ATF | TTB.
§ 13.62 | ATF's | TTB.
§ 13.71(a) | ATF | TTB.
§ 13.71(b) (two times) | ATF | TTB.
§ 13.72(b) | ATF | TTB.
§ 13.74 (two times) | ATF | TTB.
§ 13.75, section heading | ATF | TTB.
§ 13.75 (two times) | ATF | TTB.
§ 13.75 | ATF's | TTB.
§ 13.76(a) (two times) | ATF | TTB.
§ 13.81, section heading | ATF | TTB.
§ 13.81 | ATF | TTB.
§ 13.92 (two times) | ATF | TTB.

PART 16—ALCOHOLIC BEVERAGE HEALTH WARNING STATEMENT

49. The authority citation for part 16 continues to read as follows:

Authority: 27 U.S.C. 205, 215, 218; 28 U.S.C. 2461 note.

50. Amend § 16.10 by removing the definition of “ATF” and adding, in alphabetical order, a definition of “TTB” to read as follows:

§ 16.10 Meaning of terms.

* * * * *

TTB. The Alcohol and Tobacco Tax and Trade Bureau, Department of the Treasury, Washington, DC.

* * * * *

§ 16.30 [Amended]

51. Amend § 16.30 by removing the reference to “ATF” and adding, in its place, a reference to “TTB”.

PART 17—DRAWBACK ON TAXPAID DISTILLED SPIRITS USED IN MANUFACTURING NONBEVERAGE PRODUCTS

52. The authority citation for part 17 continues to read as follows:

Authority: 26 U.S.C. 5010, 5131'5134, 5143, 5146, 5148, 5206, 5273, 6011, 6065, 6091, 6109, 6151, 6402, 6511, 7011, 7213, 7652, 7805; 31 U.S.C. 9301, 9303, 9304, 9306.

53. Amend § 17.2 as follows:

a. In paragraph (a) remove the reference to “ATF” and add, in its place, a reference to “TTB”.

b. Revise paragraph (b) to read as follows:

§ 17.2 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§ 17.3 [Amended]

54. Amend § 17.3 as follows:

a. In the introductory text of paragraph (a) remove the reference to “ATF” and add, in its place, a reference to “TTB”.

b. In paragraph (b) remove the reference to “ATF” and add, in its place, a reference to “TTB”.

c. In paragraph (c) remove the reference to “ATF” each place it appears and add, in its place, a reference to “TTB”.

d. In paragraph (c) remove the word “Director” and add, in its place, the word “Administrator”.

§ 17.6 [Amended]

55. Amend § 17.6 by removing the reference to “ATF” each place it appears and adding, in its place, a reference to “TTB”.

56. Revise § 17.7 to read as follows:

§ 17.7 Delegations of the Administrator.

The regulatory authorities of the Administrator contained in this part are delegated to appropriate TTB officers. These TTB officers are specified in TTB Order 1135.17, Delegation of the Administrator's Authorities in 27 CFR Part 17, Drawback on Taxpaid Distilled Spirits Used in Manufacturing Nonbeverage Products. You may obtain a copy of this order by accessing the TTB Web site (http://www.ttb.gov) or by mailing a request to the Alcohol and Tobacco Tax and Trade Bureau, National Revenue Center, 550 Main Street, Room 1516, Cincinnati, OH 45202.

57. Amend § 17.11 as follows:

a. Remove the definitions of “Appropriate ATF officer” and “Director”.

b. Add, in alphabetical order, definitions of “Administrator” and “Appropriate TTB officer” to read as follows:

§ 17.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.17, Delegation of the Administrator's Authorities in 27 CFR Part 17, Drawback on Taxpaid Distilled Spirits Used in Manufacturing Nonbeverage Products.

* * * * *

§§ 17.31, 17.32, 17.33, 17.34, 17.41, 17.42, 17.51, 17.52, 17.53, 17.54, 17.55, 17.61, 17.62, 17.71, 17.73, 17.92, 17.101, 17.106, 17.107, 17.108, 17.111, 17.112, 17.113, 17.114, 17.121, 17.122, 17.123, 17.125, 17.126, 17.127, 17.131, 17.132, 17.133, 17.134, 17.135, 17.136, 17.141, 17.142, 17.143, 17.144, 17.147, 17.151, 17.161, 17.164, 17.166, 17.167, 17.168, 17.170, 17.171, 17.182, 17.183, 17.185, and 17.187 [Amended]

58. Amend the above listed sections as follows:

Amend: | by removing: | and replacing it with:
§ 17.31 (two times) | ATF | TTB.
§ 17.32, section heading | ATF | TTB.
§ 17.32(a)(6) | ATF | TTB.
§ 17.33, section heading | ATF | TTB.
§ 17.34 | ATF | TTB.
§ 17.41 | ATF | TTB.
§ 17.42(b) | ATF | TTB.
§ 17.51(a) | ATF | TTB.
§ 17.52 | ATF | TTB.
§ 17.53(a) (three times) | ATF | TTB.
§ 17.53(b) | ATF | TTB.
§ 17.54 (two times) | ATF | TTB.
§ 17.55 | ATF | TTB.
§ 17.62 | ATF | TTB.
§ 17.71(a) (two times) | ATF | TTB.
§ 17.73 | ATF | TTB.
§ 17.92 | ATF | TTB.
§ 17.101 (two times) | ATF | TTB.
§ 17.106 | ATF | TTB.
§ 17.107 | ATF | TTB.
§ 17.108(c) | ATF | TTB.
§ 17.111(a), introductory text (two times) | ATF | TTB.
§ 17.111(b) | ATF | TTB.
§ 17.112 (four times) | ATF | TTB.
§ 17.113 | ATF | TTB.
§ 17.114 | ATF | TTB.
§ 17.121(b) | ATF | TTB.
§ 17.121(d) | ATF | TTB.
§ 17.122 (four times) | ATF | TTB.
§ 17.123 | ATF | TTB.
§ 17.125(a) | ATF | TTB.
§ 17.125(b) (two times) | ATF | TTB.
§ 17.126(a) | ATF | TTB.
§ 17.127 | ATF | TTB.
§ 17.131, section heading | ATF | TTB.
§ 17.131 | ATF | TTB.
§ 17.132(a) (two times) | ATF | TTB.
§ 17.133, introductory text | ATF | TTB.
§ 17.134 (two times) | ATF | TTB.
§ 17.135(a)(2) (two times) | ATF | TTB.
§ 17.136 | ATF | TTB.
§ 17.141 | ATF | TTB.
§ 17.142(a) (two times) | ATF | TTB.
§ 17.142(b) | ATF | TTB.
§ 17.143 (two times) | ATF | TTB.
§ 17.144 | ATF | TTB.
§ 17.144 | regional director (compliance) | appropriate TTB officer.
§ 17.147(a) (two times) | ATF | TTB.
§ 17.151 | ATF | TTB.
§ 17.161 | ATF | TTB.
§ 17.164(c) | ATF | TTB.
§ 17.166(c) | ATF | TTB.
§ 17.167(a) | ATF | TTB.
§ 17.167(b) | ATF | TTB.
§ 17.168(a) | ATF | TTB.
§ 17.170 (two times) | ATF | TTB.
§ 17.171 (two times) | ATF | TTB.
§ 17.182 | ATF | TTB.
§ 17.183(a) (three times) | ATF | TTB.
§ 17.183(a) (three times) | regional director (compliance) | appropriate TTB officer.
§ 17.183(b) | ATF | TTB.
§ 17.183(c) | ATF | TTB.
§ 17.185(c) | ATF | TTB.
§ 17.187 | ATF | TTB.

PART 18—PRODUCTION OF VOLATILE FRUIT-FLAVOR CONCENTRATE

59. The authority citation for part 18 continues to read as follows:

Authority: 26 U.S.C. 5001, 5171-5173, 5178, 5179, 5203, 5351, 5354, 5356, 5511, 5552, 6065, 7805.

60. Amend § 18.11 as follows:

a. Remove the definitions of “Appropriate ATF officer” and “Director”.

b. Add, in alphabetical order, definitions of “Administrator” and “Appropriate TTB officer” to read as follows:

§ 18.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.18, Delegation of the Administrator's Authorities in 27 CFR Part 18, Production of Volatile Fruit-Flavor Concentrate.

* * * * *

61. Revise § 18.12 to read as follows:

§ 18.12 Delegations of the Administrator.

The regulatory authorities of the Administrator contained in this part are delegated to appropriate TTB officers. These TTB officers are specified in TTB Order 1135.18, Delegation of the Administrator's Authorities in 27 CFR Part 18, Production of Volatile Fruit-Flavor Concentrate. You may obtain a copy of this order by accessing the TTB Web site (http://www.ttb.gov) or by mailing a request to the Alcohol and Tobacco Tax and Trade Bureau, National Revenue Center, 550 Main Street, Room 1516, Cincinnati, OH 45202.

§§ 18.13, 18.14, and 18.15 [Amended]

62. Amend the above listed sections as follows:

Amend: | by removing: | and replacing it with:
§ 18.13(a), introductory text (two times) | ATF | TTB.
§ 18.13(b) (three times) | ATF | TTB.
§ 18.14(a), introductory text (two times) | ATF | TTB.
§ 18.14(a), concluding text | regional director (compliance) | appropriate TTB officer.
§ 18.14(b) (two times) | ATF | TTB.
§ 18.15 (two times) | ATF | TTB.

63. Amend § 18.16 as follows:

a. In paragraph (a) remove the reference to “ATF” and add, in its place, a reference to “TTB”.

b. Revise paragraph (b) to read as follows:

§ 18.16 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§ 18.17, 18.19, 18.22, 18.24, 18.27, 18.39, 18.40, 18.41, 18.42, 18.52, and 18.61 [Amended]

64. Amend the above listed sections as follows:

Amend: | by removing: | and replacing it with:
§ 18.17 | ATF | TTB.
§ 18.19 | ATF | TTB.
§ 18.22(b) (three times) | ATF | TTB.
§ 18.24, concluding text | ATF | TTB.
§ 18.27(a), introductory text | ATF | TTB.
§ 18.39, introductory text | ATF | TTB.
§ 18.39(a) (two times) | ATF | TTB.
§ 18.40, introductory text | ATF | TTB.
§ 18.40(a) (two times) | ATF | TTB.
§ 18.41 | ATF | TTB.
§ 18.42(a) | ATF | TTB.
§ 18.52(b) | ATF | TTB.
§ 18.61(a) | ATF | TTB.
§ 18.61(b) | ATF | TTB.

PART 19—DISTILLED SPIRITS PLANTS

65. The authority citation for part 19 continues to read as follows:

Authority: 19 U.S.C. 81c, 1311; 26 U.S.C. 5001, 5002, 5004-5006, 5008, 5010, 5041, 5061, 5062, 5066, 5081, 5101, 5111-5113, 5142, 5143, 5146, 5171-5173, 5175, 5176, 5178-5181, 5201-5204, 5206, 5207, 5211-5215, 5221-5223, 5231, 5232, 5235, 5236, 5241-5243, 5271, 5273, 5301, 5311-5313, 5362, 5370, 5373, 5501-5505, 5551-5555, 5559, 5561, 5562, 5601, 5612, 5682, 6001, 6065, 6109, 6302, 6311, 6676, 6806, 7011, 7510, 7805; 31 U.S.C. 9301, 9303, 9304, 9306.

66. Add a new § 19.4 to read as follows:

§ 19.4 Delegations of the Administrator.

Most of the regulatory authorities of the Administrator contained in this part are delegated to appropriate TTB officers. These TTB officers are specified in TTB Order 1135.19, Delegation of the Administrator's Authorities in 27 CFR Part 19, Distilled Spirits. You may obtain a copy of this order by accessing the TTB Web site (http://www.ttb.gov) or by mailing a request to the Alcohol and Tobacco Tax and Trade Bureau, National Revenue Center, 550 Main Street, Room 1516, Cincinnati, OH 45202.

67. Amend § 19.11 as follows:

a. Remove the definitions of “Area Supervisor”, “ATF bond”, “ATF officer”, “Director:, “Region”, and Regional Director”.

b. In the definition of “Bulk conveyance”, remove the word “Director” and add, in its place, the words “appropriate TTB officer”.

c. In the definition of “Liquor bottle”, remove the word “Director” and add, in its place, the words “appropriate TTB officer”.

d. In the definition of “Plant number”, remove the words “regional director (compliance)” and add, in their place, the words “appropriate TTB officer”.

e. Add, in alphabetical order, definitions of “Administrator”, “Appropriate TTB officer”, “TTB”, and “TTB bond” to read as follows:

§ 19.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.19, Delegation of the Administrator's Authorities in 27 CFR Part 19, Distilled Spirits Plants.

* * * * *

TTB. The Alcohol and Tobacco Tax and Trade Bureau, Department of the Treasury.

TTB bond. The internal revenue bond as prescribed in 26 U.S.C. Chapter 51.

* * * * *

§§ 19.31, 19.32, 19.35, 19.36, 19.37, 19.38, 19.41, 19.42, 19.44, 19.46, 19.49, 19.51, 19.53, and 19.58 [Amended]

68. Amend the above listed sections as follows:

Amend: | by removing: | and replacing it with:
§ 19.31 | regional director (compliance) | appropriate TTB officer.
§ 19.32 | regional director (compliance) | appropriate TTB officer.
§ 19.35 | ATF | appropriate TTB.
§ 19.36(b) | regional director (compliance) | appropriate TTB officer.
§ 19.37(b) | regional director (compliance) | appropriate TTB officer.
§ 19.38(b) | regional director (compliance) | appropriate TTB officer.
§ 19.41(a), introductory text | regional director (compliance) | appropriate TTB officer.
§ 19.41(a)(4) | ATF | TTB.
§ 19.41(b), introductory text | regional director (compliance) | appropriate TTB officer.
§ 19.42(a), introductory text | regional director (compliance) | appropriate TTB officer.
§ 19.44 | regional director (compliance) | appropriate TTB officer.
§ 19.46 | regional director (compliance) | appropriate TTB officer.
§ 19.49(b)(2) | regional director (compliance) | appropriate TTB officer.
§ 19.51(b), paragraph heading | ATF | TTB.
§ 19.51(b)(6) | ATF | TTB.
§ 19.51(d), paragraph heading | ATF | TTB.
§ 19.51(d)(3) | ATF | TTB.
§ 19.51(d)(4) | ATF | TTB.
§ 19.53(b) | ATF | TTB.
§ 19.53(c) | ATF | appropriate TTB.
§ 19.58(c) (two times) | Director | appropriate TTB officer.
§ 19.58(d) | regional director (compliance) | appropriate TTB officer.
§ 19.58(d) | Director | appropriate TTB officer.

§§ 19.61-19.71 [Amended]

69. Remove the undesignated center heading “Authorities of the Director” preceding § 19.61.

70. Amend § 19.61 as follows:

a. In paragraph (a) remove the reference to “Director” and add, in its place, the words “appropriate TTB officer”.

b. Revise paragraph (b) to read as follows:

§ 19.61 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§§ 19.62, 19.63, 19.65, 19.66, 19.67, 19.68, 19.70, and 19.71 [Amended]

71. Amend the above listed sections as follows:

Amend: | by removing: | and replacing it with:
§ 19.62, introductory text (two times) | Director | appropriate TTB officer.
§ 19.62(c) | regional director (compliance), for transmittal to the Director | appropriate TTB officer.
§ 19.62(c) (two times) | Director | appropriate TTB officer.
§ 19.63 (three times) | Director | appropriate TTB officer.
§ 19.65 (two times) | Director | appropriate TTB officer.
§ 19.66, first sentence | Director, through the regional director (compliance), and obtain the Director's | appropriate TTB officer and obtain.
§ 19.66, second through last sentences (three times) | Director | appropriate TTB officer.
§ 19.66, last sentence | regional director (compliance) | appropriate TTB officer.
§ 19.67(a)(2) | Director | appropriate TTB officer.
§ 19.67(a)(3)(ii) | Director | appropriate TTB officer.
§ 19.67(b)(1) | Director, through the regional director (compliance) | appropriate TTB officer.
§ 19.67(b)(2)(vi) | Director | appropriate TTB officer.
§ 19.67(c) | Director | appropriate TTB officer.
§ 19.68 | Director | appropriate TTB officer.
§ 19.70 | Director | appropriate TTB officer.
§ 19.71(a) (two times) | Director | appropriate TTB officer.
§ 19.71(b), first sentence | Director, through the regional director (compliance), and obtain the Director's | appropriate TTB officer and obtain.
§ 19.71(b), second through last sentences (three times) | Director | appropriate TTB officer.
§ 19.71(c) | Director | appropriate TTB officer.
§ 19.71(c) | ATF | appropriate TTB.
§ 19.71(d) | Director | appropriate TTB officer.
§ 19.71(d) | regional director (compliance) | appropriate TTB officer.

§§ 19.72-19.79 [Amended]

72. Remove the undesignated center heading “Authorities of the Regional Director (Compliance)” preceding § 19.72.

§§ 19.72, 19.73, 19.74, 19.75, 19.76, 19.77, 19.78, and 19.79 [Amended]

73. Amend the above listed sections as follows:

Amend: | by removing: | and replacing it with:
§ 19.72 (two times) | regional director (compliance) | appropriate TTB officer.
§ 19.72 | Director | appropriate TTB officer.
§ 19.73, introductory text | regional director (compliance) | appropriate TTB officer.
§ 19.73, concluding text (two times) | regional director (compliance) | appropriate TTB officer.
§ 19.74 | regional director (compliance) | appropriate TTB officer.
§ 19.75(a), introductory text | regional director (compliance) | appropriate TTB officer.
§ 19.75(a), introductory text | ATF | TTB.
§ 19.75(a)(1) | regional director (compliance) | appropriate TTB officer.
§ 19.75(a)(1) | ATF | appropriate TTB.
§ 19.75(a)(2) | regional director (compliance) | appropriate TTB officer.
§ 19.75(a)(2) | ATF | appropriateTTB.
§ 19.75(b) | ATF | appropriate TTB.
§ 19.75(b) (three times) | regional director (compliance) | appropriate TTB officer.
§ 19.75(c)(1) | regional director (compliance) | appropriate TTB officer.
§ 19.75(c)(1) | ATF | TTB.
§ 19.75(d) | regional director (compliance) | appropriate TTB officer.
§ 19.75(d) | ATF | TTB.
§ 19.76 | regional director (compliance) | appropriate TTB officer.
§ 19.77 (two times) | regional director (compliance) | appropriate TTB officer.
§ 19.78 | regional director (compliance) | appropriate TTB officer.
§ 19.79 (three times) | regional director (compliance) | appropriate TTB officer.

§§ 19.81-19.84 [Amended]

74. Remove the undesignated center heading “Authorities of ATF officers” preceding § 19.81.

§§ 19.81, 19.82, 19.83, 19.84, 19.86, 19.91, 19.92, 19.96, 19.98, 19.99, 19.132, 19.133, 19.134, 19.151, 19.152, 19.153, 19.155, 19.156, 19.157, 19.158, 19.161, 19.162, 19.163, 19.167, 19.168, 19.184, 19.185, 19.187, 19.190, 19.193, 19.201, 19.202, 19.203, 19.204, 19.205, 19.206, 19.211, 19.231, 19.236, 19.237, 19.247, 19.250, 19.252, 19.273, 19.274, 19.277, 19.279, 19.281, 19.282, 19.311, 19.319, 19.326, 19.327, 19.329, 19.342, 19.347, 19.353, 19.378, 19.382, 19.385, 19.386, 19.395, 19.401, 19.402, 19.453, 19.454, 19.456, 19.460, 19.461, 19.464, 19.485, 19.487, 19.506, 19.507, 19.508, 19.510, 19.519, 19.522, 19.523, 19.524, 19.525, 19.533, 19.538, 19.539, 19.540, 19.561, 19.562, 19.563, 19.581, 19.585, 19.588, 19.593, 19.594, 19.597, 19.604, 19.633, 19.634, 19.637, 19.638, 19.641, 19.643, 19.645, 19.681, 19.687, 19.691, 19.701, 19.721, 19.723, 19.724, 19.725, 19.731, 19.732, 19.741, 19.750, 19.761, 19.768, 19.770, 19.773, 19.774, 19.778, 19.791, 19.792, 19.822, 19.823, 19.824, 19.903, and 19.904 [Amended]

75. Amend the above listed sections as follows:

Amend: | by removing: | and replacing it with:
§ 19.81 (two times) | ATF | appropriate TTB.
§ 19.82 (two times) | ATF | appropriate TTB.
§ 19.82 | regional director (compliance) | appropriate TTB officer.
§ 19.83 (two times) | ATF | appropriate TTB.
§ 19.84 | ATF | appropriate TTB.
§ 19.86 (three times) | ATF | appropriate TTB.
§ 19.91(a) | regional director (compliance) | appropriate TTB officer.
§ 19.91(a) | ATF | appropriate TTB.
§ 19.91(a) | Director | appropriate TTB officer.
§ 19.91(b) | regional director (compliance) | appropriate TTB officer.
§ 19.92(b)(10) | regional director (compliance) | appropriate TTB officer.
§ 19.96(b)(1) (two times) | Director | appropriate TTB officer.
§ 19.96(c)(2) | regional director (compliance) | appropriate TTB officer.
§ 19.96(c)(2)(iii) | ATF | appropriate TTB.
§ 19.96(d) | Director | appropriate TTB officer.
§ 19.98, introductory text | ATF | appropriate TTB.
§ 19.98(c) | regional director (compliance) | appropriate TTB officer.
§ 19.99(c) | regional director (compliance) | appropriate TTB officer.
§ 19.132 | Director | appropriate TTB officer.
§ 19.133(b) | regional director (compliance) | appropriate TTB officer.
§ 19.134(a)(2) | regional director (compliance) | appropriate TTB officer.
§ 19.134(c)(1) | regional director (compliance) | appropriate TTB officer.
§ 19.134(c)(2) | regional director (compliance) | appropriate TTB officer.
§ 19.134(d) | regional director (compliance) | appropriate TTB officer.
§ 19.151(c) (two times) | regional director (compliance) | appropriate TTB officer.
§ 19.152, concluding text (two times) | regional director (compliance) | appropriate TTB officer.
§ 19.153(b) | regional director (compliance) | appropriate TTB officer.
§ 19.155 | ATF | appropriate TTB.
§ 19.156 | regional director (compliance) | appropriate TTB officer.
§ 19.157(a)(7) | regional director (compliance) | appropriate TTB officer.
§ 19.158(f) | regional director (compliance) | appropriate TTB officer.
§ 19.158(f), concluding text (three times) | regional director (compliance) | appropriate TTB officer.
§ 19.161, introductory text | regional director (compliance) | appropriate TTB officer.
§ 19.161(c) | regional director (compliance) | appropriate TTB officer.
§ 19.162 | regional director (compliance) | appropriate TTB officer.
§ 19.163, introductory text | regional director (compliance) | appropriate TTB officer.
§ 19.163(f) | regional director (compliance) | appropriate TTB officer.
§ 19.167(c)(1) | regional director (compliance) | appropriate TTB officer.
§ 19.167(d) | regional director (compliance) | appropriate TTB officer.
§ 19.167(d) | ATF | appropriate TTB.
§ 19.168(b)(2) | ATF | appropriate TTB.
§ 19.184 | regional director (compliance) | appropriate TTB officer.
§ 19.185 (two times) | regional director (compliance) | appropriate TTB officer.
§ 19.187(a) | Director | appropriate TTB officer.
§ 19.190 | regional director (compliance) | appropriate TTB officer.
§ 19.193(a) | regional director (compliance) through the area supervisor | appropriate TTB officer.
§ 19.193(b)(3) | regional director (compliance) | appropriate TTB officer.
§ 19.193(c) | area supervisor | appropriate TTB officer.
§ 19.201(a) | regional director (compliance) | appropriate TTB officer.
§ 19.202(a) (two times) | regional director (compliance) | appropriate TTB officer.
§ 19.202(b) | regional director (compliance) | appropriate TTB officer.
§ 19.202(c) | ATF | TTB.
§ 19.203(a) | regional director (compliance) | appropriate TTB officer.
§ 19.203(b), introductory text | regional director (compliance) | appropriate TTB officer.
§ 19.203(d) | regional director (compliance) | appropriate TTB officer.
§ 19.204(a) | regional director (compliance) | appropriate TTB officer.
§ 19.204(b), introductory text | regional director (compliance) | appropriate TTB officer.
§ 19.204(d) | regional director (compliance) | appropriate TTB officer.
§ 19.205(b), introductory text | regional director (compliance) | appropriate TTB officer.
§ 19.205(c), introductory text | regional director (compliance) | appropriate TTB officer.
§ 19.205(d) | regional director (compliance) | appropriate TTB officer.
§ 19.206(b), introductory text | regional director (compliance) | appropriate TTB officer.
§ 19.206(c), introductory text | regional director (compliance) | appropriate TTB officer.
§ 19.206(d) | regional director (compliance) | appropriate TTB officer.
§ 19.211 | regional director (compliance) | appropriate TTB officer.
§ 19.231 (two times) | regional director (compliance) | appropriate TTB officer.
§ 19.236(a) | regional director (compliance) | appropriate TTB officer.
§ 19.237(a), introductory text | regional director (compliance) | appropriate TTB officer.
§ 19.237(b) | regional director (compliance) | appropriate TTB officer.
§ 19.237(b) (two times) | Director | Administrator.
§ 19.247 | regional director (compliance) | appropriate TTB officer.
§ 19.250 (three times) | regional director (compliance) | appropriate TTB officer.
§ 19.252 (three times) | regional director (compliance) | appropriate TTB officer.
§ 19.273(b)(3) | regional director (compliance) | appropriate TTB officer.
§ 19.273(c)(4) | ATF | appropriate TTB.
§ 19.274(a)(1) | regional director (compliance) | appropriate TTB officer.
§ 19.274(b) | regional director (compliance) | appropriate TTB officer.
§ 19.277(c) (two times) | regional director (compliance) | appropriate TTB officer.
§ 19.279(a) (three times) | regional director (compliance) | appropriate TTB officer.
§ 19.279(a) (two times) | ATF | appropriate TTB.
§ 19.279(b) | ATF | appropriate TTB.
§ 19.279(b) | regional director (compliance) | appropriate TTB officer.
§ 19.281(e), concluding text | Director, through the regional director (compliance) | appropriate TTB officer.
§ 19.281(e), concluding text | Director | appropriate TTB officer.
§ 19.281(f) | regional director (compliance) | appropriate TTB officer.
§ 19.282 | area supervisor or an ATF officer | appropriate TTB officer.
§ 19.282 | ATF | appropriate TTB.
§ 19.282 | area supervisor | appropriate TTB officer.
§ 19.311(a) | area supervisor | appropriate TTB officer.
§ 19.311(b) | area supervisor | appropriate TTB officer.
§ 19.319(a) | Director | appropriate TTB officer.
§ 19.326 | Director | appropriate TTB officer.
§ 19.327 | ATF | appropriate TTB.
§ 19.329 | regional director (compliance) | appropriate TTB officer.
§ 19.342(b) | regional director (compliance) | appropriate TTB officer.
§ 19.342(c) | ATF | appropriate TTB.
§ 19.347 | area supervisor | appropriate TTB officer.
§ 19.353 | regional director (compliance) | appropriate TTB officer.
§ 19.378 | ATF | TTB.
§ 19.382 | regional director (compliance) | appropriate TTB officer.
§ 19.382 | area supervisor | appropriate TTB officer.
§ 19.385 | ATF | appropriate TTB.
§ 19.386(a)(2) | regional director (compliance) | appropriate TTB officer.
§ 19.386(a)(2) | regional Director | appropriate TTB officer.
§ 19.395, concluding text (two times) | Director | appropriate TTB officer.
§ 19.401 | regional director (compliance) | appropriate TTB officer.
§ 19.402(a)(1) | regional director (compliance) | appropriate TTB officer.
§ 19.402(a)(2), introductory text | regional director (compliance) | appropriate TTB officer.
§ 19.402(a)(3), introductory text | regional director (compliance) | appropriate TTB officer.
§ 19.402(b)(1) | regional director (compliance) | appropriate TTB officer.
§ 19.402(b)(2) | regional director (compliance) | appropriate TTB officer.
§ 19.402(c) | area supervisor | appropriate TTB officer.
§ 19.402(d) | regional director (compliance) | appropriate TTB officer.
§ 19.453(a) | regional director (compliance) | appropriate TTB officer.
§ 19.453(b) | ATF | appropriate TTB.
§ 19.454 | Director | appropriate TTB officer.
§ 19.456 (two times) | regional director (compliance) | appropriate TTB officer.
§ 19.460(e) | Director | appropriate TTB officer.
§ 19.461(c) | ATF | appropriate TTB.
§ 19.461(c) | regional director (compliance) | appropriate TTB officer.
§ 19.464 | regional director (compliance) | appropriate TTB officer.
§ 19.485(b) (two times) | ATF | TTB.
§ 19.487(a) | ATF | TTB.
§ 19.506 | regional director (compliance) | appropriate TTB officer.
§ 19.507(b) | regional director (compliance) | appropriate TTB officer.
§ 19.508(b) | regional director (compliance) | appropriate TTB officer.
§ 19.510(a) | area supervisor | appropriate TTB officer.
§ 19.510(c) | regional director (compliance) | appropriate TTB officer.
§ 19.519 (three times) | regional director (compliance) | appropriate TTB officer.
§ 19.519 | Bureau of Alcohol, Tobacco and Firearms | Alcohol and Tobacco Tax and Trade Bureau.
§ 19.522(b)(1) | regional director (compliance) | appropriate TTB officer.
§ 19.522(b)(2) (two times) | regional director (compliance) | appropriate TTB officer.
§ 19.523(b) | regional director (compliance) | appropriate TTB officer.
§ 19.524(a)(3) | ATF | TTB.
§ 19.524(b)(1) | regional director (compliance), for each region in which taxes are paid | appropriate TTB officer.
§ 19.524(b)(3) | regional director (compliance) | appropriate TTB officer.
§ 19.524(b)(3) | ATF | TTB.
§ 19.524(c)(1) (three times) | ATF | TTB.
§ 19.524(e) | regional director (compliance) | appropriate TTB officer.
§ 19.524(e) | ATF | TTB.
§ 19.525(a) | ATF | TTB.
§ 19.525(a) | ATF Officer | appropriate TTB officer.
§ 19.533 | regional director (compliance) | appropriate TTB officer.
§ 19.538(a)(1), introductory text | Director | Administrator.
§ .539 | Director | appropriate TTB officer.
§ 19.540(c)(2)(ii) | Director | appropriate TTB officer.
§ 19.540(c)(2)(ii)(B) | regional director (compliance) | appropriate TTB officer.
§ 19.561(b)(1) | regional director (compliance) | appropriate TTB officer.
§ 19.561(c) | regional director (compliance) | appropriate TTB officer.
§ 19.562(a)(2) | area supervisor | appropriate TTB officer.
§ 19.562(a)(3) | regional director (compliance) | appropriate TTB officer.
§ 19.562(b) | area supervisor | appropriate TTB officer.
§ 19.562(c) | area supervisor | appropriate TTB officer.
§ 19.562(d) | area supervisor | appropriate TTB officer.
§ 19.562(e) | regional director (compliance) | appropriate TTB officer.
§ 19.563(a) (five times) | regional director (compliance) | appropriate TTB officer.
§ 19.563(b) (two times) | regional director (compliance) | appropriate TTB officer.
§ 19.581(b) (three times) | Director | appropriate TTB officer.
§ 19.585 | Director | appropriate TTB officer.
§ 19.588(b) | ATF | appropriate TTB.
§ 19.593(c) | regional director (compliance) | appropriate TTB officer.
§ 19.594(a) | regional director (compliance) | appropriate TTB officer.
§ 19.597(b) | regional director (compliance) | appropriate TTB officer.
§ 19.597(c) | Director | appropriate TTB officer.
§ 19.604 | Director | appropriate TTB officer.
§ 19.633(a) (two times) | ATF | TTB.
§ 19.633(a) | Director | appropriate TTB officer.
§ 19.633(b), introductory text | ATF | TTB.
§ 19.633(b), introductory text | Director | appropriate TTB officer.
§ 19.633(b), concluding text (two times) | ATF | TTB.
§ 19.633(b), concluding text | Director's | appropriate TTB officer's.
§ 19.634 | regional director (compliance) | appropriate TTB officer.
§ 19.637 | Director | appropriate TTB officer.
§ 19.638 | regional director (compliance) | appropriate TTB officer.
§ 19.641(a) | ATF | appropriate TTB.
§ 19.643(c)(1) | Director | appropriate TTB officer.
§ 19.643(c)(3) | Director | appropriate TTB officer.
§ 19.645(e) | ATF | appropriate TTB.
§ 19.645(e) | regional director (compliance) of each region where a label code is used | appropriate TTB officer.
§ 19.681(d) | ATF | TTB.
§ 19.687 | ATF | TTB.
§ 19.691(b) | regional director (compliance) | appropriate TTB officer.
§ 19.701(a) | regional director (compliance) | appropriate TTB officer.
§ 19.701(c) | ATF | appropriate TTB.
§ 19.701(e) | regional director (compliance) | appropriate TTB officer.
§ 19.721(d) | ATF | TTB.
§ 19.723(a) | ATF | appropriate TTB.
§ 19.723(b)(1) | regional director (compliance) | appropriate TTB officer.
§ 19.723(c)(1) | regional director (compliance) | appropriate TTB officer.
§ 19.723(d)(3) | ATF | appropriate TTB.
§ 19.724(a), introductory text | Director, through the regional director (compliance) | appropriate TTB officer.
§ 19.724(a)(2) | Director | appropriate TTB officer.
§ 19.724(b) | Director | appropriate TTB officer.
§ 19.725(a), introductory text | regional director (compliance) | appropriate TTB officer.
§ 19.725(b) | regional director (compliance) | appropriate TTB officer.
§ 19.731(b)(2)(iii), introductory text | ATF | appropriate TTB
§ 19.731(c)(3) | regional director (compliance) | appropriate TTB officer.
§ 19.732(f) | regional director (compliance) | appropriate TTB officer.
§ 19.741(d) | regional director (compliance) | appropriate TTB officer.
§ 19.750(b), introductory text | ATF | appropriate TTB.
§ 19.761 | ATF | appropriate TTB.
§ 19.768, introductory text | regional director (compliance) | appropriate TTB officer.
§ 19.770(a)(2) | ATF | TTB.
§ 19.770(a)(6)(i) | ATF | TTB.
§ 19.773, introductory text | ATF | appropriate TTB.
§ 19.773(b) | regional director (compliance) | appropriate TTB officer.
§ 19.774(e) | ATF | appropriate TTB.
§ 19.778(b) | ATF | TTB.
§ 19.778(d) | Director | appropriate TTB officer.
§ 19.778(e) | regional director (compliance) | appropriate TTB officer.
§ 19.791 | regional director (compliance) | appropriate TTB officer.
§ 19.792(a) | regional director (compliance) | appropriate TTB officer.
§ 19.792(c) | regional director (compliance) | appropriate TTB officer.
§ 19.822, introductory | regional director (compliance) | appropriate TTB officer.
§ 19.822, concluding text | regional director (compliance) | appropriate TTB officer.
§ 19.823 | regional director (compliance) | appropriate TTB officer.
§ 19.824 | regional director (compliance) | appropriate TTB officer.
§ 19.903, introductory text (two times) | Director | appropriate TTB officer.
§ 19.903(c) | regional director (compliance), for transmittal to the Director | appropriate TTB officer.
§ 19.903(c) (two times) | Director | appropriate TTB officer.
§ 19.903(c) | ATF | appropriate TTB.
§ 19.904, introductory text | regional director (compliance) | appropriate TTB officer.
§ 19.904(c) (four times) | regional director (compliance) | appropriate TTB officer.
§ 19.904(c) | ATF | appropriate TTB.

§§ 19.907 [Amended]

76. In § 19.907, remove the definitions of “ATF officer,” “Director,” “Region,” and “Regional director (compliance).”

§§ 19.910, 19.911, 19.912, 19.913, 19.914, 19.915, 19.916, 19.917, 19.918, 19.919, 19.921, 19.930, 19.945, 19.950, 19.955, 19.967, 19.970, 19.980, 19.982, 19.987, 19.988, 19.1001, 19.1005, and 19.1006 [Amended]

77. Amend the above listed sections as follows:

Amend: | by removing: | and replacing it with:
§ 19.910 | regional director (compliance) | appropriate TTB officer.
§ 19.911, introductory text (two times) | regional director (compliance) | appropriate TTB officer.
§ 19.912(a), introductory text | regional director (compliance) | appropriate TTB officer.
§ 19.912(a)(2) | ATF | appropriate TTB.
§ 19.913(a), paragraph heading | regional director (compliance) | appropriate TTB officer.
§ 19.913(a)(1) (two times) | regional director (compliance) | appropriate TTB officer.
§ 19.913(a)(2) (two times) | regional director (compliance) | appropriate TTB officer.
§ 19.913(b), paragraph heading and text (three times) | regional director (compliance) | appropriate TTB officer.
§ 19.913(c) | regional director (compliance) | appropriate TTB officer.
§ 19.914(a), introductory text | regional director (compliance) | appropriate TTB officer.
§ 19.915(a), introductory text | regional director (compliance) | appropriate TTB officer.
§ 19.916(b)(1) | regional director (compliance) | appropriate TTB officer.
§ 19.916(c) | ATF | appropriate TTB.
§ 19.917 | regional director (compliance) | appropriate TTB officer.
§ 19.918 (two times) | regional director (compliance) | appropriate TTB officer.
§ 19.919 (two times) | regional director (compliance) | appropriate TTB officer.
§ 19.921(c) | regional director (compliance) | appropriate TTB officer.
§ 19.930(a)(1)(ii) | regional director (compliance) | appropriate TTB officer.
§ 19.930(b), introductory text | regional director (compliance) | appropriate TTB officer.
§ 19.930(b)(4) | regional director (compliance) | appropriate TTB officer.
§ 19.945, introductory text | regional director (compliance) | appropriate TTB officer.
§ 19.950, introductory text | regional director (compliance) | appropriate TTB officer.
§ 19.950(f) | regional director (compliance) | appropriate TTB officer.
§ 19.955 | regional director (compliance) | appropriate TTB officer.
§ 19.967, introductory text | regional director (compliance) | appropriate TTB officer.
§ 19.970 (two times) | regional director (compliance) | appropriate TTB officer.
§ 19.970 (four times) | ATF | TTB.
§ 19.980(a) | regional director (compliance) | appropriate TTB officer.
§ 19.980(a) | Director | appropriate TTB officer.
§ 19.980(a) | ATF | appropriate TTB.
§ 19.982(c)(1) | ATF | appropriate TTB.
§ 19.982(c)(3) | regional director (compliance) | appropriate TTB officer.
§ 19.987 | regional director (compliance) | appropriate TTB officer.
§ 19.987 | ATF | appropriate TTB.
§ 19.988 | regional director (compliance) | appropriate TTB officer.
§ 19.1001(a) | area supervisor | appropriate TTB officer.
§ 19.1001(c) | regional director (compliance) | appropriate TTB officer.
§ 19.1005(a) | Director | appropriate TTB officer.
§ 19.1005(b) | Director | appropriate TTB officer.
§ 19.1005(b) | at no cost upon request from the ATF Distribution Center, 7943 Angus Court, Springfield, VA 22153 | by accessing the TTB Web site (http://www.ttb.gov).
§ 19.1006 (two times) | Director | appropriate TTB officer.
§ 19.1006 | ATF | appropriate TTB.

PART 20—DISTRIBUTION AND USE OF DENATURED ALCOHOL AND RUM

78. The authority citation for part 20 continues to read as follows:

Authority: 26 U.S.C. 5001, 5206, 5214, 5271-5275, 5311, 5552, 5555, 5607, 6065, 7805.

79. Amend § 20.11 as follows:

a. Remove the definitions of “Appropriate ATF officer” and “Director”.

b. In the definition of “Bulk conveyance” remove the reference to “ATF” and add, in its place, a reference to “TTB”.

c. Add, in alphabetical order, definitions of “Administrator” and “Appropriate TTB officer” to read as follows:

§ 20.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.20, Delegation of the Administrator's Authorities in 27 CFR Part 20, Distribution and Use of Denatured Alcohol and Rum.

* * * * *

80. Revise § 20.20 to read as follows:

§ 20.20 Delegations of the Administrator.

The regulatory authorities of the Administrator contained in this part are delegated to appropriate TTB officers. These TTB officers are specified in TTB Order 1135.20, Delegation of the Administrator's Authorities in 27 CFR Part 20, Distribution and use of Denatured Alcohol and Rum. You may obtain a copy of this order by accessing the TTB Web site (http://www.ttb.gov) or by mailing a request to the Alcohol and Tobacco Tax and Trade Bureau, National Revenue Center, 550 Main Street, Room 1516, Cincinnati, OH 45202.

81.Amend § 20.21 as follows:

a. In paragraph (a) remove the reference to “ATF” and add, in its place, a reference to “TTB”.

b. Revise paragraph (b) to read as follows:

§ 20.21 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§§ 20.22, 20.23, 20.24, 20.25, 20.27, 20.28, 20.37, 20.38a, 20.40, 20.40a, 20.41, 20.42, 20.43, 20.44, 20.45, 20.48, 20.50, 20.51, 20.56, 20.57, 20.60, 20.61, 20.62, 20.63, 20.64, 20.68, 20.91, 20.92, 20.100, 20.103, 20.111, 20.117, 20.132, 20.133, 20.134, 20.144, 20.147, 20.161, 20.163, 20.164, 20.166, 20.170, 20.178, 20.181, 20.182, 20.190, 20.191, 20.202, 20.204, 20.205, 20.211, 20.213, 20.234, 20.235, 20.244, 20.245, 20.246, 20.252, 20.261, 20.262, 20.263, 20.265, and 20.267 [Amended]

82. Amend the above listed sections as follows:

Amend: | by removing: | and replacing it with:
§ 20.22(a)(1) (two times) | ATF | TTB.
§ 20.22(a)(2), paragraph heading | ATF | TTB.
§ 20.22(a)(2), introductory text | ATF | TTB.
§ 20.22(a)(3) | ATF | TTB.
§ 20.22(b)(1) | ATF | TTB.
§ 20.22(b)(2), paragraph heading | ATF | TTB.
§ 20.22(b)(2), introductory text | ATF | TTB.
§ 20.22(b)(3) | ATF | TTB.
§ 20.22(c) (two times) | ATF | TTB.
§ 20.23 | ATF | TTB.
§ 20.24 | ATF | TTB.
§ 20.25 | ATF | TTB.
§ 20.27 (two times) | ATF | TTB.
§ 20.28(a) (three times) | ATF | TTB.
§ 20.28(b) | ATF | TTB.
§ 20.37 | ATF | TTB.
§ 20.38a(a) (two times) | ATF | TTB.
§ 20.38a(b), paragraph heading | ATF | TTB.
§ 20.38a(b)(6) | ATF | TTB.
§ 20.38a(c)(1) | ATF | TTB.
§ 20.38a(c)(2) (two times) | ATF | TTB.
§ 20.38a(d), paragraph heading | ATF | TTB.
§ 20.38a(d)(3) | ATF | TTB.
§ 20.38a(d)(4) | ATF | TTB.
§ 20.40(a) | ATF | TTB.
§ 20.40(b) | ATF | TTB.
§ 20.40(c) | ATF | TTB.
§ 20.40a(a) | ATF | TTB.
§ 20.40a(b)(2) (two times) | ATF | TTB.
§ 20.40a(d) | ATF | TTB.
§ 20.41(c), introductory text | ATF | TTB.
§ 20.42(a)(11) (two times) | ATF | TTB.
§ 20.42(b) | ATF | TTB.
§ 20.43(a), introductory text | ATF | TTB.
§ 20.43(a)(2) | ATF | TTB.
§ 20.43(b) | ATF | TTB.
§ 20.44, introductory text (two times) | ATF | TTB.
§ 20.45(c)(1) | ATF | TTB.
Undesignated center heading between §§ 20.45 and 20.48 | ATF F 5150.9 | Form 5150.9.
§ 20.48(b) (two times) | ATF | TTB.
§ 20.48(c) | ATF | TTB.
§ 20.50 | ATF | TTB.
§ 20.51, introductory text (two times) | ATF | TTB.
§ 20.56(a)(1) | ATF | TTB.
§ 20.56(b) | ATF | TTB.
§ 20.56(c)(1) | ATF | TTB.
§ 20.56(c)(3) | ATF | TTB.
§ 20.57(b)(1) | ATF | TTB.
§ 20.57(b)(2) | ATF | TTB.
§ 20.60 | ATF | TTB.
§ 20.61 | ATF | TTB.
§ 20.62 | ATF | TTB.
§ 20.63(a) | ATF | TTB.
§ 20.63(b) | ATF | TTB.
§ 20.64 | ATF | TTB.
§ 20.68(a), introductory text | ATF | TTB.
§ 20.91(a) (two times) | ATF | TTB.
§ 20.91(a) | an ATF ruling | a TTB ruling.
§ 20.91(c) | ATF | TTB.
§ 20.92(a) | ATF | TTB.
§ 20.92(b) | ATF | TTB.
§ 20.92(c), introductory text | ATF | TTB.
§ 20.100(a), introductory text | ATF | TTB.
§ 20.100(b) | ATF | TTB.
§ 20.100(b) | Bureau of Alcohol, Tobacco and Firearms | Alcohol Tobacco Tax and Trade Bureau.
§ 20.103 | ATF | TTB.
§ 20.111(a) (two times) | ATF | TTB.
§ 20.111(a) | an ATF ruling | a TTB ruling.
§ 20.111(b) (two times) | ATF | TTB.
§ 20.117(d)(2)(iv) | ATF | TTB.
§ 20.132(c) | ATF | TTB.
§ 20.133(a), introductory text | ATF | TTB.
§ 20.133(b) | ATF | TTB.
§ 20.134(b)(1)(ii) | ATF | TTB.
§ 20.134(c) | ATF | TTB.
§ 20.144 | ATF | TTB.
§ 20.147(b) | ATF | TTB.
§ 20.161(c)(3) | ATF | TTB.
§ 20.163(c)(2) | ATF | TTB.
§ 20.164(e) | ATF | TTB.
§ 20.166 | ATF | TTB.
§ 20.170 | ATF | TTB.
§ 20.178(a), introductory text | imformation | information.
§ 20.178(c)(1) | ATF | TTB.
§ 20.181(a) | ATF | TTB.
§ 20.182(a) | Bureau of Alcohol, Tobacco and Firearms | Alcohol and Tobacco Tax and Trade Bureau.
§ 20.190 (two times) | ATF | TTB.
§ 20.191 | ATF Publication | TTB Publication.
§ 20.191 | from the ATF Distribution Center, 7943 Angus Court, Springfield, Virginia 21153 | as provided in § 20.21(b).
§ 20.202(a) | ATF | TTB.
§ 20.204(b) | ATF | TTB.
§ 20.205(f) | ATF | TTB.
§ 20.211(b) | ATF | TTB.
§ 20.213(a) | ATF | TTB.
§ 20.213(b) (two times) | ATF | TTB.
§ 20.234(b)(3) | ATF | TTB.
§ 20.235(c) | ATF | TTB.
§ 20.244 | ATF | TTB.
§ 20.245 | ATF | TTB.
§ 20.246 | ATF | TTB.
§ 20.252(a) | ATF | TTB.
§ 20.252(b) | ATF | TTB.
§ 20.261 (two times) | ATF | TTB.
§ 20.262(c) | ATF | TTB.
§ 20.262(d) | ATF | TTB.
§ 20.263(c) | ATF | TTB.
§ 20.263(d) | ATF | TTB.
§ 20.265(a), introductory text | ATF | TTB.
§ 20.265(b) | ATF | TTB.
§ 20.267(a) (two times) | ATF | TTB.
§ 20.267(c) | ATF | TTB.

PART 21—FORMULAS FOR DENATURED ALCOHOL AND RUM

83.The authority citation for part 21 continues to read as follows:

Authority: 5 U.S.C. 552(a); 26 U.S.C. 5242, 7805.

84.Amend § 21.2 as follows:

a. In paragraph (a) remove the reference to “ATF” and add, in its place, a reference to “TTB”.

b. Revise paragraph (b) to read as follows:

§ 21.2 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§§ 21.3 and 21.5 [Amended]

85. Amend the above listed sections as follows:

Amend: | by removing: | and replacing it with:
§ 21.3(b) (two times) | ATF | TTB.
§ 21.3(c) (two times) | ATF | TTB.
§ 21.3(d) | ATF | TTB.
§ 21.5, introductory text (two times) | ATF | TTB

86. Revise § 21.7 to read as follows:

§ 21.7 Delegations of the Administrator.

The regulatory authorities of the Administrator contained in this part are delegated to appropriate TTB officers. These TTB officers are specified in TTB Order 1135.21, Delegation of the Administrator's Authorities in 27 CFR Part 21, Formulas for Denatured Alcohol and Rum. You may obtain a copy of this order by accessing the TTB Web site (http://www.ttb.gov) or by mailing a request to the Alcohol and Tobacco Tax and Trade Bureau, National Revenue Center, 550 Main Street, Room 1516, Cincinnati, OH 45202.

87. Amend § 21.11 as follows:

a. Remove the definitions of “Appropriate ATF officer” and “Director”.

b. Add, in alphabetical order, definitions of “Administrator” and “Appropriate TTB officer” to read as follows:

§ 21.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.21, Delegation of the Administrator's Authorities in 27 CFR Part 21, Formulas For Denatured Alcohol And Rum.

* * * * *

§§ 21.21, 21.31, 21.33, 21.34, 21.56, 21.65, 21.91, 21.123, and 21.141 [Amended]

88. Amend the above listed sections as follows:

Amend: | by removing: | and replacing it with:
§ 21.21(b) (two times) | ATF | TTB.
§ 21.21(c) | ATF | TTB.
§ 21.31(b) | ATF | TTB.
§ 21.31(c) | ATF | TTB.
§ 21.33(c) | ATF | TTB.
§ 21.34(c) | ATF | TTB.
§ 21.56(a) (two times) | ATF | TTB.
§ 21.65(a) (three times) | ATF | TTB.
§ 21.91 | ATF | TTB.
§ 21.123 | Bureau of Alcohol, Tobacco and Firearms | Alcohol and Tobacco Tax and Trade Bureau.
§ 21.141, Footnote No. 2 | ATF | TTB.

PART 22—DISTRIBUTION AND USE OF TAX-FREE ALCOHOL

89. The authority citation for part 22 continues to read as follows:

Authority: 26 U.S.C. 5001, 5121, 5142, 5143, 5146, 5206, 5214, 5271-5276, 5311, 5552, 5555, 6056, 6061, 6065, 6109, 6151, 6806, 7011, 7805; 31 U.S.C. 9304, 9306.

§ 22.11 [Amended]

90. Amend § 22.11 as follows:

a. Remove the definitions of “Appropriate ATF officer” and “Director”.

b. Add, in alphabetical order, definitions of “Administrator” and “Appropriate TTB officer” to read as follows:

§ 22.11 Meaning of terms.

* * * * *

Administrator. The Administrator, Alcohol and Tobacco Tax and Trade Bureau, Department of the Treasury, Washington, DC.

* * * * *

Appropriate TTB officer. An officer or employee of the Alcohol and Tobacco Tax and Trade Bureau (TTB) authorized to perform any functions relating to the administration or enforcement of this part by TTB Order 1135.22, Delegation of the Administrator's Authorities in 27 CFR Part 22, Distribution and Use of Tax-Free Alcohol.

* * * * *

91. Revise § 22.20 to read as follows:

§ 22.20 Delegations of the Administrator.

The regulatory authorities of the Administrator contained in this part are delegated to appropriate TTB officers. These TTB officers are specified in TTB Order 1135.22, Delegation of the Administrator's Authorities in 27 CFR Part 22, Distribution and Use of Tax-Free Alcohol. You may obtain a copy of this order by accessing the TTB Web site (http://www.ttb.gov) or by mailing a request to the Alcohol and Tobacco Tax and Trade Bureau, National Revenue Center, 550 Main Street, Room 1516, Cincinnati, OH 45202.

92. Amend § 22.21 as follows:

a. In paragraph (a) remove the reference to “ATF” and add, in its place, a reference to “TTB”.

b. Revise paragraph (b) to read as follows:

§ 22.21 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§§ 22.22, 22.23, 22.24, 22.25, 22.26, 22.36, 22.38, 22.39, 22.40, 22.41, 22.42, 22.43, 22.44, 22.45, 22.50, 22.51, 22.57, 22.58, 22.61, 22.62, 22.63, 22.64, 22.68, 22.102, 22.103, 22.111, 22.113, 22.122, 22.124, 22.125, 22.142, 22.154, 22.161, 22.162, 22.164, 22.171, 22.174, 22.175, and 22.176 [Amended]

93. Amend the above listed sections as follows:

Amend: | by removing: | and replacing it with:
§ 22.22(a)(1) (two times) | ATF | TTB.
§ 22.22(a)(2), paragraph heading | ATF | TTB.
§ 22.22(a)(2), introductory text | ATF | TTB.
§ 22.22(a)(3) | ATF | TTB.
§ 22.22(a)(4) | ATF | TTB.
§ 22.22(b)(1) | ATF | TTB.
§ 22.22(b)(2), paragraph heading | ATF | TTB.
§ 22.22(b)(2), introductory text | ATF | TTB.
§ 22.22(b)(3) | ATF | TTB.
§ 22.22(c) (two times) | ATF | TTB.
§ 22.23 | ATF | TTB.
§ 22.24(a) | ATF | TTB.
§ 22.24(b) | ATF | TTB.
§ 22.25 (two times) | ATF | TTB.
§ 22.26(a) (three times) | ATF | TTB.
§ 22.26(b) | ATF | TTB.
§ 22.36 | ATF | TTB.
§ 22.38(a) (two times) | ATF | TTB.
§ 22.38(b), paragraph heading | ATF | TTB.
§ 22.38(b)(6) | ATF | TTB.
§ 22.38(c)(1) | ATF | TTB.
§ 22.38(c)(2) (two times) | ATF | TTB.
§ 22.38(d), paragraph heading | ATF | TTB.
§ 22.38(d)(3) | ATF | TTB.
§ 22.38(d)(4) | ATF | TTB.
§ 22.39(a) | ATF | TTB.
§ 22.39(b) | ATF | TTB.
§ 22.39(c) | ATF | TTB.
§ 22.40(a) | ATF | TTB.
§ 22.40(b)(2) (two times) | ATF | TTB.
§ 22.40(d) | ATF | TTB.
§ 22.41(b), introductory text | ATF | TTB.
§ 22.42(a)(11) (two times) | ATF | TTB.
§ 22.42(b) | ATF | TTB.
§ 22.43(a), introductory text | ATF | TTB.
§ 22.43(a)(2) | ATF | TTB.
§ 22.43(b) | ATF | TTB.
§ 22.44, introductory text (two times) | ATF | TTB.
§ 22.45(c)(1) | ATF | TTB.
Undesignated center heading between §§ 22.45 and 22.48 | ATF F 5150.9 | Form 5150.9.
§ 22.50 | ATF | TTB.
§ 22.51, introductory text | ATF | TTB.
§ 22.57(a)(1) | ATF | TTB.
§ 22.57(b) | ATF | TTB.
§ 22.57(c)(1) | ATF | TTB.
§ 22.57(c)(3) | ATF | TTB.
§ 22.58(b)(1) | ATF | TTB.
§ 22.58(b)(2) | ATF | TTB.
§ 22.61 | ATF | TTB.
§ 22.62 | ATF | TTB.
§ 22.63 | ATF | TTB.
§ 22.64(b) | ATF | TTB.
§ 22.68, introductory text | ATF | TTB.
§ 22.102(c), introductory text | ATF | TTB.
§ 22.103 | ATF | TTB.
§ 22.111(c)(3) | ATF | TTB.
§ 22.113(a) | ATF | TTB.
§ 22.113(c) | ATF | TTB.
§ 22.122(a) | ATF | TTB.
§ 22.124(b) | ATF | TTB.
§ 22.125(c) | ATF | TTB.
§ 22.142(a)(1) | ATF | TTB.
§ 22.142(a)(2) (two times) | ATF | TTB.
§ 22.142(c) (two times) | ATF | TTB.
§ 22.142(d) | ATF | TTB.
§ 22.154(b)(3) | ATF | TTB.
§ 22.155(a) (two times) | area supervisor | appropriate TTB officer.
§ 22.161(a) | ATF | TTB.
§ 22.161(d) | ATF | TTB.
§ 22.162 | ATF | TTB.
§ 22.164(a) | ATF | TTB.
§ 22.171(a) | ATF | TTB.
§ 22.174 | ATF | TTB.
§ 22.175 | ATF | TTB.
§ 22.176 | ATF | TTB.

PART 24—WINE

94. The authority citation for part 24 continues to read as follows:

Authority: 5 U.S.C. 552(a); 26 U.S.C. 5001, 5008, 5041, 5042, 5044, 5061, 5062, 5081, 5111-5113, 5121, 5122, 5142, 5143, 5173, 5206, 5214, 5215, 5351, 5353, 5354, 5356, 5357, 5361, 5362, 5364-5373, 5381-5388, 5391, 5392, 5511, 5551, 5552, 5661, 5662, 5684, 6065, 6091, 6109, 6301, 6302, 6311, 6651, 6676, 7011, 7302, 7342, 7502, 7503, 7606, 7805, 7851; 31 U.S.C. 9301, 9303, 9304, 9306.

95. Amend § 24.10 as follows:

a. Remove the definitions of “Appropriate ATF officer” and “Director”.

b. Add, in alphabetical order, definitions of “Administrator” and “Appropriate TTB officer” to read as follows:

§ 12.10 Meaning of terms.

* * * * *

Administrator. The Administrator, Alcohol and Tobacco Tax and Trade Bureau, Department of the Treasury, Washington, DC.

* * * * *

Appropriate TTB officer. An officer or employee of the Alcohol and Tobacco Tax and Trade Bureau (TTB) authorized to perform any functions relating to the administration or enforcement of this part by TTB Order 1135.24, Delegation of the Administrator's Authorities in 27 CFR Part 24, Wine.

* * * * *

96. Revise § 24.19 to read as follows:

§ 24.19 Delegations of the Administrator.

Most of the regulatory authorities of the Administrator contained in this part are delegated to appropriate TTB officers. These TTB officers are specified in TTB Order 1135.24, Delegation of the Administrator's Authorities in 27 CFR Part 24, Wine. You may obtain a copy of this order by accessing the TTB Web site (http://www.ttb.gov) or by mailing a request to the Alcohol and Tobacco Tax and Trade Bureau, National Revenue Center, 550 Main Street, Room 1516, Cincinnati, OH 45202.

97. Amend § 24.20 as follows:

a. In paragraph (a) remove the reference to “ATF” and add, in its place, a reference to “TTB”.

b. Revise paragraph (b) to read as follows:

§ 24.20 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§§ 24.21, 24.22, 24.25, 24.26, 24.27, 24.28, 24.29, 24.30, 24.31, 24.32, 24.35, 24.36, 24.37, 24.40, 24.41, 24.50, 24.52, 24.53, 24.54, 24.55, 24.60, 24.62, 24.65, 24.66, 24.69, 24.70, 24.75, 24.77, 24.80, 24.81, 24.82, 24.86, 24.87, 24.91, 24.96, 24.103, 24.105, 24.106, 24.107, 24.108, 24.109, 24.110, 24.111, 24.112, 24.113, 24.115, 24.116, 24.117, 24.120, 24.123, 24.124, 24.125, 24.127, 24.131, 24.135, 24.136, 24.137, 24.140, 24.141, 24.145, 24.146, 24.148, 24.150, 24.154, 24.155, 24.157, 24.159, 24.165, 24.166, 24.167, 24.169, 24.170, 24.176, 24.183, 24.191, 24.197, 24.230, 24.231, 24.235, 24.236, 24.237, 24.242, 24.245, 24.246, 24.247, 24.248, 24.249, 24.250, 24.257, 24.259, 24.260, 24.265, 24.266, 24.267, 24.268, 24.271, 24.272, 24.273, 24.275, 24.276, 24.277, 24.278, 24.279, 24.291, 24.292, 24.293, 24.294, 24.295, 24.296, 24.300, 24.303, 24.304, 24.308, 24.313, 24.314, 24.316, and 24.323 [Amended]

98. Amend the above listed sections as follows:

Amend: | by removing: | and replacing it with:
§ 24.21(a), introductory text (two times) | ATF | TTB.
§ 24.21(b) | ATF | TTB.
§ 24.21(c) (two times) | ATF | TTB.
§ 24.22(a), introductory text (three times) | ATF | TTB.
§ 24.22(b) (two times) | ATF | TTB.
§ 24.22(c) | ATF | TTB.
§ 24.25(a), introductory text | ATF | TTB.
§ 24.25(b) | ATF | TTB.
§ 24.25(c) (four times) | ATF | TTB.
§ 24.25(d) | ATF | TTB.
§ 24.26 | ATF | TTB.
§ 24.27 | ATF | TTB.
§ 24.28 | ATF | TTB.
§ 24.29 | ATF | TTB.
§ 24.30 (two times) | ATF | TTB.
§ 24.31 (two times) | ATF | TTB.
§ 24.32 | ATF | TTB.
§ 24.35 (two times) | ATF | TTB.
§ 24.36 | ATF | TTB.
§ 24.37 | ATF | TTB.
§ 24.40 | ATF | TTB.
§ 24.41 (three times) | ATF | TTB.
§ 24.50(b) | ATF | TTB.
§ 24.52(a) | ATF | TTB.
§ 24.52(b) | ATF | TTB.
§ 24.53(a) | ATF | TTB.
§ 24.53(b), paragraph heading | ATF | TTB.
§ 24.53(b)(6) | ATF | TTB.
§ 24.53(c)(1) | ATF | TTB.
§ 24.53(c)(2) (two times) | ATF | TTB.
§ 24.53(d), paragraph heading | ATF | TTB.
§ 24.53(d)(3) | ATF | TTB.
§ 24.53(d)(4) | ATF | TTB.
§ 24.54(b) | ATF | TTB.
§ 24.54(c) | ATF | TTB.
§ 24.55(a) | ATF | TTB.
§ 24.60 | ATF | TTB.
§ 24.62 (two times) | ATF | TTB.
§ 24.65(a), introductory text | ATF | TTB.
§ 24.65(b), introductory text (two times) | ATF | TTB.
§ 24.65(c), introductory text | ATF | TTB.
§ 24.66(a) | ATF | TTB.
§ 24.69(a), introductory text | ATF | TTB.
§ 24.69(b) | ATF | TTB.
§ 24.70 (two times) | ATF | TTB.
§ 24.75(f) | ATF | TTB.
§ 24.77(b) (three times) | ATF | TTB.
§ 24.77(c) | ATF | TTB.
§ 24.77(d) (three times) | ATF | TTB.
§ 24.77(e) (two times) | ATF | TTB.
§ 24.80 (two times) | ATF | TTB.
§ 24.81 (four times) | ATF | TTB.
§ 24.82 | ATF | TTB.
§ 24.86 (three times) | ATF | TTB.
§ 24.87 (five times) | ATF | TTB.
§ 24.91, introductory text | ATF | TTB.
§ 24.91(c) | ATF | TTB.
§ 24.96(a) | ATF | TTB.
§ 24.103 (four times) | ATF | TTB.
§ 24.105 (three times) | ATF | TTB.
§ 24.106 (two times) | ATF | TTB.
§ 24.107 | ATF | TTB.
§ 24.108 | ATF | TTB.
§ 24.109, introductory text | ATF | TTB.
§ 24.109(k) (three times) | ATF | TTB.
§ 24.110(c)(1) | ATF | TTB.
§ 24.110(d) (two times) | ATF | TTB.
§ 24.111 (two times) | ATF | TTB.
§ 24.112 | ATF | TTB.
§ 24.113 | ATF | TTB.
§ 24.115 | ATF | TTB.
§ 24.116 (two times) | ATF | TTB.
§ 24.117 | ATF | TTB.
§ 24.120 | ATF | TTB.
§ 24.123 | ATF | TTB.
§ 24.124 | ATF | TTB.
§ 24.125(c) | ATF | TTB.
§ 24.127 | ATF | TTB.
§ 24.131 (three times) | ATF | TTB.
§ 24.135(b)(1) | ATF | TTB.
§ 24.135(b)(4) | ATF | TTB.
§ 24.135(c) (two times) | ATF | TTB.
§ 24.135(d) (two times) | ATF | TTB.
§ 24.135(e) | ATF | TTB.
§ 24.136(d) | ATF | TTB.
§ 24.137(a) | ATF | TTB.
§ 24.137(b)(1) | ATF | TTB.
§ 24.137(b)(3) | ATF | TTB.
§ 24.137(c) | ATF | TTB.
§ 24.140(a) (two times) | ATF | TTB.
§ 24.140(b)(3) | ATF | TTB.
§ 24.140(b), concluding text | ATF | TTB.
§ 24.140(c) | ATF | TTB.
§ 24.141 | ATF | TTB.
§ 24.145 | ATF | TTB.
§ 24.146(a) | ATF | TTB.
§ 24.146(b) (two times) | ATF | TTB.
§ 24.146(c) | ATF | TTB.
§ 24.148(b) | ATF | TTB.
§ 24.150 (two times) | ATF | TTB.
§ 24.154 | ATF | TTB.
§ 24.155(a), introductory text | ATF | TTB.
§ 24.155(b) | ATF | TTB.
§ 24.155(b) (two times) | Director | Administrator.
§ 24.157 (three times) | ATF | TTB.
§ 24.159 (three times) | ATF | TTB.
§ 24.165 | ATF | TTB.
§ 24.166 (five times) | ATF | TTB.
§ 24.167(a) | ATF | TTB.
§ 24.169 | ATF | TTB.
§ 24.170(a) | ATF | TTB.
§ 24.170(b) | ATF | TTB.
§ 24.176(b) (two times) | ATF | TTB.
§ 24.183 | ATF | TTB.
§ 24.191 | ATF | TTB.
§ 24.197 | ATF | TTB.
§ 24.230 | ATF | TTB.
§ 24.231 | ATF | TTB.
§ 24.235(b) | ATF | TTB.
§ 24.235(b) | area supervisor | appropriate TTB officer.
§ 24.236 | ATF | TTB.
§ 24.237 | ATF | TTB.
§ 24.242(a), introductory text | ATF | TTB.
§ 24.242(b), paragraph heading | ATF | TTB.
§ 24.242(b) (two times) | ATF | TTB.
§ 24.242(c)(1), introductory text | ATF | TTB.
§ 24.242(c)(2) (four times) | ATF | TTB.
§ 24.245 | ATF | TTB.
§ 24.246(a)(1) | ATF | TTB.
§ 24.247, introductory text | ATF | TTB.
§ 24.248, introductory text | ATF | TTB.
§ 24.249(a) | ATF | TTB.
§ 24.249(b) (two times) | ATF | TTB.
§ 24.249(c) | ATF | TTB.
§ 24.250(a) | ATF | TTB.
§ 24.250(b)(9) | ATF | TTB.
§ 24.250(c) | ATF | TTB.
§ 24.250(d) (two times) | ATF | TTB.
§ 24.257(c)(2)(i) | Director | Administrator.
§ 24.259(c) | ATF | TTB.
§ 24.260 | ATF | TTB.
§ 24.265 | ATF | TTB.
§ 24.266(a) | ATF | TTB.
§ 24.267 | ATF | TTB.
§ 24.268 (three times) | ATF | TTB.
§ 24.272(b)(1) | ATF | TTB.
§ 24.272(b)(3) | ATF | TTB.
§ 24.272(c)(1) | ATF | TTB.
§ 24.272(e) (two times) | ATF | TTB.
§ 24.275(a), introductory text | ATF | TTB.
§ 24.275(a), concluding text | ATF | TTB.
§ 24.275(b)(1) | ATF | TTB.
§ 24.276 | ATF | TTB.
§ 24.277(a) | ATF | TTB.
§ 24.278(f) (two times) | ATF | TTB.
§ 24.278(h) | ATF | TTB.
§ 24.279(a) (four times) | ATF | TTB.
§ 24.291(c) | ATF | TTB.
§ 24.292(b) | ATF | TTB.
§ 24.293(b) (two times) | ATF | TTB.
§ 24.294(a) (four times) | ATF | TTB.
§ 24.294(b) | ATF | TTB.
§ 24.295(b) | ATF | TTB.
§ 24.296(a) | ATF | TTB.
§ 24.296(b) | ATF | TTB.
§ 24.300(b) (three times) | ATF | TTB.
§ 24.300(d) | ATF | TTB.
§ 24.300(e)(3) | ATF | TTB.
§ 24.303(d) | ATF | TTB.
§ 24.304(a), introductory text | ATF | TTB.
§ 24.304(b) | ATF | TTB.
§ 24.308(b) | ATF | TTB.
§ 24.313, introductory text (three times) | ATF | TTB.
§ 24.313(d) (two times) | ATF | TTB.
§ 24.314 | ATF | TTB.
§ 24.316 | ATF | TTB.
§ 24.323 (two times) | ATF | TTB.

PART 25—BEER

99. The authority citation for part 25 continues to read as follows:

Authority: 19 U.S.C. 81c; 26 U.S.C. 5002, 5051-5054, 5056, 5061, 5091, 5111, 5113, 5142, 5143, 5146, 5222, 5401-5403, 5411-5417, 5551, 5552, 5555, 5556, 5671, 5673, 5684, 6011, 6061, 6065, 6091, 6109, 6151, 6301, 6302, 6311, 6313, 6402, 6651, 6656, 6676, 6806, 7011, 7342, 7606, 7805; 31 U.S.C. 9301, 9303-9308.

100. Amend § 25.3 as follows:

a. In paragraph (a), remove the reference to “ATF” and add, in its place, a reference to “TTB”.

b. Revise paragraph (b) to read as follows:

§ 25.3 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

101. Revise § 25.6 to read as follows:

§ 25.6 Delegations of the Administrator.

The regulatory authorities of the Administrator contained in this part are delegated to appropriate TTB officers. These TTB officers are specified in TTB Order 1135.25, Delegation of the Administrator's Authorities in 27 CFR Part 25, Beer. You may obtain a copy of this order by accessing the TTB Web site (http://www.ttb.gov) or by mailing a request to the Alcohol and Tobacco Tax and Trade Bureau, National Revenue Center, 550 Main Street, Room 1516, Cincinnati, OH 45202.

§ 25.11 [Amended]

102. Amend § 25.11 as follows:

a. Remove the definitions of “Appropriate ATF officer” and “Director”.

b. In the definition of “Barrel”, remove the reference to “ATF” and add, it its place, a reference to “TTB”.

c. Add, in alphabetical order, definitions of “Administrator” and “Appropriate TTB officer” to read as follows:

§ 7.10 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.25, Delegation of the Administrator's Authorities in 27 CFR Part 25, Beer.

* * * * *

§§ 25.22, 25.23, 25.24, 25.25, 25.31, 25.42, 25.51, 25.52, 25.61, 25.62, 25.63, 25.64, 25.66, 25.68, 25.71, 25.72, 25.74, 25.75, 25.77, 25.81, 25.85, 25.91, 25.95, 25.96, 25.101, 25.103, 25.104, 25.105, 25.114, 25.117, 25.118, 25.119, 25.120, 25.125, 25.127, 25.141, 25.142, 25.144, 25.152, 25.155, 25.158, 25.165, 25.167, 25.173, 25.182, 25.184, 25.196, 25.213, 25.222, 25.223, 25.225, 25.251, 25.252, 25.272, 25.273, 25.274, 25.276, 25.277, 25.281, 25.282, 25.283, 25.284, 25.286, 25.291, 25.294, 25.297, and 25.300 [Amended]

103. Amend the above listed sections as follows:

Amend: | by removing: | and replacing it with:
§ 25.22 | ATF | TTB.
§ 25.23(b), introductory text | ATF | TTB.
§ 25.23(c) | ATF officer through the appropriate regional director (compliance) | TTB officer.
§ 25.23(c) | ATF | TTB.
§ 25.24(a)(7) | ATF | TTB.
§ 25.25(a) (two times) | ATF F | Form.
§ 25.25(a) | appropriate ATF officer | appropriate TTB officer.
§ 25.25(b) | AFT F | Form.
§ 25.31 | ATF | TTB.
§ 25.42(a), introductory text | ATF | TTB.
§ 25.42(c) | ATF | TTB.
§ 25.51(five times) | ATF | TTB.
§ 25.52(a)(1), introductory text | ATF | TTB.
§ 25.52(a)(2) | ATF | TTB.
§ 25.52(a)(3), paragraph heading | ATF | TTB.
§ 25.52(a)(3) | ATF | TTB.
§ 25.52(a)(4) | ATF | TTB.
§ 25.52(a)(5) | ATF | TTB.
§ 25.52(b)(1) | ATF | TTB.
§ 25.52(b)(2), introductory text | ATF | TTB.
§ 25.52(b)(3) | ATF | TTB.
§ 25.52(d) (two times) | ATF | TTB.
§ 25.61(a) | ATF | TTB.
§ 25.61(c) | ATF | TTB.
§ 25.62(b) | ATF | TTB.
§ 25.63 (three times) | ATF | TTB.
§ 25.64 | ATF | TTB.
§ 25.66(c)(1) | ATF | TTB.
§ 25.66(d) | ATF | TTB.
§ 25.68(b) | ATF | TTB.
§ 25.71(a)(2) | ATF | TTB.
§ 25.71(b)(1) | ATF | TTB.
§ 25.72(b)(2) | ATF | TTB.
§ 25.74 | ATF | TTB.
§ 25.75 (two times) | ATF | TTB.
§ 25.77 | ATF | TTB.
§ 25.81(b)(1) | ATF F | Form.
§ 25.81(c) | ATF | TTB.
§ 25.81(e) (two times) | ATF | TTB.
§ 25.85 | ATF | TTB.
§ 25.91(c) | ATF | TTB.
§ 25.91(d) | ATF | TTB.
§ 25.95 (two times) | ATF | TTB.
§ 25.96 | ATF | TTB.
§ 25.101(a), introductory text | ATF | TTB.
§ 25.101(b) | ATF | TTB.
§ 25.103 (two times) | ATF | TTB.
§ 25.104 | ATF | TTB.
§ 25.105 (two times) | ATF | TTB.
§ 25.114(a) | ATF | TTB.
§ 25.117 (two times) | ATF | TTB.
§ 25.118, section heading | ATF | TTB.
§ 25.118(f) | ATF | TTB.
§ 25.119(a) | ATF | TTB.
§ 25.119(b) (two times) | ATF | TTB.
§ 25.120, section heading | ATF | TTB.
§ 25.120(c) | ATF | TTB.
§ 25.120(d) | ATF | TTB.
§ 25.125(a) | ATF | TTB.
§ 25.127 | ATF | TTB.
§ 25.141(b)(2) (two times) | ATF | TTB.
§ 25.142(b)(2) (two times) | ATF | TTB.
§ 25.142(c) | ATF | TTB.
§ 25.144(b), introductory text | ATF | TTB.
§ 25.152(a) | ATF | TTB.
§ 25.155 (two times) | ATF | TTB.
§ 25.158(c) | ATF | TTB.
§ 25.165(b)(1) | ATF | TTB.
§ 25.165(b)(3) | ATF | TTB.
§ 25.165(c)(1) | ATF | TTB.
§ 25.165(e) | ATF officer | TTB officer.
§ 25.165(e) | an ATF Procedure | a TTB Procedure.
§ 25.167(a) | ATF | TTB.
§ 25.173(a) | ATF | TTB.
§ 25.182 | ATF | TTB.
§ 25.184(d) | ATF | TTB.
§ 25.196(b) | ATF | TTB.
§ 25.213(b), introductory text (two times) | ATF | TTB.
§ 25.213(c) | ATF | TTB.
§ 25.222(a) | ATF | TTB.
§ 25.222(b) | ATF | TTB.
§ 25.223(a) | ATF | TTB.
§ 25.223(b) (five times) | ATF | TTB.
§ 25.225(b)(2) (three times) | ATF | TTB.
§ 25.251(c) | ATF | TTB.
§ 25.252(c) | ATF | TTB.
§ 25.272(a), introductory text | ATF | TTB.
§ 25.272(b) | ATF | TTB.
§ 25.272(c) | ATF | TTB.
§ 25.272(d) | ATF | TTB.
§ 25.272(e) | ATF | TTB.
§ 25.273 (two times) | ATF | TTB.
§ 25.274(a) | ATF | TTB.
§ 25.276(c) (two times) | ATF | TTB.
§ 25.277 (two times) | ATF | TTB.
§ 25.281(c) | ATF | TTB.
§ 25.282(b) | ATF | TTB.
§ 25.282(c) | ATF | TTB.
§ 25.282(d) | ATF | TTB.
§ 25.282(e), paragraph heading | ATF | TTB.
§ 25.282(e)(1) | ATF | TTB.
§ 25.282(e)(2) | ATF | TTB.
§ 25.282(f) | ATF | TTB.
§ 25.283(d) | ATF | TTB.
§ 25.284(b) | ATF | TTB.
§ 25.284(d) | ATF | TTB.
§ 25.286(a) | ATF F | Form.
§ 25.291(c)(2)(ii) | ATF | TTB.
§ 25.291(d)(3) | ATF | TTB.
§ 25.294(c) | ATF | TTB.
§ 25.297(b)(4) | ATF | TTB.
§ 25.300(a) | ATF | TTB.
§ 25.300(c) | ATF | TTB.
§ 25.300(d)(3) | ATF | TTB.

PART 26—LIQUORS AND ARTICLES FROM PUERTO RICO AND THE VIRGIN ISLANDS

104. The authority citation for part 26 continues to read as follows:

Authority: 19 U.S.C. 81c; 26 U.S.C. 5001, 5007, 5008, 5010, 5041, 5051, 5061, 5081, 5111, 5112, 5114, 5121, 5122, 5124, 5131-5134, 5141, 5146, 5207, 5232, 5271, 5276, 5301, 5314, 5555, 6001, 6301, 6302, 6804, 7101, 7102, 7651, 7652, 7805; 27 U.S.C. 203, 205; 31 U.S.C. 9301, 9303, 9304, 9306.

105. Amend § 26.2 as follows:

a. In paragraph (a) remove the reference to “ATF” and add, in its place, a reference to “TTB”.

b. Revise paragraph (b) to read as follows:

§ 26.2 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

106. Revise § 26.3 to read as follows:

§ 26.3 Delegations of the Administrator.

The regulatory authorities of the Administrator contained in this part are delegated to appropriate TTB officers. These TTB officers are specified in TTB Order 1135.26, Delegation of the Administrator's Authorities in 27 CFR Part 26, Liquors and Articles From Puerto Rico and the Virgin Islands. You may obtain a copy of this order by accessing the TTB Web site (http://www.ttb.gov) or by mailing a request to the Alcohol and Tobacco Tax and Trade Bureau, National Revenue Center, 550 Main Street, Room 1516, Cincinnati, OH 45202.

107. Amend § 26.11 as follows:

a. Remove the definitions of “Appropriate ATF officer” and “Director”.

b. Amend the definition of “Liquor bottle” by removing the reference to “ATF” and adding, in its place, a reference to “TTB”.

c. Add, in alphabetical order, definitions of “Administrator” and “Appropriate TTB officer” to read as follows:

§ 26.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.26, Delegation of the Administrator's Authorities in 27 CFR Part 26, Liquors and Articles from Puerto Rico and the Virgin Islands.

* * * * *

108. Revise § 26.37 to read as follows:

§ 26.37 Alcohol and Tobacco Tax and Trade Bureau Officers.

Appropriate TTB officers are authorized to collect internal revenue taxes on liquors and articles subject to tax, which are to be shipped to the United States.

§§ 26.40, 26.43, 26.44, 26.46, 26.47, 26.50, 26.50a, 26.51, 26.52, 26.54, 26.62a, 26.65, 26.66, 26.68a, 26.70, 26.70a, 26.71, 26.72, 26.74, 26.75, 26.76, 26.78, 26.79, 26.80, 26.81, 26.87, 26.95, 26.96, 26.104, 26.105, 26.108, 26.110, 26.112, 26.112a, 26.113, 26.116, 26.119, 26.126, 26.128, 26.165, 26.172, 26.173, 26.174, 26.193, 26.194, 26.197, 26.199, 26.199a, 26.199b, 26.199c, 26.199d, 26.199f, 26.204a, 26.205, 26.209, 26.210, 26.220, 26.221, 26.222, 26.224, 26.275, 26.276, 26.303, 26.305, 26.308, 26.309, 26.310, 26.314, 26.316, 26.318, 26.319, and 26.331 [Amended]

109. Amend the above listed sections as follows:

Amend: | by removing: | and replacing it with:
§ 26.40(e) | ATF | TTB.
§ 26.43 | ATF | TTB.
§ 26.44(a) | ATF | TTB.
§ 26.46(a) | ATF | TTB.
§ 26.47 | ATF | TTB.
§ 26.50(a) | ATF | TTB.
§ 26.50(b) | ATF | TTB.
§ 26.50a(a) | ATF | TTB.
§ 26.50a(b), introductory text | ATF National Laboratory, 1401 Research Boulevard, Rockville, MD 20850 | TTB Alcohol and Tobacco Laboratory, 6000 Ammendale Road, Ammendale, MD 20705.
§ 26.50a(b)(2), introductory text | ATF | TTB.
§ 26.51(b)(2) | ATF | TTB.
§ 26.52(b) | ATF | TTB.
§ 26.52(c) | ATF | TTB.
§ 26.54 | ATF | TTB.
§ 26.62a | ATF | TTB.
§ 26.65 | ATF | TTB.
§ 26.66, section heading | ATF | TTB.
§ 26.66(a) | ATF | TTB.
§ 26.66(b) (three times) | ATF | TTB.
§ 26.68a (two times) | ATF | TTB.
§ 26.70 | ATF | TTB.
§ 26.70a | ATF | TTB.
§ 26.71(c) | ATF | TTB.
§ 26.71(d) | ATF | TTB.
§ 26.72 (three times) | ATF | TTB.
§ 26.74 (three times) | ATF | TTB.
§ 26.75 (two times) | ATF | TTB.
§ 26.76 | ATF | TTB.
§ 26.78, section heading | ATF | TTB.
§ 26.78 | ATF | TTB.
§ 26.79, introductory text | ATF | TTB.
§ 26.79(a) | ATF | TTB.
§ 26.80(a) (three times) | ATF | TTB.
§ 26.80(b) (eight times) | ATF | TTB.
§ 26.81(a) (four times) | ATF | TTB.
§ 26.81(b), paragraph heading | ATF | TTB.
§ 26.81(b) (seven times) | ATF | TTB.
§ 26.81(c) (five times) | ATF | TTB.
§ 26.87 | ATF | TTB.
§ 26.95(b) | ATF | TTB.
§ 26.96(a) (four times) | ATF | TTB.
§ 26.96(b), paragraph heading | ATF | TTB.
§ 26.96(b) (seven times) | ATF | TTB.
§ 26.96(c) (five times) | ATF | TTB.
§ 26.104(b) | ATF | TTB.
§ 26.105(a) (four times) | ATF | TTB.
§ 26.105(b), paragraph heading | ATF | TTB.
§ 26.105(b) (seven times) | ATF | TTB.
§ 26.105(c) (five times) | ATF | TTB.
§ 26.108, section heading | ATF | TTB.
§ 26.110 (five times) | ATF | TTB.
§ 26.112(a) | ATF | TTB.
§ 26.112(c)(1) (two times) | ATF | TTB.
§ 26.112(c)(4) | ATF | TTB.
§ 26.112(e) (three times) | ATF | TTB.
§ 26.112a(b)(1) | ATF | TTB.
§ 26.112a(b)(3) | ATF | TTB.
§ 26.112a(c)(1) | ATF | TTB.
§ 26.112a(e) | regional director (compliance) | appropriate TTB officer.
§ 26.112a(e) | ATF | TTB.
§ 26.113(c) | ATF | TTB.
§ 26.113(d) | ATF | TTB.
§ 26.113(e) | ATF | TTB.
§ 26.116 | ATF | TTB.
§ 26.119 (two times) | ATF | TTB.
§ 26.126 (three times) | ATF | TTB.
§ 26.128 (five times) | ATF | TTB.
§ 26.165(a), introductory text | ATF | TTB.
§ 26.165(a)(1) | ATF | TTB.
§ 26.172(b) | ATF | TTB.
§ 26.173(a) (two times) | ATF | TTB.
§ 26.173(c), introductory text | ATF | TTB.
§ 26.173(c)(2)(viii) | ATF | TTB.
§ 26.174(a) | ATF | TTB.
§ 26.174(e) | ATF | TTB.
§ 26.193(b) | ATF | TTB.
§ 26.194(a) | appropriate ATF officer | the appropriate TTB officer.
§ 26.194(b) | ATF | TTB.
§ 26.197 | ATF | TTB.
§ 26.199, section heading | ATF | TTB.
§ 26.199 | ATF | TTB.
§ 26.199a(a) (two times) | ATF | TTB.
§ 26.199b (three times) | ATF | TTB.
§ 26.199c | ATF | TTB.
§ 26.199d, introductory text | ATF | TTB.
§ 26.199d(b) (four times) | ATF | TTB.
§ 26.199f(a) | ATF | TTB.
§ 26.204a(b), introductory text | ATF National Laboratory, 1401 Research Boulevard, Rockville, MD 20850 | TTB Alcohol and Tobacco Laboratory, 6000 Ammendale Road, Ammendale, MD 20705.
§ 26.205(a)(8)(iv) | ATF | TTB.
§ 26.209 | ATF | TTB.
§ 26.210(a) | ATF | TTB.
§ 26.220(a) | ATF | TTB.
§ 26.220(b) | ATF | TTB.
§ 26.221(b)(2) | ATF | TTB.
§ 26.222(b) | ATF | TTB.
§ 26.222(c) | ATF | TTB.
§ 26.224 | ATF | TTB.
§ 26.275(a) (two times) | ATF | TTB.
§ 26.276 (two times) | ATF | TTB.
§ 26.303 | ATF | TTB.
§ 26.305 | ATF | TTB.
§ 26.308(b) | ATF | TTB.
§ 26.309(a) (two times) | ATF | TTB.
§ 26.309(c), introductory text | ATF | TTB.
§ 26.310(a) | ATF | TTB.
§ 26.310(e) | ATF | TTB.
§ 26.314(a) (three times) | ATF | TTB.
§ 26.314(b), introductory text (three times) | ATF | TTB.
§ 26.314(b), concluding text (four times) | ATF | TTB.
§ 26.316 (two times) | ATF | TTB.
§ 26.318 | ATF | TTB.
§ 26.319 | ATF | TTB.
§ 26.331(a), introductory text | ATF | TTB.
§ 26.331(b), introductory text (two times) | ATF | TTB.
§ 26.331, concluding text (two times) | ATF | TTB.

PART 27—IMPORTATION OF DISTILLED SPIRITS, WINES, AND BEER

110. The authority citation for part 27 continues to read as follows:

Authority: 5 U.S.C. 552(a), 19 U.S.C. 81c, 1202; 26 U.S.C. 5001, 5007, 5008, 5010, 5041, 5051, 5054, 5061, 5111, 5112, 5114, 5121, 5122, 5124, 5201, 5205, 5207, 5232, 5273, 5301, 5313, 5555, 6302, 7805.

111. Amend § 27.2 as follows:

a. In paragraph (a) remove the reference to “ATF” and add, in its place, a reference to “TTB”.

b. Revise paragraph (b) to read as follows:

§ 27.2 Forms prescribed.

* * * * *

(b) Forms prescribed by this part are available for printing through the TTB. Web site (http://www.ttb.gov) or by mailing a request to the Alcohol and Tobacco Tax and Trade Bureau, National Revenue Center, 550 Main Street, Room 1516, Cincinnati, OH 45202.

112. Revise § 27.3 to read as follows:

§ 27.3 Delegations of the Administrator.

The regulatory authorities of the Administrator contained in this part are delegated to appropriate TTB officers. These TTB officers are specified in TTB Order 1135.27, Delegation of the Administrator's Authorities in 27 CFR Part 27, Importation of Distilled Spirits, Wines, and Beer. You may obtain a copy of this order by accessing the TTB Web site (http://www.ttb.gov) or by mailing a request to the Alcohol and Tobacco Tax and Trade Bureau, National Revenue Center, 550 Main Street, Room 1516, Cincinnati, OH 45202.

113. Amend § 27.11 as follows:

a. Remove the definitions of “Appropriate ATF officer” and “Director”.

b. Amend the definition of “Liquor bottle” by removing the reference to “ATF” and adding, in its place, a reference to “TTB”.

c. Add, in alphabetical order, definitions of “Administrator” and “Appropriate TTB officer” to read as follows:

§ 27.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.27, Delegation of the Administrator's Authorities in 27 CFR Part 27, Importation of Distilled Spirits, Wines, and Beer.

* * * * *

§§ 27.30, 27.58, 27.59, 27.76, 27.77, 27.136, 27.137, 27.171, 27.172, 27.175, 27.181, 27.182, 27.204, 27.206, 27.208, 27.209, and 27.221 [Amended]

114. Amend the above listed sections as follows:

Amend: | by removing: | and replacing it with:
§ 27.30(a) | ATF | TTB.
§ 27.58 (two times) | ATF | TTB.
§ 27.59 | ATF | TTB.
§ 27.76(a) | ATF | TTB.
§ 27.76(b), introductory text | ATF National Laboratory, 1401 Research Boulevard, Attn: NBA, Rockville, MD 20850 | TTB Alcohol and Tobacco Laboratory, 6000 Ammendale Road, Ammendale, MD 20705.
§ 27.77(b), introductory text | ATF Laboratory, 1401 Research Boulevard, Rockville, MD 20850 | TTB Alcohol and Tobacco Laboratory, 6000 Ammendale Road, Ammendale, MD 20705.
§ 27.77(d) (two times) | ATF | TTB.
§ 27.136(a) (two times) | ATF | TTB.
§ 27.137 (three times) | ATF | TTB.
§ 27.171 | ATF | TTB.
§ 27.172 | ATF | TTB.
§ 27.175 | ATF | TTB.
§ 27.181(a) | ATF | TTB.
§ 27.182(b)(1) | ATF | TTB.
§ 27.182(d) | ATF | TTB.
§ 27.204(a) (four times) | ATF | TTB.
§ 27.204(b), introductory text (three times) | ATF | TTB.
§ 27.204, concluding text (four times) | ATF | TTB.
§ 27.206 (two times) | ATF | TTB.
§ 27.208 | ATF | TTB.
§ 27.209 | ATF | TTB.
§ 27.221(a), introductory text | ATF | TTB.
§ 27.221(b), introductory text (two times) | ATF | TTB.
§ 27.221, concluding text (two times) | ATF | TTB.

PART 28—EXPORTATION OF ALCOHOL

115. The authority citation for part 28 continues to read as follows:

Authority: 5 U.S.C. 552(a); 19 U.S.C. 81c, 1202; 26 U.S.C. 5001, 5007, 5008, 5041, 5051, 5054, 5061, 5111, 5112, 5114, 5121, 5122, 5124, 5201, 5205, 5207, 5232, 5273, 5301, 5313, 5555, 6302, 7805; 27 U.S.C. 203, 205; 44 U.S.C. 3504(h).

116. Revise § 28.4 to read as follows:

§ 28.4 Delegations of the Administrator.

Most of the regulatory authorities of the Administrator contained in this part are delegated to appropriate TTB officers. These TTB officers are specified in TTB Order 1135.28, Delegation of the Administrator's Authorities in 27 CFR Part 28, Exportation of Alcohol. You may obtain a copy of this order by accessing the TTB Web site (http://www.ttb.gov) or by mailing a request to the Alcohol and Tobacco Tax and Trade Bureau, National Revenue Center, 550 Main Street, Room 1516, Cincinnati, OH 45202.

PART 29—STILLS AND MISCELLANEOUS REGULATIONS

117. The authority citation for part 29 continues to read as follows:

Authority: 26 U.S.C. 5002, 5101, 5102, 5179, 5291, 5601, 5615, 5687, 7805.

118. Revise § 29.42 to read as follows:

§ 29.42 Delegations of the Administrator.

The regulatory authorities of the Administrator contained in this part are delegated to appropriate TTB officers. These TTB officers are specified in TTB Order 1135.29, Delegation of the Administrator's Authorities in 27 CFR Part 29, Stills and Miscellaneous Regulations. You may obtain a copy of this order by accessing the TTB Web site (http://www.ttb.gov) or by mailing a request to the Alcohol and Tobacco Tax and Trade Bureau, National Revenue Center, 550 Main Street, Room 1516, Cincinnati, OH 45202.

119. Amend § 29.43 as follows:

a. In paragraph (a) remove the reference to “ATF” and add, in its place, a reference to “TTB”.

b. Revise paragraph (b) to read as follows:

§ 29.43 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§ 29.45 [Amended]

120. Amend § 29.45 as follows:

a. Remove the definitions of “Appropriate ATF officer” and “Director”.

b. Add, in alphabetical order, definitions of “Administrator” and “Appropriate TTB officer” to read as follows:

§ 29.45 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.29, Delegation of the Administrator's Authorities in 27 CFR Part 29, Stills and Miscellaneous Regulations.

* * * * *

§§ 29.47, 27.49, 29.55, and 29.59 [Amended]

121. Amend the above listed sections as follows:

Amend: | by removing: | and replacing it with:
§ 29.47(a) (two times) | ATF | TTB.
§ 29.47(c) | ATF | TTB.
§ 29.49(a) | ATF | TTB.
§ 29.49(b) | ATF | TTB.
§ 29.49(c) | ATF | TTB.
§ 29.55(a) (two times) | ATF | TTB.
§ 29.55(c) | ATF | TTB.
§ 29.59 | ATF | TTB.

PART 30—GAUGING MANUAL

122. The authority citation for part 30 continues to read as follows:

Authority: 26 U.S.C. 7805.

§ 30.1 [Amended]

123. Amend § 30.1(c) by removing the reference to “ATF”.

§ 30.11 [Amended]

124. Amend § 30.11 as follows:

a. Remove the definitions of “Appropriate ATF officer” and “Director”.

b. In the definition of “Bulk conveyance” remove the reference to “ATF” and add, in its place, a reference to “TTB”.

c. Add, in alphabetical order, definitions of “Administrator” and “Appropriate TTB officer” to read as follows:

§ 30.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.30, Delegation of the Administrator's Authorities in 27 CFR Part 30, Gauging Manual.

* * * * *

§§ 30.21, 30.24, 30.31, 30.36, 30.43, and 30.51 [Amended]

125. Amend the above listed sections as follows:

Amend: | by removing: | and replacing it with:
§ 30.21(c), paragraph heading | ATF | TTB.
§ 30.21(c) (five times) | ATF | TTB.
§ 30.24(a) | ATF | TTB.
§ 30.24(b) | ATF | TTB.
§ 30.31(b) | ATF | TTB.
§ 30.36 | ATF | TTB.
§ 30.43 | ATF | TTB.
§ 30.51 | ATF official | TTB officer.

PART 31—ALCOHOL BEVERAGE DEALERS

126. The authority citation for part 31 continues to read as follows:

Authority: 26 U.S.C. 5001, 5002, 5111-5114, 5116, 5117, 5121-5124, 5142, 5143, 5145, 5146, 5148, 5206, 5207, 5301, 5352, 5555, 5613, 5681, 5691, 6001, 6011, 6061, 6065, 6071, 6091, 6109, 6151, 6311, 6314, 6402, 6511, 6601, 6621, 6651, 6657, 7011, 7805.

127. Amend § 31.11 as follows:

a. In the definition of “Liquor bottle”, remove the word “Administrator” and add, in its place, the words “appropriate TTB officer”.

b. Revise the definition of “Appropriate TTB officer” to read as follows:

§ 31.11 Meaning of terms.

* * * * *

Appropriate TTB officer. An officer or employee of the Alcohol and Tobacco Tax and Trade Bureau (TTB) authorized to perform any functions relating to the administration or enforcement of this part by TTB Order 1135.31, Delegation of the Administrator's Authorities in 27 CFR Part 31, Alcohol Beverage Dealers.

* * * * *

128. Add a new § 31.43 to read as follows:

§ 31.43 Delegations of the Administrator.

The regulatory authorities of the Administrator contained in this part are delegated to appropriate TTB officers. These TTB officers are specified in TTB Order 1135.31, Delegations of the Administrator's Authorities in 27 CFR Part 31, Alcohol Beverage Dealers. You may obtain a copy of this order by accessing the TTB Web site (http://www.ttb.gov) or by mailing a request to the Alcohol and Tobacco Tax and Trade Bureau, National Revenue Center, 550 Main Street, Room 1516, Cincinnati, OH 45202.

§§ 31.42, 31.55, 31.94, 31.131, 31.135, 31.136, 31.137, 31.138, 31.223, 31.230, 31.234, 31.236, and 31.237 [Amended]

129. Amend the above listed sections as follows:

Amend: | by removing: | and replacing it with:
§ 31.42 | Any TTB officer | Any appropriate TTB officer.
§ 31.55(c) | to TTB officers | to appropriate TTB officers.
§ 31.94 | TTB | the appropriate TTB officer.
§ 31.131 | any TTB officer | any appropriate TTB officer.
§ 31.135 | an TTB officer | an appropriate TTB officer.
§ 31.135 | the TTB officer | the appropriate TTB officer.
§ 31.136 | an TTB officer | an appropriate TTB officer.
§ 31.137 | the TTB officer | the appropriate TTB officer.
§ 31.138 | A TTB officer | The appropriate TTB officer.
§ 31.223 | TTB officers | appropriate TTB officers.
§ 31.230(d) | TTB officers | appropriate TTB officers.
§ 31.234(a) | TTB officers | appropriate TTB officers.
§ 31.236 | TTB officers | appropriate TTB officers.
§ 31.237 | TTB officers | appropriate TTB officers.

PART 40—MANUFACTURE OF TOBACCO PRODUCTS AND CIGARETTE PAPERS AND TUBES

130. The authority citation for part 40 continues to read as follows:

Authority: 26 U.S.C. 5142, 5143, 5146, 5701, 5703-5705, 5711-5713, 5721-5723, 5731, 5741, 5751, 5753, 5761-5763, 6061, 6065, 6109, 6151, 6301, 6302, 6311, 6313, 6402, 6404, 6423, 6676, 6806, 7011, 7212, 7325, 7342, 7502, 7503, 7606, 7805; 31 U.S.C. 9301, 9303, 9304, 9306.

131. Amend § 40.11 as follows:

a. Remove the definitions of “Appropriate ATF officer”, “Associate Director (Compliance Operations)”, “ATF”, “ATF officer”, “Director”, “Regions”, and “Regional director”.

b. In the definition of “Permit number” remove the words “regional director (compliance)” and add, in their place, the words “appropriate TTB officer”.

c. Add, in alphabetical order, definitions of “Administrator”, “Appropriate TTB officer”, and “TTB” to read as follows:

§ 40.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.40, Delegation of the Administrator's Authorities in 27 CFR Part 40, Manufacture of Tobacco Products and Cigarette Papers and Tubes.

* * * * *

TTB. The Alcohol and Tobacco Tax and Trade Bureau, Department of the Treasury.

* * * * *

§§ 40.22, 40.33, 40.35, and 40.36 [Amended]

132. Amend the above listed sections as follows:

Amend: | by removing: | and replacing it with:
§ 40.22(b)(1) (four times) | ATF | TTB.
§ 40.22(b)(2)(i) | ATF | TTB.
§ 40.22(b)(2)(ii) | ATF's | TTB's.
§ 40.22(b)(2)(iii) | ATF | TTB.
§ 40.33(a) (two times) | ATF | TTB.
§ 40.33(b), paragraph heading | ATF | TTB.
§ 40.33(b)(6) | ATF | TTB.
§ 40.33(c)(1) | ATF | TTB.
§ 40.33(c)(2) (two times) | ATF | TTB.
§ 40.33(d), paragraph heading | ATF | TTB.
§ 40.33(d)(3) | ATF | TTB.
§ 40.33(d)(4) | ATF | TTB.
§ 40.35(a) | ATF | TTB.
§ 40.35(b) | ATF | TTB.
§ 40.35(c) | ATF | appropriate TTB.
§ 40.36(a) | ATF | TTB.
§ 40.36(b)(2) | ATF | TTB.
§ 40.36(d) | ATF | TTB.

133. Amend § 40.41 as follows:

a. In paragraph (a) remove the reference to “Director” and add, in its place, a reference to appropriate “TTB officer”.

b. Revise paragraph (b) to read as follows:

§ 40.41 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§§ 40.42, 40.43, 40.44, 40.45, 40.46, and 40.47 [Amended]

134. Amend the above sections as follows:

Amend: | by removing: | and replacing it with:
§ 40.42, section heading | ATF | Appropriate TTB.
§ 40.42 (three times) | ATF | appropriate TTB.
§ 40.43 | ATF | TTB.
§ 40.44 | regional director (compliance) | appropriate TTB officer.
§ 40.45, introductory text (two times) | Director | appropriate TTB officer.
§ 40.45, concluding text | regional director (compliance) for transmittal to the Director | appropriate TTB officer.
§ 40.45, concluding text (three times) | Director | appropriate TTB officer.
§ 40.46, introductory text | Director | appropriate TTB officer.
§ 40.46, concluding text | judgment of the Director | judgment of the appropriate TTB officer.
§ 40.46, concluding text | regional director (compliance) for transmittal to the Director | appropriate TTB officer.
§ 40.46, concluding text | Director | appropriate TTB officer.
§ 40.47 | The Director may authorize | The appropriate TTB officer may authorize.
§ 40.47 | regional director (compliance) for the region in which the factory is located, for his transmittal to the Director | TTB officer.
§ 40.47 (two times) | Director | appropriate TTB officer.

135. Revise § 40.49 to read as follows:

§ 40.49 Delegations of the Administrator.

Most of the regulatory authorities of the Administrator contained in this part are delegated to appropriate DTTB. officers. These DTTB. officers are specified in DTTB. Order 1135.40, Delegation of the Administrator's Authorities in 27 CFR Part 40, Manufacture of Tobacco Products and Cigarette Papers and Tubes. You may obtain a copy of this order by accessing the DTTB. Web site (http://www.ttb.gov) or by mailing a request to the Alcohol and Tobacco Tax and Trade Bureau, National Revenue Center, 550 Main Street, Room 1516, Cincinnati, OH 45202.

§§ 40.62, 40.63, 40.64, 40.68, 40.69, 40.70, 40.71, 40.72, 40.73, 40.74, 40.75, 40.76, 40.101, 40.102, 40.103, 40.113, 40.131, 40.136, 40.138, 40.139, 40.140, 40.162, 40.165a, 40.166, 40.167, 40.168, 40.181, 40.184, 40.185, 40.201, 40.202, 40.212, 40.217, 40.251, 40.253, 40.254, 40.255, 40.281, 40.282, 40.283, 40.284, 40.286, 40.287, 40.301, 40.311, 40.312, 40.313, 40.331, 40.332, 40.355, 40.356, 40.357, 40.359, 40.373, 40.374, 40.375, 40.382, 40.383, 40.384, 40.385, 40.386, 40.392, 40.393, 40.394, 40.395, 40.396, 40.401, 40.405, 40.406, 40.407, 40.408, 40.410, 40.422, 40.425, 40.431, 40.433, 40.435, 40.471, 40.472, 40.473, 40.474, 40.475, 40.476, 40.477, and 40.478 [Amended]

136. Amend the above listed sections as follows:

Amend: | by removing: | and replacing it with:
§ 40.62 | regional director (compliance) for the region in which the proposed factory officer will be located | appropriate TTB officer.
§ 40.63 | same regional director (compliance) | appropriate TTB officer.
§ 40.64 | same regional director (compliance) | appropriate TTB officer.
§ 40.68 (three times) | regional director (compliance) | appropriate TTB officer.
§ 40.69, introductory text | regional director (compliance) | appropriate TTB officer.
§ 40.70 | regional director (compliance) | appropriate TTB officer.
§ 40.71 | regional director (compliance) | appropriate TTB officer.
§ 40.72 | Director | appropriate TTB officer.
§ 40.73 (three times) | regional director (compliance) | appropriate TTB officer.
§ 40.74 (three times) | regional director (compliance) | appropriate TTB officer.
§ 40.75 | regional director (compliance) | appropriate TTB officer.
§ 40.76 | ATF | appropriate TTB.
§ 40.101 | regional director (compliance) | appropriate TTB officer.
§ 40.102 | regional director (compliance) | appropriate TTB officer.
§ 40.103 (two times) | regional director (compliance) | appropriate TTB officer.
§ 40.113 | regional director (compliance) | appropriate TTB officer.
§ 40.131(a) | regional director (compliance) | appropriate TTB officer.
§ 40.136(b) | regional director (compliance) | appropriate TTB officer.
§ 40.136(e) | regional director (compliance) | appropriate TTB officer.
§ 40.138 | regional director (compliance) | appropriate TTB officer.
§ 40.139 | regional director (compliance) | appropriate TTB officer.
§ 40.140 (three times) | regional director (compliance) | appropriate TTB officer.
§ 40.162 | ATF | TTB.
§ 40.162 | regional director (compliance) | appropriate TTB officer.
§ 40.165a(b)(1) | regional director (compliance) for each region in which taxes are paid | appropriate TTB officer.
§ 40.165a(b)(3) | regional director (compliance) | appropriate TTB officer.
§ 40.165a(c)(1) | ATF | TTB.
§ 40.165a(e) | regional director (compliance) | appropriate TTB officer.
§ 40.165a(e) | ATF | TTB.
§ 40.166 | regional director (compliance) | appropriate TTB officer.
§ 40.167(a) | ATF | TTB.
§ 40.167(b) | ATF | TTB.
§ 40.168 | regional director (compliance) | appropriate TTB officer.
§ 40.168 | “Bureau of Alcohol, Tobacco and Firearms” | “Alcohol and Tobacco Tax and Trade Bureau”.
§ 40.181 (two times) | regional director (compliance) | appropriate TTB officer.
§ 40.184(b)(1) | ATF | appropriate TTB.
§ 40.185 | ATF | appropriate TTB.
§ 40.201 (two times) | ATF | appropriate TTB.
§ 40.201 | regional director (compliance) | appropriate TTB officer.
§ 40.202(a) | regional director (compliance) | appropriate TTB officer.
§ 40.202(b) | Associate Director (Compliance Operations), Attn: Industry Control Division, Bureau of Alcohol, Tobacco and Firearms, Washington, DC 20226 | appropriate TTB officer.
§ 40.212 (three times) | Director | appropriate TTB officer.
§ 40.217 | regional director (compliance) for the region in which the products are to be repackaged | appropriate TTB officer.
§ 40.217 | regional director (compliance) | appropriate TTB officer.
§ 40.217 | ATF | appropriate TTB.
§ 40.251 (two times) | regional director (compliance) | appropriate TTB officer.
§ 40.253 (four times) | regional director (compliance) | appropriate TTB officer.
§ 40.253 | ATF | appropriate TTB.
§ 40.254 | regional director (compliance) | appropriate TTB officer.
§ 40.255 | ATF | appropriate TTB.
§ 40.255 (two times) | Regional Director (Compliance) | appropriate TTB officer.
§ 40.281 | satisfaction of the regional director (compliance) | satisfaction of the appropriate TTB officer.
§ 40.281 | regional director (compliance) for the region in which the tax or liability was assessed | appropriate TTB officer.
§ 40.282 | regional director (compliance) for the region in which the products were removed | appropriate TTB officer.
§ 40.282 | regional director (compliance) for the region in which the products are assembled | appropriate TTB officer.
§ 40.282 | regional director (compliance) | appropriate TTB officer.
§ 40.283 | satisfactory to the regional director (compliance) | satisfactory to the appropriate TTB officer.
§ 40.283 | regional director (compliance) for the region in which the tax was paid, or where the tax was paid in more than one region with the regional director (compliance) for any one of the regions in which the tax was paid | appropriate TTB officer.
§ 40.283 | action by the regional director (compliance) | action by the appropriate TTB officer.
§ 40.284 (two times) | regional director (compliance) for the region in which the factory is located | appropriate TTB officer.
§ 40.284 | satisfaction of the regional director (compliance) | satisfaction of the appropriate TTB officer.
§ 40.284 | claim by the regional director (compliance) | claim by the appropriate TTB officer.
§ 40.286 | regional director (compliance) for the region in which the tax was paid | appropriate TTB officer.
§ 40.287 | regional director (compliance) for the region in which the factory is located | appropriate TTB officer.
§ 40.287 (two times) | regional director (compliance) | appropriate TTB officer.
§ 40.301 | regional director (compliance) | appropriate TTB officer.
§ 40.311(a) | ATF | TTB.
§ 40.311(a) | regional director (compliance) for the region in which the products are assembled | appropriate TTB officer.
§ 40.312, section heading | regional director (compliance) | the appropriate TTB officer.
§ 40.312 | regional director (compliance) may assign a TTB officer to | appropriate TTB officer may assign a TTB officer to.
§ 40.313 | regional director's (compliance) | appropriate TTB officer's.
§ 40.313 (two times) | regional director (compliance) | appropriate TTB officer.
§ 40.313 | ATF | appropriate TTB.
§ 40.331 (two times) | regional director (compliance) | appropriate TTB officer.
§ 40.332 (three times) | regional director (compliance) | appropriate TTB officer.
§ 40.332 | Director | Administrator.
§ 40.355(a) | ATF | TTB.
§ 40.355(b)(2) | regional director (compliance) | appropriate TTB officer.
§ 40.355(d) | ATF | TTB.
§ 40.356 (two times) | ATF | TTB.
§ 40.356 | regional director (compliance) | appropriate TTB officer.
§ 40.357(a)(3) | ATF | TTB.
§ 40.357(b)(1) | regional director (compliance), for each region in which taxes are paid | appropriate TTB officer.
§ 40.357(b)(3) | regional director (compliance) | appropriate TTB officer.
§ 40.357(b)(3) | ATF | TTB.
§ 40.357(c)(1) (three times) | ATF | TTB.
§ 40.357(e) | regional director (compliance) | appropriate TTB officer.
§ 40.357(e) | AFT | TTB.
§ 40.359 (four times) | ATF | TTB.
§ 40.373(a) (two times) | ATF | TTB.
§ 40.373(b), paragraph heading and introductory text | ATF | TTB.
§ 40.373(b)(6) | ATF | TTB.
§ 40.373(c)(1) | ATF | TTB.
§ 40.373(c)(2) (two times) | ATF | TTB.
§ 40.373(d), paragraph heading | ATF | TTB.
§ 40.373(d)(3) | ATF | TTB.
§ 40.373(d)(4) | ATF | TTB.
§ 40.374(a) | ATF | TTB.
§ 40.374(b) | ATF | TTB.
§ 40.374(c) | ATF officers | the appropriate TTB officers.
§ 40.375(a) | ATF | TTB.
§ 40.375(b)(2) (two times) | ATF | TTB.
§ 40.375(d) | ATF | TTB.
§ 40.382, section heading | ATF | TTB.
§ 40.382 | Any ATF officer | the appropriate TTB officer.
§ 40.382 (two times) | any ATF officer | the appropriate TTB officer.
§ 40.382 | any AFT officer | the appropriate TTB officer.
§ 40.383 | ATF | TTB.
§ 40.384 | regional director (compliance) | appropriate TTB officer.
§ 40.385, introductory text (three times) | Director | appropriate TTB officer.
§ 40.385, concluding text | regional director (compliance) for transmittal to the Director | appropriate TTB officer.
§ 40.385, concluding text (three times) | Director | appropriate TTB officer.
§ 40.386, introductory text | Director | appropriate TTB officer.
§ 40.386(c) | judgment of the Director | judgment of the appropriate TTB officer.
§ 40.386(c) | regional director (compliance) for transmittal to the Director | appropriate TTB officer.
§ 40.386(c) | authorization of the Director | authorization of the appropriate TTB officer.
§ 40.392 | ATF | TTB.
§ 40.393 (two times) | ATF | TTB.
§ 40.393 (three times) | regional director (compliance) | appropriate TTB officer.
§ 40.394 (two times) | regional director (compliance) | appropriate TTB officer.
§ 40.395 | regional director (compliance) | appropriate TTB officer.
§ 40.396 (two times) | regional director (compliance) | appropriate TTB officer.
§ 40.401(b) | regional director (compliance) | appropriate TTB officer.
§ 40.405 (three times) | regional director (compliance) | appropriate TTB officer.
§ 40.406(b) | regional director (compliance) | appropriate TTB officer.
§ 40.406(d) | regional director (compliance) | appropriate TTB officer.
§ 40.407 | ATF | TTB.
§ 40.408 (two times) | regional director (compliance) | appropriate TTB officer.
§ 40.408 | ATF | appropriate TTB.
§ 40.410 (four times) | regional director (compliance) | appropriate TTB officer.
§ 40.422, introductory text | ATF | TTB.
§ 40.425 | ATF | appropriate TTB.
§ 40.431, introductory text (two times) | ATF Form | TTB Form.
§ 40.431, introductory text | an ATF officer | the appropriate TTB officer.
§ 40.433 | any ATF | the appropriate TTB.
§ 40.435 | any ATF | the appropriate TTB.
§ 40.471 | ATF | TTB.
§ 40.471 | satisfaction of the regional director (compliance) | satisfaction of the appropriate TTB officer.
§ 40.471 | regional director (compliance) for the region in which the tax or liability was assessed | appropriate TTB officer.
§ 40.472 (three times) | ATF | TTB.
§ 40.472 | regional director (compliance) for the region in which the articles were removed | appropriate TTB officer.
§ 40.472 | regional director (compliance) for the region in which the articles are assembled | appropriate TTB officer.
§ 40.472 | claim by the regional director (compliance) | claim by the appropriate TTB officer.
§ 40.473 | satisfactory to the regional director (compliance) | satisfactory to the appropriate TTB officer.
§ 40.473 (three times) | ATF | TTB.
§ 40.473 | regional director (compliance) for the region in which the tax was paid, or where the tax was paid in more than one region with the regional director (compliance) for any one of the regions in which the tax was paid | appropriate TTB officer.
§ 40.473 | Upon action by the regional director (compliance) | Upon action by the TTB officer.
§ 40.474 (two times) | regional director (compliance) for the region in which the factory is located | appropriate TTB officer.
§ 40.474 (two times) | ATF | TTB.
§ 40.474 | to the satisfaction of the regional director (compliance) | to the satisfaction of the appropriate TTB officer.
§ 40.474 | Upon action on the claim by the regional director (compliance) | Upon action on the claim by the appropriate TTB officer.
§ 40.475 | regional director (compliance) | appropriate TTB officer.
§ 40.476 | ATF | TTB.
§ 40.476 | regional director (compliance) for the region in which the articles are assembled | appropriate TTB officer.
§ 40.477, section heading | regional director (compliance) | the appropriate TTB officer.
§ 40.477 | regional director (compliance) may assign an ATF officer to | appropriate TTB officer may assign a TTB officer to.
§ 40.478 | regional director's (compliance) | appropriate TTB officer's.
§ 40.478 | regional director (compliance) | appropriate TTB officer.
§ 40.478 | ATF Form | TTB Form.
§ 40.478 | ATF officer | appropriate TTB officer.

PART 44—EXPORTATION OF TOBACCO PRODUCTS AND CIGARETTE PAPERS AND TUBES, WITHOUT PAYMENT OF TAX, OR WITH DRAWBACK OF TAX

137. The authority citation for part 44 continues to read as follows:

Authority: 26 U.S.C. 5142, 5143, 5146, 5701, 5703-5705, 5711-5713, 5721-5723, 5731, 5741, 5751, 5754, 6061, 6065, 6151, 6402, 6404, 6806, 7011, 7212, 7342, 7606, 7805; 31 U.S.C. 9301, 9303, 9304, 9306.

138. Amend § 44.2 as follows:

a. In paragraph (a) remove the reference to “ATF” and add, in its place, a reference to “TTB”.

b. Revise paragraph (b) to read as follows:

§ 44.2 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

139. Revise § 44.3 to read as follows:

§ 44.3 Delegations of the Administrator.

Most of the regulatory authorities of the Administrator contained in this part are delegated to appropriate TTB officers. These TTB officers are specified in TTB Order 1135.44, Delegation of the Administrator's Authorities in 27 CFR Part 44, Exportation of Tobacco Products and Cigarette Papers and Tubes, Without Payment of Tax, or With Drawback of Tax. You may obtain a copy of this order by accessing the TTB Web site (http://www.ttb.gov) or by mailing a request to the Alcohol and Tobacco Tax and Trade Bureau, National Revenue Center, 550 Main Street, Room 1516, Cincinnati, OH 45202.

140. Amend § 44.11 as follows:

a. Remove the definitions of “Appropriate ATF officer” and “Director”.

b. Add, in alphabetical order, definitions of “Administrator” and “Appropriate TTB officer” to read as follows:

§ 44.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.44, Delegation of the Administrator's Authorities in 27 CFR Part 44, Exportation of Tobacco Products and Cigarette Papers and Tubes, Without Payment of Tax, or With Drawback of Tax.

* * * * *

§§ 44.33, 44.35, 44.36, 44.62, 44.66, 44.67, 44.70, 44.71, 44.72, 44.73, 44.82, 44.83, 44.84, 44.91, 44.92, 44.93, 44.104, 44.105, 44.106, 44.112, 44.121, 44.123, 44.124, 44.125, 44.127, 44.129, 44.142, 44.143, 44.145, 44.147, 44.150, 44.152, 44.153, 44.154, 44.161, 44.162, 44.184, 44.199, 44.200, 44.201, 44.202, 44.203, 44.204, 44.205, 44.206, 44.207, 44.207a, 44.208, 44.209, 44.210, 44.212, 44.213, 44.222, 44.223, 44.224, 44.225, 44.226, 44.227, 44.228, 44.229, 44.230, 44.231, 44.232, 44.242, 44.244, 44.245, 44.246, 44.257, 44.258, 44.259, 44.260, 44.261, 44.262, 44.263, 44.264, 44.264a, 44.265, 44.266, and 44.267 [Amended]

141. Amend the above listed sections as follows:

Amend: | by removing: | and replacing it with:
§ 44.33(a) (two times) | ATF | TTB.
§ 44.33(b), paragraph heading | ATF | TTB.
§ 44.33(b)(6) | ATF | TTB.
§ 44.33(c)(1) | ATF | TTB.
§ 44.33(c)(2) (two times) | ATF | TTB.
§ 44.33(d), paragraph heading | ATF | TTB.
§ 44.33(d)(3) | ATF | TTB.
§ 44.33(d)(4) | ATF | TTB.
§ 44.35(a) (two times) | ATF | TTB.
§ 44.35(b) | ATF | TTB.
§ 44.35(c) | ATF | TTB.
§ 44.36(a) | ATF | TTB.
§ 44.36(b)(2) (two times) | ATF | TTB.
§ 44.36(d) | ATF | TTB.
§ 44.62 | ATF | TTB.
§ 44.66 | ATF | TTB.
§ 44.67(a) (two times) | ATF | TTB.
§ 44.70, section heading | ATF | TTB.
§ 44.70 (three times) | ATF | TTB.
§ 44.71 | ATF | TTB.
§ 44.72, introductory text (two times) | ATF | TTB.
§ 44.72(c) (four times) | ATF | TTB.
§ 44.73, introductory text | ATF | TTB.
§ 44.73(c) (three times) | ATF | TTB.
§ 44.82 | ATF | TTB.
§ 44.83 | ATF | TTB.
§ 44.84 | ATF | TTB.
§ 44.91 (three times) | ATF | TTB.
§ 44.92 (three times) | ATF | TTB.
§ 44.93 (two times) | ATF | TTB.
§ 44.104 | ATF | TTB.
§ 44.105 | ATF | TTB.
§ 44.106 | ATF | TTB.
§ 44.112 | ATF | TTB.
§ 44.121(b) | ATF | TTB.
§ 44.123 | ATF | TTB.
§ 44.124 (three times) | ATF | TTB.
§ 44.125 (two times) | ATF | TTB.
§ 44.127 | ATF | TTB.
§ 44.129(a) (two times) | ATF | TTB.
§ 44.142(e) | ATF | TTB.
§ 44.143(a) | ATF | TTB.
§ 44.143(b) (two times) | ATF | TTB.
§ 44.145 | ATF | TTB.
§ 44.147 | ATF | TTB.
§ 44.150 | ATF | TTB.
§ 44.152 (six times) | ATF | TTB.
§ 44.153 | ATF | TTB.
§ 44.154 (three times) | ATF | TTB.
§ 44.161 (two times) | ATF | TTB.
§ 44.162 (three times) | ATF | TTB.
§ 44.162 | Director | Administrator.
§ 44.184 (three times) | ATF | TTB.
§ 44.199 (two times) | ATF | TTB.
§ 44.200 | ATF | TTB.
§ 44.201 (two times) | ATF | TTB.
§ 44.202 | ATF | TTB.
§ 44.203 | ATF | TTB.
§ 44.204 | ATF | TTB.
§ 44.205(b)(3) | ATF | TTB.
§ 44.206 | ATF | TTB.
§ 44.207 | ATF | TTB.
§ 44.207a | ATF | TTB.
§ 44.208 | ATF | TTB.
§ 44.209 | ATF | TTB.
§ 44.210 (five times) | ATF | TTB.
§ 44.212 | ATF | TTB.
§ 44.213 (five times) | ATF | TTB.
§ 44.222 (three times) | ATF | TTB.
§ 44.223 (two times) | ATF | TTB.
§ 44.224, section heading | ATF | TTB.
§ 44.224(a) (three times) | ATF | TTB.
§ 44.224(b) | ATF | TTB.
§ 44.224(d), paragraph heading | ATF | TTB.
§ 44.224(d) (three times) | ATF | TTB.
§ 44.224(e) (two times) | ATF | TTB.
§ 44.225 (two times) | ATF | TTB.
§ 44.226 (two times) | ATF | TTB.
§ 44.227 | ATF | TTB.
§ 44.228 (two times) | ATF | TTB.
§ 44.229 | ATF | TTB.
§ 44.230 | ATF | TTB.
§ 44.231 (two times) | ATF | TTB.
§ 44.232 (two times) | ATF | TTB.
§ 44.242 (two times) | ATF | TTB.
§ 44.244 | ATF | TTB.
§ 44.245 (three times) | ATF | TTB.
§ 44.246 (two times) | ATF | TTB.
§ 44.257 (two times) | ATF | TTB.
§ 44.258 | ATF | TTB.
§ 44.259 | ATF | TTB.
§ 44.260 | ATF | TTB.
§ 44.261 | ATF | TTB.
§ 44.262 | ATF | TTB.
§ 44.263 | ATF | TTB.
§ 44.264 | ATF | TTB.
§ 44.264a | ATF | TTB.
§ 44.265 | ATF | TTB.
§ 44.266 | ATF | TTB.
§ 44.267 (two times) | ATF | TTB.

PART 45—REMOVAL OF TOBACCO PRODUCTS AND CIGARETTE PAPERS AND TUBES, WITHOUT PAYMENT OF TAX, FOR USE OF THE UNITED STATES

142. The authority citation for part 45 continues to read as follows:

Authority: 26 U.S.C. 5703, 5704, 5705, 5723, 5741, 5751, 5762, 5763, 6313, 7212, 7342, 7606, 7805, 44 U.S.C. 3504(h).

143. Amend § 45.11 as follows:

a. Remove the definition of “Appropriate ATF officer”.

b. Add, in alphabetical order, definitions of “Administrator” and “Appropriate TTB officer” to read as follows:.

§ 45.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.45, Delegation of the Administrator's Authorities in 27 CFR Part 45, Removal of Tobacco Products and Cigarette Papers and Tubes, Without Payment of Tax, for Use of the United States.

* * * * *

§§ 45.21, 45.22, 45.23, and 45.24 [Amended]

144. Amend the above listed sections as follows:

Amend: | by removing: | and replacing it with:
§ 45.21, introductory text | ATF | TTB.
§ 45.21, introductory text | Director | appropriate TTB officer.
§ 45.21, concluding text (four times) | ATF | TTB.
§ 45.22, introductory text | ATF | TTB.
§ 45.22, concluding text (three times) | ATF | TTB.
§ 45.23, section heading | ATF | TTB.
§ 45.23 (three times) | ATF | TTB.
§ 45.24 | ATF | TTB.

145. Revise § 45.26 to read as follows:

§ 45.26 Delegations of the Administrator.

The regulatory authorities of the Administrator contained in this part are delegated to appropriate TTB officers. These TTB officers are specified in TTB Order 1135.45, Delegation of the Administrator's Authorities in 27 CFR Part 45, Removal of Tobacco Products and Cigarette Papers and Tubes, Without Payment of Tax, for Use of the United States. You may obtain a copy of this order by accessing the TTB Web site (http://www.ttb.gov) or by mailing a request to the Alcohol and Tobacco Tax and Trade Bureau, National Revenue Center, 550 Main Street, Room 1516, Cincinnati, OH 45202.

146. Amend § 45.27 as follows:

a. In paragraph (a) remove the reference to “ATF” and add, in its place, a reference to “TTB”.

b. Revise paragraph (b) to read as follows:

§ 45.27 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

§§ 45.34, 45.36, 45.42, and 45.51 [Amended]

147. Amend the above listed sections as follows:

Amend: | by removing: | and replacing it with:
§ 45.34 | ATF | TTB.
§ 45.36 | ATF | TTB.
§ 45.42 (three times) | ATF | TTB.
§ 45.51(d) | ATF | TTB.

PART 46—MISCELLANEOUS REGULATIONS RELATING TO TOBACCO PRODUCTS AND CIGARETTE PAPERS AND TUBES

148. The authority citation for part 46 continues to read as follows:

Authority: 18 U.S.C. 2341-2346, 26 U.S.C. 5704, 5708, 5751, 5754, 5761-5763, 6001, 6601, 6621, 6622, 7212, 7342, 7602, 7606, 7805; 44 U.S.C. 3504(h), 49 U.S.C. 782, unless otherwise noted.

§ 46.2 [Amended]

149. Amend § 46.2 as follows:

a. Remove the definition of “Director”.

b. Add, in alphabetical order, definitions of “Administrator” and “Appropriate TTB officer” to read as follows:

§ 46.2 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.46, Delegation of the Administrator's Authorities in 27 CFR Part 46, Miscellaneous Regulations Relating to Tobacco Products and Cigarette Papers and Tubes.

* * * * *

§§ 46.5, 46.6, 46.7, 46.8, 46.10, 46.11, 46.13, 46.14, and 46.15 [Amended]

150. Amend the above listed sections as follows:

Amend: | by removing: | and replacing it with:
§ 46.5(c) | ATF | TTB.
§ 46.6(c) | ATF | TTB.
§ 46.7 | ATF | TTB.
§ 46.8, concluding text | ATF | TTB.
§ 46.10 | ATF | TTB.
§ 46.11(b) | ATF | TTB.
§ 46.13 | ATF | TTB.
§ 46.14 (two times) | ATF | TTB.
§ 46.15 (two times) | ATF | TTB.

151. Revise § 46.21 to read as follows:

§ 46.21 Delegations of the Administrator.

The regulatory authorities of the Administrator contained in this part are delegated to appropriate TTB officers. These TTB officers are specified in TTB Order 1135.46, Delegation of the Administrator's Authorities in 27 CFR Part 46, Miscellaneous Regulations Relating to Tobacco Products and Cigarette Papers and Tubes. You may obtain a copy of this order by accessing the TTB Web site (http://www.ttb.gov) or by mailing a request to the Alcohol and Tobacco Tax and Trade Bureau, National Revenue Center, 550 Main Street, Room 1516, Cincinnati, OH 45202.

152. Amend § 46.22 as follows:

a. In paragraph (a) remove the reference to “ATF” and add, in its place, a reference to “TTB”.

b. Revise paragraph (b) to read as follows:

§ 46.22 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

153. Amend § 46.72 by removing the definition of “Appropriate ATF officer” and adding, in its place, a definition of “Appropriate TTB officer” to read as follows:

§ 46.72 Meaning of terms.

* * * * *

Appropriate TTB officer. An officer or employee of the Alcohol and Tobacco Tax and Trade Bureau (TTB) authorized to perform any functions relating to the administration or enforcement of this part by TTB Order 1135.46, Delegation of the Administrator's Authorities in 27 CFR Part 46, Miscellaneous Regulations Relating to Tobacco Products and Cigarette Papers and Tubes.

* * * * *

§§ 46.73, 46.74, 46.77, 46.78 and 46.79 [Amended]

154. Amend the above listed sections as follows:

Amend: | by removing: | and replacing it with:
§ 46.73 | ATF | TTB.
§ 46.74 | ATF | TTB.
§ 46.77 | ATF | TTB.
§ 46.78, section heading | ATF | TTB.
§ 46.78 | ATF | TTB.
§ 46.79 (four times) | ATF | TTB.

155. Amend § 46.163 by removing the definition of “Appropriate ATF officer” and adding, in its place, a definition of “Appropriate TTB officer” to read as follows:

§ 46.163 Meaning of terms.

* * * * *

Appropriate TTB officer. An officer or employee of the Alcohol and Tobacco Tax and Trade Bureau (TTB) authorized to perform any functions relating to the administration or enforcement of this part by TTB Order 1135.46, Delegation of the Administrator's Authorities in 27 CFR Part 46, Miscellaneous Regulations Relating to Tobacco Products and Cigarette Papers and Tubes.

* * * * *

§§ 46.164 and 46.165 [Amended]

156. Amend the above listed sections as follows:

Amend: | by removing: | and replacing it with:
§ 46.164, section heading | ATF | TTB.
§ 46.164 (four times) | ATF | TTB.
§ 46.165 | ATF | TTB.

157. Amend § 46.192 by revising paragraph (a) to read as follows:

§ 46.192 Terms used in this subpart.

(a) Appropriate TTB officer. An officer or employee of the Alcohol and Tobacco Tax and Trade Bureau (TTB) authorized to perform any functions relating to the administration or enforcement of this part by TTB Order 1135.46, Delegation of the Administrator's Authorities in 27 CFR 46, Miscellaneous Regulations Relating to Tobacco Products and Cigarette Papers and Tubes.

* * * * *

§ 46.210 [Amended]

158. Amend § 46.210 by removing the reference to “ATF” and adding, in its place, a reference to “TTB”.

159. Revise § 46.231 to read as follows:

§ 46.231 How to obtain a tax return.

Form 5000.28T, Floor Stocks Tax Return for Cigarettes, is available for printing through the TTB Web site (http://www.ttb.gov) or by mailing a request to the Alcohol and Tobacco Tax and Trade Bureau, National Revenue Center, 550 Main Street, Room 1516, Cincinnati, OH 45202.

160. Revise § 46.233 to read as follows:

§ 46.233 How to pay.

(a) Check or money order. Your payment must be in the form of a check or money order and sent with Form 5000.28T unless you are required to file by electronic fund transfer as described in paragraph (b) of this section.

(b) Electronic fund transfer. If you pay any other excise taxes collected by TTB by electronic fund transfer, then you must also send your payment for this floor stocks tax by an electronic fund transfer. Publication 5000.10, Payment by Electronic Funds Transfer, specifies how to make an electronic fund transfer. Publication 5000.10 is available for printing through the TTB Web site (http://www.ttb.gov) or by mailing a request to the Alcohol and Tobacco Tax and Trade Bureau, National Revenue Center, 550 Main Street, Room 1516, Cincinnati, OH 45202.

§§ 46.242, 46.244, 46.251, 46.253, 46.262, 46.264, 46.271, 46.272, 46.273,and 46.274 [Amended]

161. Amend the above listed sections as follows:

Amend: | by removing: | and replacing it with:
§ 46.242 | ATF | TTB.
§ 46.244 | ATF | TTB.
§ 46.251 | ATF | TTB.
§ 46.253 | ATF | TTB.
§ 46.262 | ATF | the appropriate TTB officer.
§ 46.264 | ATF | the appropriate TTB officer.
Undesignated center heading between §§ 46.264 and 46.270 | ATF Authorities | TTB Authorities.
§ 46.271 (two times) | ATF | TTB.
§ 46.272, introductory text (two times) | ATF | TTB.
§ 46.273 (two times) | ATF | TTB.
§ 46.274 | ATF | TTB.

PART 53—MANUFACTURERS EXCISE TAXES—FIREARMS AND AMMUNITION

162. The authority citation for part 53 continues to read as follows:

Authority: 26 U.S.C. 4181, 4182, 4216-4219, 4221-4223, 4225, 6001, 6011, 6020, 6021, 6061, 6071, 6081, 6091, 6101-6104, 6109, 6151, 6155, 6161, 6301-6303, 6311, 6402, 6404, 6416, 7502.

163. Revise § 53.3 to read as follows:

§ 53.3 Exemption certificates.

Several provisions of this part, relating to sales exempt from manufacturers excise tax, require the manufacturer to obtain an exemption certificate from the purchaser to substantiate the exempt character of the sale. Any form of exemption certificate will be acceptable if it includes all the information required by the provisions of this part. These certificates are available as preprinted documents, which may be ordered by mailing a request to the Alcohol and Tobacco Tax and Trade Bureau, National Revenue Center, 550 Main Street, Room 1516, Cincinnati, OH 45202. The preprinted certificates may be reproduced as needed.

164. Amend § 53.11 as follows:

a. Remove the definitions of “Appropriate ATF officer” and “Director”.

b. Add, in alphabetical order, definitions of “Administrator” and “Appropriate TTB officer” to read as follows:

§ 53.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.53, Delegation of the Administrator's Authorities in 27 CFR Part 53, Manufacturers Excise Taxes—Firearms and Ammunition.

* * * * *

165. Revise § 53.20 to read as follows:

§ 53.20 Delegations of the Administrator.

The regulatory authorities of the Administrator contained in this part are delegated to appropriate TTB officers. These TTB officers are specified in TTB Order 1135.53, Delegation of the Administrator's Authorities in 27 CFR Part 53, Manufacturers Excise Taxes—Firearms and Ammunition. You may obtain a copy of this order by accessing the TTB Web site (http://www.ttb.gov) or by mailing a request to the Alcohol and Tobacco Tax and Trade Bureau, National Revenue Center, 550 Main Street, Room 1516, Cincinnati, OH 45202.

166. Amend § 53.21 as follows:

a. In paragraph (a) remove the reference to “ATF” and add, in its place, a reference to “TTB”.

b. Revise paragraph (b) to read as follows:

§ 53.21 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

* * * * *

§§ 53.22, 53.23, 53.24, 53.92, 53.96, 53.115, 53.132, 53.133, 53.134, 53.135, 53.140, 53.142, 53.151, 53.152, 53.154, 53.155, 53.156, 53.157, 53.158, 53.159, 53.171, 53.172, 53.179, 53.186, and 53.187 [Amended]

167. Amend the above listed sections as follows:

Amend: | by removing: | and replacing it with:
§ 53.22(a)(3) | ATF | TTB.
§ 53.22(b) | ATF | TTB.
§ 53.23(a), introductory text | ATF | TTB.
§ 53.23(a), introductory text | Director | appropriate TTB officer.
§ 53.23(b) (two times) | ATF | TTB.
§ 53.24(a)(1) | ATF | TTB.
§ 53.24(d)(1) | ATF | TTB.
§ 53.92(b)(2) | ATF | TTB.
§ 53.96(b)(4) | ATF | TTB.
§ 53.115(b) | ATF | TTB.
§ 53.132(c)(2)(i)(E) | ATF | TTB.
§ 53.132(c)(2)(ii) | ATF | TTB.
§ 53.132(c)(2)(iii), paragraph heading | ATF | TTB.
§ 53.132(c)(2)(iii) (two times) | ATF | TTB.
§ 53.132(c)(2)(iii) | is available from the Bureau's Distribution Center which | which is available as provided in § 53.21(b).
§ 53.133(d)(2)(vi) | ATF | TTB.
§ 53.133(d)(3) | ATF | TTB.
§ 53.133(d)(4), paragraph heading | ATF | TTB.
§ 53.133(d)(4) (two times) | ATF | TTB.
§ 53.133(d)(4) | is available from the Bureau's Distribution Center which | which is available as provided in § 53.21(b).
§ 53.134(d)(2)(ii) | ATF | TTB.
§ 53.134(d)(2)(iv), paragraph heading | ATF | TTB.
§ 53.134(d)(2)(iv) (two times) | ATF | TTB.
§ 53.134(d)(2)(iv) | is available from the Bureau's Distribution Center which | which is available as provided in § 53.21(b).
§ 53,135(c)(3), paragraph heading | ATF | TTB.
§ 53.135(c)(3) (two times) | ATF | TTB.
§ 53.135(c)(3) | is available from the Bureau's Distribution Center which | which is available as provided in § 53.21(b).
§ 53.140(b) (three times) | ATF | TTB.
§ 53.142(a), introductory text | ATF | TTB.
§ 53.151(a)(1) | ATF | TTB.
§ 53.151(a)(2) (four times) | ATF | TTB.
§ 53.151(a)(3) | ATF | TTB.
§ 53.151(b)(1) (four times) | ATF | TTB.
§ 53.151(b)(2) | ATF | TTB.
§ 53.152(a) (two times) | ATF | TTB.
§ 53.154(a) (two times) | ATF | TTB.
§ 53.154(b) | ATF | TTB.
§ 53.155(a) | ATF | TTB.
§ 53.155(b) | ATF | TTB.
§ 53.156(a)(1) | ATF | TTB.
§ 53.156(c) | ATF | TTB.
§ 53.157(a) (two times) | ATF | TTB.
§ 53.157(b)(1) (two times) | ATF | TTB.
§ 53.157(b)(2)(i)(A) | ATF | TTB.
§ 53.157(b)(2)(ii)(A) | ATF | TTB.
§ 53.157(b)(2)(iii)(A) | ATF | TTB.
§ 53.157(b)(2)(iv)(B) | ATF | TTB.
§ 53.157(c) (two times) | ATF | TTB.
§ 53.157(d)(3) | ATF | TTB.
§ 53.157(e)(1) (seven times) | ATF | TTB.
§ 53.157(e)(4) | may be obtained by applying for them with the ATF Distribution Center, 7943 Angus Court, Springfield, Virginia 22153 | are available as provided in § 53.21(b).
§ 53.157(f)(1) | ATF | TTB.
§ 53.157(f)(2) | ATF | TTB.
§ 53.158(b)(1) A | TF | TTB.
§ 53.158(b)(3) | ATF | TTB.
§ 53.158(c)(1) | ATF | TTB.
§ 53.158(e) (two times) | ATF | TTB.
§ 53.159(b)(1) | ATF | TTB.
§ 53.159(c)(3), introductory text | ATF | TTB.
§ 53.159(c)(6), introductory text | ATF | TTB.
§ 53.159(d)(1) | ATF | TTB.
§ 53.159(d)(2) | ATF | TTB.
§ 53.159(g) (two times) | ATF Form 5300.27 | Form 5300.27.
§ 53.159(g) (two times) | ATF Form 5300.26 | Form 5300.26.
§ 53.159(g) | ATF Procedure 92-1 | Procedure 92-1.
§ 53.159(g) | ATF officer | TTB officer.
§ 53.159(i) | Copies of the Federal Firearms andAmmunition Excise Tax Deposit form may be obtained by request from the ATF Distribution Center, P.O.Box 5950, Springfield, Virginia 22153-5950 | Copies of the Federal Firearms and Ammunition Excise Tax Deposit form are available as provided in § 53.21(b).
§ 53.159(j)(1) | ATF | TTB.
§ 53.159(j)(2) | ATF | TTB.
§ 53.159(k), Example 1, paragraph (1) | ATF | TTB.
§ 53.171 | ATF | TTB.
§ 53.172(a)(3)(ii)(A) (two times) | ATF | TTB.
§ 53.172(a)(3)(ii)(B) | ATF | TTB.
§ 53.172(b)(2)(iii) | ATF | TTB.
§ 53.179(b)(1)(iv), paragraph heading | ATF | TTB.
§ 53.179(b)(1)(iv) | ATF | TTB.
§ 53.179(b)(1)(iv) | is available from the Bureau's Distribution Center which | which is available as provided in § 53.21(b).
§ 53.186(a), introductory text (two times) | ATF | TTB.
§ 53.186(a)(4) (two times) | ATF | TTB.
§ 53.187(a) | ATF | TTB.

PART 70—PROCEDURE AND ADMINISTRATION

168. The authority citation for part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§ 70.1 [Amended]

169. Amend § 70.1 as follows:

a. In the introductory text of paragraph (a) remove the words “Bureau of Alcohol, Tobacco and Firearms” and add, in their place, the words “Alcohol and Tobacco Tax and Trade Bureau”.

b. In paragraph (a)(1) remove the reference to “ATF” and add, in its place, a reference to “TTB”.

170. Amend § 70.2 as follows:

a. In paragraph (a) remove the reference to “ATF” and add, in its place, a reference to “TTB”.

b. Revise paragraph (b) to read as follows:

§ 70.2 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

171. Revise the heading and text of § 70.3 to read as follows:

§ 70.3 Delegations of the Administrator.

Most of the regulatory authorities of the Administrator contained in this part are delegated to appropriate TTB officers. These TTB officers are specified in TTB Order 1135.70, Delegation of the Administrator's Authorities in 27 CFR Part 70, Procedure and Administration. You may obtain a copy of this order by accessing the TTB Web site ( http://www.ttb.gov) or by mailing a request to the Alcohol and Tobacco Tax and Trade Bureau, National Revenue Center, 550 Main Street, Room 1516, Cincinnati, OH 45202.

172. Amend § 70.11 as follows:

a. Remove the definitions of “Appropriate ATF officer” and “Director”.

b. Revise the definition of “Bureau”.

c. Add, in alphabetical order, definitions of “Administrator” and “Appropriate TTB officer” to read as follows:

§ 70.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.70, Delegation of the Administrator's Authorities in 27 CFR Part 70, Procedure and Administration.

Bureau. The Alcohol and Tobacco Tax and Trade Bureau, Department of the Treasury, Washington, DC.

* * * * *

§§ 70.21, 70.22, 70.23, 70.24, 70.25, 70.26, 70.30, 70.31, 70.32, 70.33, 70.34, 70.40, 70.41, 70.42, 70.51, 70.61, 70.63, 70.64, 70.71, 70.72, 70.73, 70.74, 70.75, 70.76, 70.77, 70.81, 70.82, 70.92, 70.94, 70.95, 70.96, 70.97, 70.98, 70.100, 70.101, 70.113, 70.122, 70.123, 70.124, 70.125, 70.126, 70.144, 70.148, 70.149, 70.150, 70.151, 70.161, 70.162, 70.163, 70.164, 70.165, 70.167, 70.168, 70.169, 70.170, 70.181, 70.182, 70.183, 70.184, 70.185, 70.186, 70.187, 70.188, 70.191, 70.192, 70.204, 70.205, 70.206, 70.213, 70.222, 70.223, 70.224, 70.227, 70.231, 70.241, 70.242, 70.245, 70.251, 70.253, 70.263, 70.271, 70.281, 70.301, 70.303, 70.304, 70.306, 70.311, 70.321, 70.332, 70.333, 70.411, 70.412, 70.413, 70.414, 70.416, 70.418, 70.419, 70.432, 70.433, 70.435, 70.447, 70.450, 70.471, 70.481, 70.482, 70.483, 70.484, 70.485, 70.486, 70.504, 70.506, 70.507, 70.602, 70.606, 70.608, 70.609, 70.701, 70.702, 70.801, 70.802, and 70.803 [Amended]

173. Amend the above listed sections as follows:

Amend: | by removing: | and replacing it with:
§ 70.21 (two times) | ATF | TTB.
§ 70.22(a) | ATF | TTB.
§ 70.22(b) (three times) | ATF | TTB.
§ 70.23(b) | ATF | TTB.
§ 70.24(b) | ATF | TTB.
§ 70.25(a)(4) | ATF | TTB.
§ 70.26(c)(2)(ii), introductory text | Director | appropriate TTB officer.
§ 70.26(c)(2)(ii)(B) | ATF | TTB.
§ 70.30(a) | ATF | TTB.
§ 70.30(b) | ATF | TTB.
§ 70.31(a) | ATF | TTB.
§ 70.31(b) (two times) | ATF | TTB.
§ 70.31(c) (two times) | ATF | TTB.
§ 70.32 | ATF | TTB.
§ 70.33, introductory text | ATF | TTB.
§ 70.34, section heading | ATF | TTB.
§ 70.34 (three times) | ATF | TTB.
§ 70.40 | ATF | TTB.
§ 70.41(a) | ATF | TTB.
§ 70.41(c) (two times) | ATF | TTB.
§ 70.41(d) | ATF | TTB.
§ 70.41(f) (two times) | ATF | TTB.
§ 70.42, section heading | ATF | TTB.
§ 70.42(a)(1) (two times) | ATF | TTB.
§ 70.42(b)(1) | ATF | TTB.
§ 70.42(b)(2) | ATF | TTB.
§ 70.42(c)(1) | ATF | TTB.
§ 70.51 | ATF | TTB.
§ 70.61(a)(1)(i), introductory text (two times) | ATF | TTB.
§ 70.61(a)(1)(i), introductory text | Bureau of Alcohol, Tobacco and Firearms | Alcohol and Tobacco Tax and Trade Bureau.
§ 70.61(a)(1)(i)(C) | ATF | TTB.
§ 70.61(a)(1)(i)(D) | ATF | TTB.
§ 70.61(a)(2) (two times) | ATF | TTB.
§ 70.61(a)(3) | ATF | TTB.
§ 70.63(a) (two times) | ATF | TTB.
§ 70.63(b)(1) | ATF | TTB.
§ 70.64 (two times) | ATF | TTB.
§ 70.71, introductory text (three times) | ATF | TTB.
§ 70.71(a) (two times) | ATF | TTB.
§ 70.71(b)(1)(ii) (four times) | ATF | TTB.
§ 70.71(b)(2) (two times) | ATF | TTB.
§ 70.72 (two times) | ATF | TTB.
§ 70.73 | ATF | TTB.
§ 70.74(b) | ATF | TTB.
§ 70.74(b) | proper regional director (compliance) or with the Chief, Tax Processing Center | appropriate TTB officer
§ 70.74(c)(1) | ATF | TTB.
§ 70.74(c)(2) | ATF | TTB.
§ 70.75(a), introductory text three times) | ATF | TTB.
§ 70.75(b) | ATF | TTB.
§ 70.75(c) | ATF | TTB.
§ 70.76(a) (two times) | ATF | TTB.
§ 70.76(b)(3) | ATF | TTB.
§ 70.76(c) | ATF | TTB.
§ 70.76(d) | ATF | TTB.
§ 70.77(a)(1) | ATF | TTB.
§ 70.77(a)(2) | ATF | TTB.
§ 70.77(b)(1) | ATF | TTB.
§ 70.77(b)(2) | ATF | TTB.
§ 70.81(a) | ATF | TTB.
§ 70.82 | ATF | TTB.
§ 70.92(c) | ATF | TTB.
§ 70.92(d)(2)(i) | ATF | TTB.
§ 70.94(a) | ATF | TTB.
§ 70.95 | Bureau of Alcohol, Tobacco and Firearms | Alcohol and Tobacco Tax and Trade Bureau.
§ 70.96(a)(1)(iv) | ATF | TTB.
§ 70.96(a)(2) | ATF | TTB.
§ 70.96(a)(3) | ATF | TTB.
§ 70.96(c) (three times) | ATF | TTB.
§ 70.97(c)(2) | regional director(s) (compliance) or the Chief, Tax Processing Center | appropriate TTB officer.
§ 70.98(b) (two times) | ATF | TTB.
§ 70.100 | ATF | TTB.
§ 70.101 | ATF | TTB.
§ 70.113(b) | ATF | TTB.
§ 70.122 (two times) | ATF | TTB.
§ 70.123(a)(2) | ATF | TTB.
§ 70.123(b)(1) | ATF | TTB.
§ 70.123(b)(2) | ATF | TTB.
§ 70.124 (three times) | ATF | TTB.
§ 70.125(a) | ATF | TTB.
§ 70.125(b) (two times) | ATF | TTB.
§ 70.125(c) | ATF | TTB.
§ 70.126 | ATF | TTB.
§ 70.144(c) | ATF | TTB.
§ 70.148(c)(1) | ATF | TTB.
§ 70.148(c)(2), paragraph heading | ATF | TTB.
§ 70.148(c)(2) (four times) | ATF | TTB.
§ 70.149(a)(3), introductory text (two times) | ATF | TTB.
§ 70.149(b)(2)(i)(A) | ATF | TTB.
§ 70.150(a), introductory text (two times) | ATF | TTB.
§ 70.150(a)(1) (two times) | ATF | TTB.
§ 70.150(a)(2) (two times) | ATF | TTB.
§ 70.150(b)(1) | ATF | TTB.
§ 70.150(b)(2)(i) (two times) | ATF | TTB.
§ 70.150(b)(2)(ii) | ATF | TTB.
§ 70.150(b)(2)(iii) (two times) | ATF | TTB.
§ 70.150(b)(3) (two times) | ATF | TTB.
§ 70.150(b)(4) (two times) | ATF | TTB.
§ 70.150(c)(1) (four times) | ATF | TTB.
§ 70.150(c)(2) (two times) | ATF | TTB.
§ 70.150(c)(3) (two times) | ATF | TTB.
§ 70.150(d) (four times) | ATF | TTB.
§ 70.150(e)(1), introductory text | ATF | TTB.
§ 70.150(e)(2)(i), introductory text | ATF | TTB.
§ 70.150(e)(2)(i)(B) | ATF | TTB.
§ 70.151(f)(1) | A Bureau of Alcohol, Tobacco and Firearms | An Alcohol and Tobacco Tax and Trade Bureau.
§ 70.151(f)(2) | Bureau of Alcohol, Tobacco and Firearms | Alcohol and Tobacco Tax and Trade Bureau.
§ 70.151(g) | ATF | TTB.
§ 70.161(a)(1) (four times) | ATF | TTB.
§ 70.161(a)(2) | ATF | TTB.
§ 70.161(a)(4)(i)(B) | ATF | TTB.
§ 70.161(b) | ATF | TTB.
§ 70.161(c) (three times) | ATF | TTB.
§ 70.162(a) | ATF | TTB.
§ 70.162(b) | ATF | TTB.
§ 70.163(a)(2)(ii), introductory text | ATF | TTB.
§ 70.163(b)(1) | ATF | TTB.
§ 70.163(c) | ATF | TTB.
§ 70.164(b)(1), introductory text | ATF | TTB.
§ 70.164(c) (three times) | ATF | TTB.
§ 70.165 | ATF | TTB.
§ 70.167(a)(1) (three times) | ATF | TTB.
§ 70.167(a)(2)(i), introductory text | ATF | TTB.
§ 70.167(a)(2)(i)(C) | ATF | TTB.
§ 70.167(a)(2)(i)(D) | ATF | TTB.
§ 70.167(a)(2)(ii) | ATF | TTB.
§ 70.167(a)(3), introductory text | ATF | TTB.
§ 70.167(a)(3)(i) | ATF | TTB.
§ 70.167(a)(3)(ii) | ATF | TTB.
§ 70.167(a)(3)(iii) (two times) |  | TTB.
§ 70.167(a)(3)(iv) (two times) | ATF | TTB.
§ 70.167(a)(4) | ATF | TTB.
§ 70.167(b)(1), introductory text (two times) | ATF | TTB.
§ 70.167(b)(1)(ii) | ATF | TTB.
§ 70.167(b)(1), concluding text | ATF | TTB.
§ 70.167(b)(2)(iv) | ATF | TTB.
§ 70.168(a) (two times) | ATF | TTB.
§ 70.168(b)(2) | ATF | TTB.
§ 70.168(c) (two times) | ATF | TTB.
§ 70.169 (two times) | ATF | TTB.
§ 70.170(b) | ATF | TTB.
§ 70.181(a) (two times) | ATF | TTB.
§ 70.181(b)(1) (two times) | ATF | TTB.
§ 70.181(b)(2) (two times) | ATF | TTB.
§ 70.181(c)(1)(i) (two times) | ATF | TTB.
§ 70.181(c)(1)(ii) (two times) | ATF | TTB.
§ 70.181(c)(2) (two times) | ATF | TTB.
§ 70.181(c)(3)(i), introductory text | ATF | TTB.
§ 70.181(c)(3)(i), concluding text | ATF | TTB.
§ 70.181(c)(3)(ii) | ATF | TTB.
§ 70.181(c)(4)(i) | ATF | TTB.
§ 70.181(c)(4)(ii), concluding text | ATF | TTB.
§ 70.181(c)(4)(iii) | ATF | TTB.
§ 70.181(c)(4)(iv), introductory text | ATF | TTB.
§ 70.181(c)(5), introductory text | ATF | TTB.
§ 70.181(c)(5)(ii)(B) | ATF | TTB.
§ 70.181(c)(8) (two times) | ATF | TTB.
§ 70.182(a)(1) (three times) | ATF | TTB.
§ 70.182(a)(2)(i) (two times) | ATF | TTB.
§ 70.182(a)(3) (two times) | ATF | TTB.
§ 70.182(a)(4), introductory text | ATF | TTB.
§ 70.182(a)(6)(ii) | ATF | TTB.
§ 70.182(b) | ATF | TTB.
§ 70.183(a) | ATF | TTB.
§ 70.183(b), introductory text | ATF | TTB.
§ 70.183(b)(2) (two times) | ATF | TTB.
§ 70.183(b)(3) | ATF | TTB.
§ 70.183(b)(6) (two times) | ATF | TTB.
§ 70.183(b)(7), introductory text | ATF | TTB.
§ 70.183(b)(9)(ii) | ATF | TTB.
§ 70.183(b)(11) | ATF | TTB.
§ 70.183(c) | ATF | TTB.
§ 70.183(d) | ATF | TTB.
§ 70.183(e) | ATF | TTB.
§ 70.183(f), paragraph heading | ATF | TTB.
§ 70.183(f) (three times) | ATF | TTB.
§ 70.184(a) (two times) | ATF | TTB.
§ 70.184(b), introductory text (four times) | ATF | TTB.
§ 70.184(b)(1) | ATF | TTB.
§ 70.184(b)(2) | ATF | TTB.
§ 70.184(c), introductory text | ATF | TTB.
§ 70.184(c)(1) (two times) | ATF | TTB.
§ 70.185(a) | ATF | TTB.
§ 70.185(b) | ATF | TTB.
§ 70.185(c) | ATF | TTB.
§ 70.186(b)(2) | ATF | TTB.
§ 70.186(c) | ATF | TTB.
§ 70.187(a) (two times) | ATF | TTB.
§ 70.187(b) | ATF | TTB.
§ 70.188 (two times) | ATF | TTB.
§ 70.191(a) | ATF | TTB.
§ 70.191(b), introductory text (two times) | ATF | TTB.
§ 70.192(a) (two times) | ATF | TTB.
§ 70.204(a), concluding text (three times) | ATF | TTB.
§ 70.205(a)(1) | ATF | TTB.
§ 70.205(a)(2)(i) | ATF | TTB.
§ 70.205(a)(2)(ii)(C) | ATF | TTB.
§ 70.205(b)(1) (four times) | ATF | TTB.
§ 70.205(b)(2) (two times) | ATF | TTB.
§ 70.205(c)(1) (three times) | ATF | TTB.
§ 70.205(e)(1)(ii), introductory text | ATF | TTB.
§ 70.205(e)(2) (six times) | ATF | TTB.
§ 70.205(e)(3) (three times) | ATF | TTB.
§ 70.205(e)(4) (two times) | ATF | TTB.
§ 70.206(a)(1) | ATF | TTB.
§ 70.206(b)(1), introductory text | ATF | TTB.
§ 70.206(b)(3)(ii) (four times) | ATF | TTB.
§ 70.206(b)(4)(ii), introductory text | ATF | TTB.
§ 70.206(b)(4)(ii)(A) | ATF | TTB.
§ 70.206(b)(4)(ii), concluding text (two times) | ATF | TTB.
§ 70.206(b)(4)(iii) (two times) | ATF | TTB.
§ 70.206(c)(1) (three times) | ATF | TTB.
§ 70.206(c)(2) (four times) | ATF | TTB.
§ 70.206(c)(3) (two times) | ATF | TTB.
§ 70.206(c)(4) (four times) | ATF | TTB.
§ 70.213 | ATF | TTB.
§ 70.222(b), paragraph heading | ATF | TTB.
§ 70.222(b) | ATF | TTB.
§ 70.223(d) | ATF | TTB.
§ 70.224(a)(2)(i) | ATF | TTB.
§ 70.227 (two times) | ATF | TTB.
§ 70.231(i)(3) | ATF | TTB.
§ 70.241(a)(8) (four times) | ATF | TTB.
§ 70.241(b) | ATF | TTB.
§ 70.242(a) | ATF | TTB.
§ 70.242(c)(1) (four times) | ATF | TTB.
§ 70.242(c)(2) (seven times) | ATF | TTB.
§ 70.245, section heading | ATF | TTB.
§ 70.245(a) | ATF | TTB.
§ 70.245(c)(2) | ATF | TTB.
§ 70.245(c), concluding text | Chief, Tax Processing Center | appropriate TTB officer.
§ 70.245(d), paragraph heading | ATF | TTB.
§ 70.245(d)(1) | ATF | TTB.
§ 70.245(d)(2) | ATF | TTB.
§ 70.251(a)(2) | ATF | TTB.
§ 70.253(b)(2) | ATF | TTB.
§ 70.263(d) | ATF | TTB.
§ 70.271(d)(1) | ATF | TTB.
§ 70.281(b)(2), introductory text | ATF | TTB.
§ 70.281(b)(2)(vi) | ATF | TTB.
§ 70.281(b)(3)(v) | ATF | TTB.
§ 70.301(a) | ATF | TTB.
§ 70.303(a) | Director | Administrator.
§ 70.303(a) | Director's | Administrator's.
§ 70.303(b) (three times) | Director | Administrator.
§ 70.303(b) (two times) | Director's | Administrator's.
§ 70.303(c) | Director | Administrator.
§ 70.303(c) | Director's | Administrator's.
§ 70.304(a) | an ATF | a TTB.
§ 70.304(b) | an ATF supervisor | a TTB supervisor.
§ 70.304(b) | ATF office | TTB office.
§ 70.306(a) | ATF | TTB.
§ 70.306(b)(2) | an ATF | a TTB.
§ 70.311 | ATF | TTB.
§ 70.321(a), introductory text | Bureau of Alcohol, Tobacco and Firearms | Alcohol and Tobacco Tax and Trade Bureau.
§ 70.321(b) | ATF | TTB.
§ 70.332 | Director | Administrator.
§ 70.333 | ATF | TTB.
§ 70.411(b) (two times) | ATF | TTB.
§ 70.411(c), introductory text | the jurisdiction of the ATF | the jurisdiction of TTB.
§ 70.411(c), introductory text | Supplies of prescribed forms may be obtained from the ATF Distribution Center, 7943 Angus Court, Springfield, Virginia 22153 | Forms prescribed by this part are available as provided in § 70.2(b).
§ 70.411(c)(5) | Bureau of Alcohol, Tobacco and Firearms | Alcohol and Tobacco Tax and Trade Bureau.
§ 70.412(a) | ATF | TTB.
§ 70.413(a) (three times) | ATF | TTB.
§ 70.413(b) | ATF | TTB.
§ 70.414(a) (two times) | ATF | TTB.
§ 70.416 (two times) | ATF | TTB.
§ 70.418 | ATF | TTB.
§ 70.419 | ATF | TTB.
§ 70.432(a) | Bureau of Alcohol, Tobacco and Firearms | Alcohol and Tobacco Tax and Trade Bureau.
§ 70.432(b) | Bureau of Alcohol, Tobacco and Firearms | Alcohol and Tobacco Tax and Trade Bureau.
§ 70.432(c) | regional director (compliance) | appropriate TTB officer.
§ 70.433(a) (three times) | ATF | TTB.
§ 70.433(a) | regional director (compliance) | appropriate TTB officer.
§ 70.433(b) | ATF | TTB.
§ 70.435(i) | ATF | TTB.
§ 70.447 (two times) | ATF | TTB.
§ 70.481(a) (two times) | ATF | TTB.
§ 70.481(b)(2)(ii) | ATF | TTB.
§ 70.481(b)(3)(ii), introductory text | ATF | TTB.
§ 70.481(b)(4)(iii) | ATF | TTB.
§ 70.482(a), introductory text (two times) | ATF | TTB.
§ 70.482(d)(1)(i) | ATF | TTB.
§ 70.483 | ATF | TTB.
§ 70.484 (two times) | ATF | TTB.
§ 70.485(a) (two times) | ATF | TTB.
§ 70.485(d)(1) | Director | Administrator.
§ 70.486 (three times) | ATF | TTB.
§ 70.504(c)(2) | ATF | TTB.
§ 70.506 (two times) | ATF | TTB.
§ 70.507(g) | ATF | TTB.
§ 70.602(a) | ATF | TTB.
§ 70.602(b)(1), introductory text | ATF | TTB.
§ 70.606, introductory text | ATF | TTB.
§ 70.608 (two times) | ATF | TTB.
§ 70.609 (three times) | ATF | TTB.
§ 70.701(a)(1) | firearms, and explosives | and firearms
§ 70.701(a)(1) (three times) | Director | Administrator.
§ 70.701(a)(1) (two times) | ATF | TTB.
§ 70.701(a)(2) | Director | Administrator.
§ 70.701(c) | Bureau of Alcohol, Tobacco and Firearms, Washington, DC 20226 | Alcohol and Tobacco Tax and Trade Bureau, Washington, DC 20220.
§ 70.701(d)(1) | Bureau of Alcohol, Tobacco and Firearms | Alcohol and Tobacco Tax and Trade Bureau.
§ 70.701(d)(1) | Alcohol, Tobacco and Firearms (ATF) Bulletin | Alcohol and Tobacco Tax and Trade Bureau (TTB) Bulletin
§ 70.701(d)(1) | ATF Bulletin | TTB Bulletin.
§ 70.701(d)(2), paragraph heading (two times) | ATF | TTB.
§ 70.701(d)(2)(i)(A) (two times) | ATF | TTB.
§ 70.701(d)(2)(i)(B) (three times) | ATF | TTB.
§ 70.701(d)(2)(iii)(B) | ATF | TTB.
§ 70.701(d)(2)(iii)(C) (four times) | ATF | TTB.
§ 70.701(d)(2)(iii)(D) (two times) | ATF | TTB.
§ 70.701(d)(2)(iv)(A) (three times) | ATF | TTB.
§ 70.701(d)(2)(iv)(B) (four times) | ATF | TTB.
§ 70.701(d)(2)(iv)(C) (three times) | ATF | TTB.
§ 70.702(c) | Requests for forms should be mailed to the ATF Distribution Center, 7943 Angus Court, Springfield, Virginia 22153 | Forms prescribed by this part are available as provided in § 70.2(b).
§ 70.801 | Bureau of Alcohol, Tobacco and Firearms, Washington, DC 20226, (202) 927-8480 | Alcohol and Tobacco Tax and Trade Bureau, Washington, DC 20220, (202) 927-8210.
§ 70.802(c) | ATF official | TTB officer.
§ 70.802(d) | ATF officer, Bureau of Alcohol, Tobacco and Firearms, Washington, DC 20226 | TTB officer, Alcohol and Tobacco Tax and Trade Bureau, Washington, DC 20220.
§ 70.802(e) | ATF | TTB.
§ 70.802(f) | ATF officer Programs, Bureau of Alcohol, Tobacco and Firearms, Washington, DC 20226 | TTB officer, Alcohol and Tobacco Tax and Trade Bureau, Washington, DC 20220.
§ 70.802(g) | the Bureau of Alcohol, Tobacco and Firearms, Washington, DC 20226 | the Alcohol and Tobacco Tax and Trade Bureau, Washington, DC 20220.
§ 70.802(g) (two times) | Director, Bureau of Alcohol, Tobacco and Firearms, Washington, DC 20226 | appropriate TTB officer.
§ 70.803(b)(1), paragraph heading | ATF | TTB.
§ 70.803(b)(1) (two times) | ATF | TTB.
§ 70.803(b)(1) | Bureau of Alcohol, Tobacco and Firearms | Alcohol and Tobacco Tax and Trade Bureau.
§ 70.803(b)(2), paragraph heading | ATF | TTB.
§ 70.803(b)(2) | ATF records and ATF information | TTB records and TTB information.
§ 70.803(b)(2) | ATF officer | TTB officer.
§ 70.803(b)(2) | Bureau of Alcohol, Tobacco and Firearms | Alcohol and Tobacco Tax and Trade Bureau.
§ 70.803(c), paragraph heading (two times) | ATF | TTB.
§ 70.803(c) (six times) | ATF | TTB.
§ 70.803(c) | Director | Administrator.
§ 70.803(c) | Bureau of Alcohol, Tobacco and Firearms | Alcohol and Tobacco Tax and Trade Bureau.
§ 70.803(d), introductory text (three times) | ATF | TTB.
§ 70.803(d)(3) (two times) | Director | Administrator.
§ 70.803(d)(3) (six times) | ATF | TTB.
§ 70.803(e), paragraph heading | ATF | TTB.
§ 70.803(e)(1) (four times) | ATF | TTB.
§ 70.803(e)(1) | Director | Administrator.
§ 70.803(e)(2) (sixteen times) | ATF | TTB.
§ 70.803(e)(2) | Director | Administrator.
§ 70.803(e)(3) (two times) | ATF | TTB.
§ 70.803(e)(4) (two times) | ATF | TTB.
§ 70.803(e)(5), introductory text | ATF | TTB.
§ 70.803(e)(5)(iii) | ATF | TTB.
§ 70.803(e)(5)(iv) | ATF | TTB.
§ 70.803(e)(5)(vi) | ATF | TTB.
§ 70.803(f) (three times) | ATF | TTB.
§ 70.803(g) | ATF | TTB.

PART 71—RULES OF PRACTICE IN PERMIT PROCEEDINGS

174. The authority citation for part 71 continues to read as follows:

Authority: 26 U.S.C. 5271, 5181, 5713, 7805, 27 U.S.C. 204.

§ 71.1 [Amended]

175. Amend § 71.1 by removing the words “Bureau of Alcohol, Tobacco and Firearms” and adding, in their place, the words “Alcohol and Tobacco Tax and Trade Bureau”.

176. Amend § 71.3 as follows:

a. In paragraph (a) remove the word “Director” and add, in its place, the words “appropriate TTB officer”.

b. Revise paragraph (b) to read as follows:

§ 71.3 Forms prescribed.

* * * * *

(b) Forms prescribed by this part are available for printing through the TTB Web site (http://www.ttb.gov) or by mailing a request to the Alcohol and Tobacco Tax and Trade Bureau, National Revenue Center, 550 Main Street, Room 1516, Cincinnati, OH 45202.

177. Add a new § 71.4 in subpart A to read as follows:

§ 71.4 Delegations of the Administrator.

Most of the regulatory authorities of the Administrator contained in this part are delegated to appropriate TTB officers. These TTB officers are specified in TTB Order 1135.71, Delegation of the Administrator's Authorities in 27 CFR Part 71, Rules of Practice in Permit Proceedings. You may obtain a copy of this order by accessing the TTB Web site (http://www.ttb.gov) or by mailing a request to the Alcohol and Tobacco Tax and Trade Bureau, National Revenue Center, 550 Main Street, Room 1516, Cincinnati, OH 45202.

178. Amend § 71.5 as follows:

a. In the definition of “Attorney for the Government” remove the words “Director of Industry Operations” and add, in their place, the words “appropriate TTB officer”.

b. Remove the definitions of “Director” and “Director of Industry Operations.”

c. In the definition of “Initial decision” remove the words the “Director of Industry Operations” and add, in their place, the words “appropriate TTB officer”.

d. Add, in alphabetical order, definitions of “Administrator” and “Appropriate TTB officer” to read as follows:

§ 71.5 Meaning of terms.

* * * * *

Administrator. The Administrator, Alcohol and Tobacco Tax and Trade Bureau, Department of the Treasury, Washington, DC.

* * * * *

Appropriate TTB officer. An officer or employee of the Alcohol and Tobacco Tax and Trade Bureau (TTB) authorized to perform any functions relating to the administration or enforcement of this part by TTB Order 1135.71, Delegation of the Administrator's Authorities in 27 CFR Part 71, Rules of Practice in Permit Proceedings.

* * * * *

§§ 71.25, 71.26, 71.27, 71.29, 71.31, 71.35, 71.36, 71.37, 71.38, 71.45, 71.46, 71.48, 71.49, 71.49a, 71.49b, 71.55, 71.57, 71.59, 71.60, 71.61, 71.62, 71.63, 71.64, 71.65, 71.70, 71.71, 71.72, 71.73, 71.75, 71.78, 71.79, 71.80, 71.85, 71.95, 71.96, 71.97, 71.98, 71.99, 71.100, 71.105, 71.106, 71.107, 71.107a, 71.108, 71.109, 71.110, 71.115, 71.116, 71.117, 71.118, 71.126, and 71.129 [Amended]

179. Amend the above listed sections as follows:

Amend: | by removing: | and replacing it with:
§ 71.25 | director of industry operations of the region in which the business of the applicant or respondent is operated or proposed to be operated | appropriate TTB officer.
§ 71.25 | Director of Industry Operations (DIO) or Director | appropriate TTB officer. or the Administrator.
§ 71.26 | Bureau of Alcohol Tobacco and Firearms | Alcohol and Tobacco Tax and Trade Bureau
§ 71.27, section heading | director of industry operations or Director | appropriate TTB officer or Administrator.
§ 71.27 | on the director of industry operations | on the appropriate TTB officer.
§ 71.27 | director of industry operations, or on the Director | appropriate TTB the Director officer, or on the Administrator.
§ 71.29 | Director, director of industry operations, or the administrative law judge | Administrator, or the appropriate TTB officer.
§ 71.31 | practice before the Bureau of Alcohol, Tobacco and Firearms | practice before the Alcohol and Tobacco Tax and Trade Bureau.
§ 71.31 (two times) | director of industry operations | appropriate TTB officer.
§ 71.35 (three times) | director of industry operations | appropriate TTB officer.
§ 71.36 (four times) | director of industry operations | appropriate TTB officer.
§ 71.37 (three times) | director of industry operations | appropriate TTB officer.
§ 71.38 (two times) | director of industry operations | appropriate TTB officer.
§ 71.45 | director of industry operations | appropriate TTB officer.
§ 71.46 (two times) | director of industry operations | appropriate TTB officer.
§ 71.48, introductory text | director of industry operations | appropriate TTB officer.
§ 71.49 | director of industry operations | appropriate TTB officer.
§ 71.49a, introductory text | director of industry operations | appropriate TTB officer.
§ 71.49b, introductory text | director of industry operations | appropriate TTB officer.
§ 71.49b(c) | director of industry operations | appropriate TTB officer.
§ 71.55(a) | director of industry operations | appropriate TTB officer.
§ 71.57 | for the office of the director of industry operations | by the appropriate TTB officer.
§ 71.59 | director of industry operations | appropriate TTB officer.
§ 71.60(a) (two times) | director of industry operations | appropriate TTB officer.
§ 71.60(b) | director of industry operations | appropriate TTB officer.
§ 71.60(b) | Director | Administrator.
§ 71.60(c) | Director | Administrator.
§ 71.60(c) (two times) | director of industry operations | appropriate TTB officer.
§ 71.61 | director of industry operations | appropriate TTB officer.
§ 71.62 (two times) | director of industry operations | appropriate TTB officer.
§ 71.63 | district director | appropriate TTB officer.
§ 71.64(a) | director of industry operations | appropriate TTB officer.
§ 71.64(b) | director of industry operations | appropriate TTB officer.
§ 71.64(c) | director of industry operations | appropriate TTB officer.
§ 71.65 | director of industry operations | appropriate TTB officer.
§ 71.70 (four times) | director of industry operations | appropriate TTB officer.
§ 71.70 | director of industry operations' | appropriate TTB officer's.
§ 71.71 | director of industry operations | appropriate TTB officer.
§ 71.72 (three times) | director of industry operations | appropriate TTB officer.
§ 71.73 (two times) | director of industry operations | appropriate TTB officer.
§ 71.75 | director of industry operations | appropriate TTB officer.
§ 71.78 (two times) | director of industry operations | appropriate TTB officer.
§ 71.79(b) | director of industry operations | appropriate TTB officer.
§ 71.80 (two times) | director of industry operations | appropriate TTB officer.
§ 71.85 | Director, the director of industry operations | Administrator, the appropriate TTB officer.
§ 71.95 | Director | Administrator
§ 71.95 | directors of industry operations | the appropriate TTB officer.
§ 71.96 (two times) | Director | Administrator.
§ 71.97 | Bureau of Alcohol, Tobacco and Alcohol and Firearms | Tobacco Tax and Trade Bureau.
§ 71.98 | Director's | Administrator's
§ 71.98 | Bureau of Alcohol, Tobacco and Alcohol and Firearms | Tobacco Tax and Trade Bureau.
§ 71.98 | Director | Administrator.
§ 71.99 | Director report the matter | Administrator report the matter.
§ 71.100 | Director | Administrator.
§ 71.105 | director of industry operations | appropriate TTB officer.
§ 71.106 | director of industry operations | appropriate TTB officer.
§ 71.106 | regional director (compliance) | appropriate TTB officer.
Undesignated center heading between §§ 71.106 and 71.107 | Action by Director of Industry Operations | Action by the Appropriate TTB Officer.
§ 71.107 (three times) | director of industry operations | appropriate TTB officer.
§ 71.107a, section heading | Director of Industry Operations' decision | Appropriate TTB officer's decision.
§ 71.107a(a), introductory text | director of industry operations | appropriate TTB officer.
§ 71.107a(a)(2) | director of industry operations' | appropriate TTB officer's.
§ 71.107a(a)(3) | director of industry operations' | appropriate TTB officer's.
§ 71.108(a) (three times) | director of industry operations | appropriate TTB officer.
§ 71.108(a) (two times) | Director | Administrator.
§ 71.108(a) | director of industry operations' order | appropriate TTB officer's order.
§ 71.108(b) (three times) | director of industry operations | appropriate TTB officer.
§ 71.108(b) | director of industry operations' order | appropriate TTB officer's order.
§ 71.109, section heading | Director | Administrator.
§ 71.109 (two times) | director of industry operations | appropriate TTB officer.
§ 71.109 (two times) | Director | Administrator.
§ 71.110 | director of industry operations | appropriate TTB officer.
§ 71.115, section heading | Director | Administrator.
§ 71.115 (three times) | Director | Administrator.
§ 71.115 (three times) | director of industry operations | appropriate TTB officer.
§ 71.116, section heading | Director | Administrator.
§ 71.116 (four times) | Director | Administrator.
§ 71.116 (five times) | director of industry operations | appropriate TTB officer.
§ 71.117 (two times) | Director | Administrator.
§ 71.117 (two times) | director of industry operations | appropriate TTB officer.
§ 71.118 | Director's decision | Administrator's decision.
§ 71.118 | Director | Administrator.
§ 71.126 | director of industry operations | appropriate TTB officer.
§ 71.126 | Director | Administrator.
§ 71.129 | director of industry operations | appropriate TTB officer.
§ 71.129 | Director | Administrator.

Signed: March 7, 2006.
John J. Manfreda,
Administrator.
Approved: March 15, 2006.
Timothy E. Skud,
Deputy Assistant Secretary (Tax, Trade, and Tariff Policy).

[FR Doc. 06-2954 Filed 3-31-06; 8:45 am]

BILLING CODE 4810-31-P